DEPARTMENT OF STATE

Office of Protocol; Gifts to Federal Employees From Foreign Government Sources Reported to Employing Agencies in Calendar Year 2002

[Public Notice 4380]

The Department of State submits the following comprehensive listing of the statements which, as required by law, Federal employees filed with their employing agencies during calendar year 2002 concerning gifts received from foreign government sources. The compilation includes reports of both tangible gifts and gifts of travel or travel expenses of more than minimal value, as defined by statute.

Publication of this listing in the Federal Register is required by Section 7342(f) of title 5, United States Code, as added by Section 515(a)(1) of the Foreign Relations Authorization Act, Fiscal Year 1978 (Pub. L. 95-105, August 17, 1977, 91 stat. 865).

Dated: June 5, 2003.
Grant S. Green, Jr.,
Under Secretary for Management; Department of State.

AGENCY: White House Office and the National Security Council
[Report of Tangible Gifts]
Name and title of person accepting the gift on behalf of the U.S. Government | Gift, date of acceptance on behalf of the U.S. Government, estimated value, and current disposition or location | Identity of foreign donor and government | Circumstances justifying acceptance
President | Box: 7½″ x 5″ x 1½″ silver box, engraved with Greek crest and “C. Simitis” on lid. Rec'd—January 11, 2002. Est. Value—$400. Archives Foreign | His Excellency Constantine Simitis, Prime Minister of the Hellenic Republic | Non-acceptance would cause embarrassment to donor and U.S. Government.
| Photo album: 12½″ x 12″ brown vinyl album with currency displayed (Euro dollars and Greek drachmas). Rec'd—January 11, 2002. Est. Value—$854. Archives Foreign
| Komboloi: string of amber beads with tassel and silver charm engraved “GWB” on one side and “No 43” on reverse. Paperback book: “The Komboloi and Its History (5th Edition),” by Aris Evangelinos. Rec'd—January 11, 2002. Est. Value—$50. Archives Foreign
| Greek Bible: sterling silver cover with gold overlay embossed with design of Jesus on the cross and eight small stones. Rec'd—January 11, 2002. Est. Value—$400. Archives Foreign
President | Desk accessories: sterling silver and amber pen stand with silver border and outline of building; including a silver pen. Rec'd—January 14, 2002. Est. Value—$450. Archives Foreign | His Excellency Leszek Miller, Prime Minister of the Republic of Poland | Non-acceptance would cause embarrassment to donor and U.S. Government.
| Leatherbound book: “New York,” by Jerzy Habdas. Rec'd—January 14, 2002. Est. Value—$40. Archives Foreign
President | Softcover books (16): multi-volume set of the works of Turkish poet Mevlana Celaleddin; translated by Nevit O. Ergin. Leatherbound reproduction of the “Holy Koran”, hand-lettered by Ahmed Karahisari in the sixteenth century; held in a leather case. Rec'd—January 16, 2002. Est. Value—$990. Archives Foreign | His Excellency Bulent Ecevit, Prime Minister of the Republic of Turkey | Non-acceptance would cause embarrassment to donor and U.S. Government.
| Vase: 11″ stoneware vase with metal overlay and boat and cloud motif. Rec'd—January 16, 2002. Est. Value—$120. Archives Foreign
President | Artwork: 11″ x 11″ “Over the Horizon,” by Azuolas Vaitukaitis; gold-plated copper plaque etched with fields, with amber stone representing the sun; held in a black presentation case with plaque engraved to President George W. Bush. Rec'd—January 17, 2002. Est. Value—$600. Archives Foreign | His Excellency Valdas Adamkus, President of the Republic of Lithuania | Non-acceptance would cause embarrassment to donor and U.S. Government.
President | Rug: 116″ x 84″ fringed wool and silk Afghan rug with multicolored pattern on gold background. Rec'd—January 28, 2002. Est. Value—$4000. Archives Foreign | His Excellency Hamid Karzai, Chairman of the Interim Authority of Afghanistan | Non-acceptance would cause embarrassment to donor and U.S. Government.
| Plaque: 11″ x 11″ resin plaque with image of the damaged World Trade Center towers and Afghan Buddhist statues, engraved “World Terrorists Are Destroying Civilization” and “From the People of Afghanistan to the People of the United States Partners in a Common Struggle.” Rec'd—January 28, 2002. Est. Value—$150. Archives Foreign
President | Artwork: 17″ x 12″ x 9″ metal sculpture of four people in a troika. Rec'd—February 4, 2002. Est. Value—$450. Archives Foreign | His Excellency Mikhail Kasyanov, Chairman of the Government of the Russian Federation | Non-acceptance would cause embarrassment to donor and U.S. Government.
President | Rug: 83″ x 56″ multi-colored Oriental rug, primarily in blue. Rec'd—February 13, 2002. Est. Value—$2800. Archives Foreign | His Excellency Pervez Musharraf, President of the Islamic Republic of Pakistan | Non-acceptance would cause embarrassment to donor and U.S. Government.
President | Medallion: 2½″ gold medallion engraved with cherry blossoms and the front facade of the Japanese Diet building on one side, and Mount Fuji on the reverse; held in a blue velvet case. Rec'd—February 18, 2002. Est. Value—$50. Archives Foreign | The Honorable Yutaka Inoue, President of the House of Councillors | Non-acceptance would cause embarrassment to donor and U.S. Government.
| Hardcover book: “The National Diet of Japan.” Rec'd—February 18, 2002. Est. Value—$90. Archives Foreign |  |
| Box: 12½″ x 2″ black lacquer box with tree branch painted on lid, and interior lined in blue velvet. Rec'd—February 18, 2002. Est. Value, $275. Archives Foreign |  |
President | Chunma-ch'ong Gold Crown (replica): 5th-6th century Silla Dynasty, National Treasure #188. Rec'd—February 19, 2002. Est. Value—$350. Archives Foreign | His Excellency Kim Dae-jung, President of the Republic of Korea | Non-acceptance would cause embarrassment to donor and U.S. Government.
President | Hardcover book: “30 Years of Sino-US Relations,” by Xiyuan Publishing House, China Intercontinental Press; inscribed by donor, and presented in gold-colored book box. Rec'd—February 21, 2002. Est. Value—$550. Archives Foreign | His Excellency Jiang Zemin, President of the People's Republic of China | Non-acceptance would cause embarrassment to donor and U.S. Government.
| Sculpture: 12″ x 16″ x 4″ “Ma Ta Fei Yan (Horse Galloping on the Flying Swallow)”, a 24K gold-plated horse with stand, presented in wooden box. Rec'd—February 21, 2002. Est. Value—$300. Archives Foreign |  |
President | Artwork: 27″ carving of numerous connected figures, made from a single piece of ebony. Rec'd—February 26, 2002. Est. Value—$1200. Archives Foreign | His Excellency Joaquim Alberto Chissano, President of the Republic of Mozambique | Non-acceptance would cause embarrassment to donor and U.S. Government.
President | Artwork: 28″ wooden carving of a male figure carrying a knife and balancing a vessel on his head; held in a red presentation case. Rec'd—February 26, 2002. Est. Value—$1375. Archieves Foreign | His Excellency Jose Eduardo dos Santos, President of the Republic of Angola | Non-acceptance would cause embarrassment to donor and U.S. Government.
| Consumables (42) 250g bags of Cafe Ginga coffee from Angola. Rec'd—February 26, 2002. Est. Value—$336. Handled pursuant to Secret Service policy |  |
| Hardcover book: “Angola: The Future Begins Now,” published by the government of Angola. Rec'd—February 26, 2002. Est. Value—$70. Archives Foreign |  |
| Artwork: two tribal paintings on canvas; one (41″ x 33″) depicts four dancing figures and one (34″ x 27″) depicts traditional tribal musical instruments. Rec'd—February 26, 2002. Est. Value—$1350. Archives Foreign |  |
President | Box: 7″ x 7″ x 1¾″ sterling silver box lined in blue velvet and engraved in Arabic on top; held in blue velvet presentation case. Rec'd—March 5, 2002. Est. Value—$500. Archives Foreign | His Excellency Mohamed Hosny Mubarak, President of the Arab Republic of Egypt | Non-acceptance would cause embarrassment to donor and U.S. Government.
President | Clothing: traditional Uzbeck attire consisting of a multi-colored silk scarf (49″ x 49″), a collapsible 6″ black leather hat with white design, and a navy blue velvet robe with elaborate gold embroidery. Rec'd—March 12, 2002. Est. Value—$750. Archives Foreign | His Excellency Islam Karimov, President of the Republic of Uzbekistan | Non-acceptance would cause embarrassment to donor and U.S. Government.
| Tea set: brass tea set with platter, tea pot, and 6 small cups, all elaborately engraved; held in a burled walnut case (17¼″ x 13¾″ x 7″) with red velvet lining. Rec'd—March 12, 2002. Est. Value—$200. Archives Foreign
President | Bowl: 12″ Tipperary Crystal bowl, engraved with a St. Patrick's Day message from Prime Minister Ahern on behalf of the Irish people. Rec'd—March 13, 2002. Est. Value—$321. Archives Foreign | His Excellency Bertie Ahern, Prime Minister of Ireland | Non-acceptance would cause embarrassment to donor and U.S. Government.
President | Consumables: six bottles of 1990 Chateau La Lagune Haut-Medoc wine. Rec'd—March 22, 2002. Est. Value—$372. Handled pursuant to Secret Service policy | His Excellency Jacques Chirac, President of the French Republic | Non-acceptance would cause embarrassment to donor and U.S. Government.
President | Vase: Olmeca vase of sterling silver with geometric design. Rec'd—March 22, 2002. Est. Value—$300. Archives Foreign | His Excellency Vicente Fox Quesada, President of the United Mexican States | Non-acceptance would cause embarrassment to donor and U.S. Government.
President | Stirrups: pair of wooden stirrups (9″ x 9″ x 7″) with elaborate silver detail. Rec'd—March 23, 2002. Est. Value—$500. Archives Foreign | His Excellency Alejandro Toledo Manrique, President of the Republic of Peru | Non-acceptance would cause embarrassment to donor and U.S. Government.
| Eagle: elaborately wrought silver eagle (18″ x 15″) with wings spread; held in a blue velvet presentation case. Rec'd—March 23, 2002. Est. Value—$2000. Archives Foreign
| Stone: 11″ x 13″ x 2″ green stone, resembling marble and smooth on two sides with a silver plate engraved “Walking Together Towards Peace Alejandro Toledo President of Peru, March 23, 2002. Rec'd—March 23, 2002.” Est. Value—$250. Archives Foreign
President | Statue: 18″ white porcelain elephant. Rec'd—April 12, 2002. Est. Value—$400. Archives Foreign | The Honorable Dr. Edmund Stoiber, Minister-President of the Free State of Bavaria | Non-acceptance would cause embarrassment to donor and U.S. Government.
President | Glassware: four pieces of Iittala glass designed by Alvar Aalto, including 6″ and 4¾″ vases, a 3″ bowl, and a 14″ platter. Rec'd—April 16, 2002. Est. Value—$690. Archives Foreign | Her Excellency Tarja Halonen, President of Finland | Non-acceptance would cause embarrassment to donor and U.S. Government.
President | Humidor: 12½″ x 5¾″ x 9¼″ polished wood humidor with street scene painted on lid. Rec'd—April 17, 2002. Est. Value—$350. Archives Foreign | His Excellency Rafiq al-Hariri, Prime Minister of the Republic of Lebanon | Non-acceptance would cause embarrassment to donor and U.S. Government.
| Consumables: assorted pieces of tropical and dried fruit. Rec'd—April 17, 2002. Est. Value—$25. Handled pursuant to Secret Service policy
President | Dagger: 17″ knife made of 18K gold with diamonds and rubies on ivory hilt; gold scabbard is elaborately detailed with diamonds and rubies. Rec'd—April 23, 2002. Est. Value—$20000. Transferred to the Department of the Interior | His Majesty Mohammed VI, King of Morocco | Non-acceptance would cause embarrassment to donor and U.S. Government.
| Artwork: 28½″ x 41″ painting of seven figures on horseback; matted and held in a 37″ x 50″ gilt frame. Rec'd—April 23, 2002. Est. Value—$100. Archives Foreign
President | Icon: 5½″ x 7½″ painted wooden image of St. George slaying the dragon; held in a red velvet case. Rec'd—April 23, 2002. Est. Value—$300. Archives Foreign | His Excellency Simeon Saxe-Coburg-Gotha, Prime Minister of the Republic of Bulgaria | Non-acceptance would cause embarrassment to donor and U.S. Government.
| Hardcover book: “Treasures of Christian Art in Bulgaria,” edited by Valentino Pace. Rec'd—April 23, 2002. Est. Value—$50. Archives Foreign
President | Dagger: 10″ knife, with finely detailed 18K gold hilt and scabbard decorated with small diamonds; held in a green leather case with the Saudi Arabian coat of arms on lid. Rec'd—April 25, 2002. Est. Value—$3500. Archives Foreign | His Royal Highness Abdallah bin Abd al-Aziz Al Saud, Crown Prince, First Deputy Prime Minister and Commander of the National Guard of Saudi Arabia | Non-acceptance would cause embarrassment to donor and U.S. Government.
President | Vase: 11″ onion-shaped vase with blue and purple glaze and wooden stand; held in a silk-covered presentation case. Rec'd—May 1, 2002. Est. Value—$350. Archives Foreign | His Excellency Hu Jintao, Vice President of the People's Republic of china | Non-acceptance would cause embarrassment to donor and U.S. Government.
President | Saddle: leather saddle with sheepskin cover and accompanying bridle, harness and stirrups. Rec'd—May 2, 2002. Est. Value—$1250. Archives Foreign | His Excellency Jose Maria Aznar, President of the Government of Spain and Mrs. Aznar | Non-acceptance would cause embarrassment to donor and U.S. Government.
| Hardcover book: “Caballos en Espana,” by J.A. Gabriel, et al. Rec'd—May 2, 2002. Est. Value—$50. Archives Foreign
President | Vessel: 6″ silver cup with elaborate detailing and four colored stones on stem. Rec'd—May 7, 2002. Est. Value—$350. Archives Foreign | His Excellency Sher Bahadur Deuba, Prime Minister of Nepal | Non-acceptance would cause embarrassment to donor and U.S. Government.
President | Box: 11″ x 6¼″ x 2″ silver box lined with burled wood, with Jordanian seal and signature etched on lid; held in a red leather case. Rec'd—May 8, 2002. Est. Value—$1,000. Archives Foreign | Their Majesties King Abdullah II, and Queen Rania al Abdullah | Non-acceptance would cause embarrassment to donor and U.S. Government.
President | Rice bowl: 7½″ traditional silver “Bekas Nasi” (rice container) with lid and elaborate gold detailing; held in a green leather presentation case. Rec'd—May 14, 2002. Est. Value—$750. Archives Foreign | His Excellency YAB Dato Seri Dr. Mahathir bin Mohamad, Prime Minister of Malaysia | Non-acceptance would cause embarrassment to donor and U.S. Government.
| Large bouquet of Malaysian Orchids. Rec'd—May 14, 2002. Est. Value—$600. Handled pursuant to Secret Service policy
President | Sword: “The Knight's Saber of Peace”, a 34″ stainless steel sword; held in a wooden presentation case. Rec'd—May 17, 2002. Est. Value—$500. Archives Foreign | His Excellency Janez Drnovsek, Prime Minister of the Republic of Slovenia | Non-acceptance would cause embarrassment to donor and U.S. Government.
President | Stone: 13″ x 8″ piece of the Berlin Wall with multi-colored graffiti on one side; mounted in a clear plexiglass case. Rec'd—May 22, 2002. Est. Value—$400. Archives Foreign | His Excellency Mr. Johannes Rau, President of the Federal Republic of Germany | Non-acceptance would cause embarrassment to donor and U.S. Government.
President | Pen: green and black Pelikan fountain pen with gold tone trim. Rec'd—May 22, 2002. Est. Value—$555. Archives Foreign | His Excellency Gerhard Schroeder, Chancellor of the Federal Republic of Germany | Non-acceptance would cause embarrassment to donor and U.S. Government.
| Consumable: 50ml bottle of royal blue Pelikan ink. Rec'd—May 22, 2002. Est. Value—$4. Handled pursuant to Secret Service Policy
President | Artwork: 13½″ x 19″ engraving by LeMire of the Marquis de Lafayette at the end of the Virginia campaign of the American Revolution in 1781, dedicated to George Washington; matted and held in a 21½″ x 28″ silver tone frame. Rec'd—May 26, 2002. Est. Value—$450. Archives Foreign | His Excellency Jacques Chirac, President of the French Republic | Non-acceptance would cause embarrassment to donor and U.S. Government.
President | Watch: stainless steel Cartier “Roadster”, held in a red leather box. Rec'd—May 27, 2002. Est. Value—$3950. Archives Foreign | His Excellency Silvio Berlusconi, President of the Council of Ministers of the Italian Republic | Non-acceptance would cause embarrassment to donor and U.S. Government.
| Statute: 31½″ alabaster sculpture of four figures, titled “Allegory of the Triumph”. Rec'd—May, 27, 2002. Est. Value—$30000. Archives Foreign
| Box: 5½″ x 92¾″ burled wood box with five time pieces set in lid, showing the time in Moscow, New York, London, Rome and Tokyo; interior is lined in brown velvet and embossed “Vertice NATO-RUSSIA ROMA 28-5-2002.” Rec'd—May 27, 2002. Est. Value—$200. Archives Foreign
| Consumables: two tins containing 8.8 oz bags of “e Tricaffe” coffee. Rec'd—May 27, 2002. Est. Value—$14. Handled pursuant to Secret Service policy
President | Box: 5½″ x 3½″ × 1¼″ silver box with donor's signature engraved on lid; held in a green watered silk presentation case. Rec'd—May 27, 2002. Est. Value—$350. Archives Foreign | His Excellency Carlo Azeglio Ciampi, President of the Italian Republic | Non-acceptance would cause embarrassment to donor and U.S. Government.
President | Painting: 25″ x 21″ watercolor of the bell tower of Sainte Mere Eglise in a blue and gold tone frame. Rec'd—May 27, 2002. Est. Value—$300. Archives Foreign | The Honorable Marc Lefevre, General Counsellor and Mayor of Sainte Mere Eglise | Non-acceptance would cause embarrassment to donor and U.S. Government.
President | Statue: 6½″ coral sculpture of the Blessed Virgin and Child; mounted on a wooden base and held in a blue velvet presentation case. Rec'd—May 28, 2002. Est. Value—$1500. Archives Foreign | His Holiness, John Paul II | Non-acceptance would cause embarrassment to donor and U.S. Government.
President | Pen: limited edition (43/50) “Stars and Stripes” Mont blanc pen inset with rubies and diamonds in an American flag pattern Rec—May 31, 2002. Est. Value—$18000. Archives Foreign | Lieutenant General Shaykh Mohammad bin Zayid al-Nuhayyan, Chief of Staff of the Armed Forces of the United Arab Emirates | Non-acceptance would cause embarrassment to donor and U.S. Government.
President | Knife: replica Army Ranger knife forged from metal of a WWII-era U.S. Jeep, mounted in sheath wrapped in locally-recovered barbed wire and sand from D-Day beaches, engraved “In Memory of American's Soldiers offert a Monsieur George W. Bush President des Etats Unis d'Amerique. A Sainte Mere Eglise le 26 Mai 2002” on goldtone plaque. Rec'd—June 3, 2002. Est. Value—$325. Archives Foreign | The Honorable Max Avenel, Mayor of Agon-Countainville | Non-acceptance would cause embarrassment to donor and U.S. Government.
President | Collectable: 32½″ x 32½″ red and blue silk scarf in military motif commemorating the 200th anniversary of L'Ecole Speciale Militaire, Saint Cyr, 1802-2002; displayed in 36″ x 36″ blue rubberized frame with small brass plate engraved “La Promotion 'du Bicentenaire de Saint-Cyr' au President des Etats-Unis d'Amerique.” Rec'd—June 6, 2002. Est. Value—$350. Archives Foreign | Student Delegation, L'Ecole Speciale Militaire de Saint-Cyr | Non-acceptance would cause embarrassment to donor and U.S. Government.
President | Rugs (2): 56″ x 83″ Egyptian rugs designed as portraits of President George W. Bush, and 74″ brass rods for hanging. Rec'd—June 7, 2002. Est. Value—$1000. Archives Foreign | His Excellency Mohamed Hosny Mubarak, President of the Arab Republic of Egypt | Non-acceptance would cause embarrassment to donor and U.S. Government.
President | Ax: 37½″ decorative wood and metal long-handled ax with rural Slovak scenes engraved in blade. Rec'd—June 7, 2002. Est. Value—$125. Archives Foreign | His Excellency Rudolf Schuster, President of the Slovak Republic | Non-acceptance would cause embarrassment to donor and U.S. Government.
| Vase: 20″ blue glass vase with 24K detailing and appliqued flowers; American and Slovak flags crossed above “Prezidentovi Spojenych Statov Americkych Georgovi W. Bushovi venuje Rudolf Schuster prezident Slovenskej republiky 7. juna 2002.” Rec'd—June 7, 2002. Est. Value—$200. Archives Foreign
| Accessories (2): 8½″ black wool hat with silver 10-chain band around crown and elastic chin strap; 42″ light brown belt (4½″ wide) with geometric floral design and gold tone detailing, including engraved clasps. Rec'd—June 7, 2002. Est. Value—$200. Archives Foreign
| Coin (.5 oz): 1″ gold coin with image and signature of President Schuster on one side and building on the reverse; held in a red leather box. Rec'd—June 7, 2002. Est. Value—$175. Archives Foreign
| Household accessory: 39″ x 20″ white linen table runner edged in lace. Rec'd—June 7, 2002. Est. Valule—$100. Archives Foreign
President | Pen rest: 8″ x 4″ marble base with wooden pen rest. Rec'd—June 26, 2002. Est. Value—$20. Archives Foreign | The Right Honorable Jean Chretien, P.C., M.P., Prime Minister of Canada | Non-acceptance would have caused embarrassment to donor and U.S. Government.
| Wine: three 375 ml. bottles of “Canadian Icewine, Summerhill (2002), Paradis Ranch (2002), and Trius (1997)” in wooden box. Rec'd—June 26, 2002. Est. Value—$120. Handled pursuant to Secret Service policy
| Marble statue: 21″ x 9″ Serpentine stone carving of Narwhale handcarved by Takealook Temela, a Canadian Inuit artist. Ceramic Plate: 16″ plate painted with mountain landscapes and floral images, by Don Wells. Rec'd—June 26, 2002. Est. Value—$1850. Archives Foreign
| Framed document: Kananaskis Summit declaration signed by all leaders and framed in a 20″ x 26½″ silver tone frame. Rec'd—June 26, 2006. Est. Value—$150. Archives Foreign
President | Sculpture: “Beating the Odds,” by Linda Stewart, a 16″ bronze sculpture of horse and cowboy on a wooden base. Rec'd—July 1, 2002. Est. Value—$3500. Archives Foreign | The Honorable Dave Bronconnier, Mayor of Calgary | Non-acceptance would have caused embarrassment to donor and U.S. Government.
| Cowboy hat: white Stetson hat with small peacock feather and white tie in black carrying case with presentation plaque engraved “Presented to President George W. Bush by Mayor Dave Bronconnier on behalf of The City of Calgary, Alberta, Canada June 26-27, 2002”. Rec'd—July 1, 2002. Est. Value—$65. Archives Foreign
President | Chapan: 53″ green- and yellow-striped Afghan robe, with red, white and black trim. Rec'd—July 1, 2002. Est. Value—$350. Archives Foreign | His Excellency Hamid Karzai, Chairman of the Interim Authority of Afghanistan | Non-acceptance would have caused embarrassment to donor and U.S. Government.
President | Men's watch: silver Hublot Automatic MDM Geneve watch, with black rubber band and black face. Rec'd—July 5, 2002. Est. Value—$2200. Archives Foreign | His Excellency Silvio Berlusconi, President of the Council of Ministers of the Italian Republic | Non-acceptance would have caused embarrassment to donor and U.S. Government.
President | Consumables: assorted Godiva chocolates, Perugina chocolates, Perugina cookies, and nonpareils. Rec'd—July 11, 2002. Est. Value—$1248. Handled pursuant to Secret Service policy | His Majesty Mohammed VI, King of Morocco | Non-acceptance would have caused embarrassment to donor and U.S. Government.
| Fishing equipment: 82 lures and hooks in a two-level 16″ x 10½″ plastic tackle box; Mepps “Basser Kit” of 6 lures; Mepps “Trophy Series” kit of 6 lures; 78 piece selection of sinkers; 5 Spro heavy swivels; Rapala ProGuide fishing clipper; Rapala ProGuide 15 lb. digital scale; and an orange Lindy fish handling glove. Rec'd—July 11, 2002. Est. Value—$449. Archives Foreign
| Large arrangement of flowers. Rec'd—July 11, 2002. Est. Value—$350. Handled pursuant to Secret Service policy
| Fish bowl: 17″ x 20″ painted ceramic fish bowl. Rec'd—July 11, 2002. Est. Value—$600. Archives Foreign
| Miscellaneous decorative boxes (7) and a 28″ x 24″ x 13″ woven basket with handles. Rec'd—July 11, 2002. Est. Value—$171. Archives Foreign
| Paperback book: “Baits, Rigs & Tackle,” by Vic Dunaway. Hats (2, size S/M): one blue and one tan Speedo fishing hat. Rec'd—July 11, 2002. Est. Value—$52. Archives Foreign
| Fishing bait: 2 oz. jar of Uncle Josh salmon eggs. Rec'd—July 11, 2002. Est. Value—$3. Handled pursuant to Secret Service policy
President | Tableware: 7″ glass pitcher and 6″ glasses (6) decorated with silver and 1½″ amber stones; held in a blue presentation case. Rec'd—July 17, 2002. Est. Value—$1150. Archives Foreign | His Excellency Aleksander Kwasniewski, The President of the Republic of Poland and Mrs. Kwasniewska | Non-acceptance would cause embarrassment to donor and U.S. Government.
| CD: “Tribute to USA,” by the Adam Mickiewicz University Academic Choir. Paperback book: “Stop Terrorism,” by donor. Rec'd—July 17, 2002. Est. Value—$30. Archives Foreign
President | Coins (3): Dominican Republic 1 peso, 100 peso, and 500 peso coins in a green velvet box with the country's shield embossed on lid. Rec'd—July 23, 2002. Est. Value—$375. Archives Foreign | His Excellency Hipolito Mejia, President of the Dominican Republic | Non-acceptance would cause embarrassment to donor and U.S. Government.
President | Belt: black Tumi leather belt with silver buckle painted with the American flag and an eagle; held in a leather box. Rec'd—August 28, 2002. Est. Value—$295. Archives Foreign | His Royal Highness Prince Bandar bin Sultan, Ambassador of Saudi Arabia | Non-acceptance would cause embarrassment to donor and U.S. Government.
President | Bag: 10½″ x 5½″ black leather Tanner Krolle toiletries bag with “G.W.B.” embossed in gold on the top. Rec'd—September 7, 2002. Est. Value—$351. Archives Foreign | The Right Honorable Tony Blair, M.P | Non-acceptance would cause embarrassment to donor and U.S. Government.
President | Pen: black Mont Blanc fountain pen with “H.E. G.W. Bush” engraved on cap; held in a black presentation box. Rec'd—September 9, 2002. Est. Value—$375. Archives Foreign | Mr. Thabo Mbeki, President of the Republic of South Africa | Non-acceptance would cause embarrassment to donor and U.S. Government.
| Ink: Mont Blanc black ink refill (50 ml.). Rec'd—September 9, 2002. Est. Value—$9. Handled pursuant to Secret Service policy
President | Reg: 59½″ x 78″ red Afghan rug with fringed ends. Rec'd—September 10, 2002. Est. Value—$1400. Archives Foreign | His Excellency Ishaq Shahryar, Ambassador of Afghanistan | Non-acceptance would cause embarrassment to donor and U.S. Government.
President | Bowl: 6″ sterling silver bowl with scalloped edges and blue beads inset around the rim; held in a green velvet presentation case. Rec'd—September 12, 2002. Est. Value—$350. Archives Foreign | His Excellency Pervez Musharraf, President of the Islamic Republic of Pakistan | Non-acceptance would cause embarrassment to donor and U.S. Government.
President | Watch: Patek Philippe Calatrava Travel Time wristwatch with black leather band and gold face; held in a leather-lined polished wooden box. Rec'd—September 14, 2002. Est. Value—$14500. Archives Foreign | His Excellency Silvio Berlusconi, President of the Council of Ministers of the Italian Republic | Non-acceptance would cause embarrassment to donor and U.S. Government.
| Photograph: 7¾″ x 9¾″ color photo of President George W. Bush, Prime Minister Berlusconi and President Putin at the NATO—Russia Council meeting in Rome in May 2002; held in a 11″ x 13″ silver frame. Rec'd—September 14, 2002. Est. Value—$450. Archives Foreign
President | Vase: 12¼″ Moser crystal vase with short stem supporting flared twelve-sided urn with horse motif etched into the glass. Rec'd—September 18, 2002. Est. Value—$500. Archives Foreign | His Excellency Vaclav Havel, President of the Czech Republic | Non-acceptance would cause embarrassment to donor and U.S. Government.
President | Cuff links: ½″ gold cuff links with red stones. Rec'd—September 25, 2002. Est. Value—$250. Archives Foreign | His Excellency Hugo Guiliani Cury, Ambassador of the Dominican Republic | Non-acceptance would cause embarrassment to donor and U.S. Government.
President | Coffee service: elaborately detailed 10″ silver coffee urn with six matching 3½″ cups and an 11″ platter; held in a presentation case. Rec'd—October 12, 2002. Est. Value—$500. Archives Foreign | His Excellency The President of the Russian Federation and Mrs. Putina | Non-acceptance would cause embarrassment to donor and U.S. Government.
President | Porcelain: “Good Fortune” pattern porcelain service (for 8) with 146 total pieces; held in three red and gold fabric-covered presentation cases. Rec'd—October 25, 2002. Est. Value—$1800. Archives Foreign | His Excellency Jiang Zemin, President of the People's Republic of China | Non-acceptance would cause embarrassment to donor and U.S. Government.
President | Artwork: 17″ x 17¾″ giclee print of a painting of the desert and ocean by Susana Diaz-Rivera; matted and held in a 24¾″ x 25½″ wooden frame. Rec'd—October 27, 2002. Est. Value—$450. Archives Foreign | The Honorable Leonel Cota Montano, Governor of Baja California Sur | Non-acceptance would cause embarrassment to donor and U.S. Government.
President | Artwork: “Nocturn Figure,” a 6″ x 7″ limited edition (14/30) print by Jose Luis Cuevas. Rec'd—October 27, 2002. Est. Value—$1500. Archives Foreign | His Excellency Vicente Fox Quesada, President of the United Mexican States | Non-acceptance would cause embarrassment to donor and U.S. Government.
President | Leatherbound book: “Beirut the wars of destruction and the perspectives of reconstruction” with hologram on cover and inscribed by donor; held in a 18″ x 14″ navy leather presentation case. Rec'd—November 7, 2002. Est. Value—$400. Archives Foreign | His Excellency Rafiq al-Hariri, Prime Minister of the Republic of Lebanon | Non-acceptance would cause embarrassment to donor and U.S. Government.
President | Leatherbound book: “Kossuth Lajos 1802-2002,” by Gyorgy Szabad; held in a burgundy print presentation box. Rec'd—November 8, 2002. Est. Value—$75. Archives Foreign | His Excellency The Prime Minister of the Republic of Hungary and Mrs. Medgyessy | Non-acceptance would cause embarrassment to donor and U.S. Government.
| Coin: 4″ silver coin engraved “Szt. Istvan 969-1038” on front and “Ezereves Magyarorszag” on reverse; held in a 6″ x 6″ wooden presentation box. Rec'd—November 8, 2002. Est. Value—$200. Archives Foreign
President | Decanter: 10″ amber colored Bohemian crystal decanter and stopper with six matching shot glasses, all painted with rural scenes; held in a blue velvet presentation case. Rec'd—November 21, 2002. Est. Value—$280. Archives Foreign | His Excellency The Prime Minister of the Czech Republic and Mrs. Spidlova | Non-acceptance would cause embarrassment to donor and U.S. Government.
| Coin: 1¼″ pure silver coin commemorating the NATO Summit in Prague, November 21-22, 2002. Rec'd—November 21, 2002. Est. Value—$15. Archives Foreign
President | Artwork: “Fair Wind Over the Baltics,” an 8¼″ amber statue, by Algirdas Mikutis, depicting a boat on a brass base; held in a green presentation case. Rec'd—November 22, 2002. Est. Value—$325. Archives Foreign | His Excellency Valdas Adamkus, President of the Republic of Lithuania | Non-acceptance would cause embarrassment to donor and U.S. Government.
| Award: The Order of Vytautas the Great medal and sash awarded to President George W. Bush, November 23, 2002, and proclamation bestowing award; both held in white leather cases. Rec'd—November 22, 2002. Est. Value—$280. Archives Foreign
President | Hardcover books (7): clothbound set of donor's writings (in Czech); held in a matching case inscribed to President George W. Bush on top. Rec'd—November 22, 2002. Est. Value—$300. Archives Foreign | His Excellency Vaclav Havel, President of the Czech Republic | Non-acceptance would cause embarrassment to donor and U.S. Government.
| Miscellaneous items from Prague Summit: blue canvas tote printed with NATO logo and “Sommet de Prague Summit 21-22 Nov. 2002” in white on front; and blue ballpoint pen with Summit logo in silver. Rec'd—November 22, 2002. Est. Value—$25. Archives Foreign
| Paperback books (2): “NATO, Europe, and the Security of Democracy: Selected Speeches, Articles, and Interviews 1990-2002,” by donor and signed, and “Prazsky Chodec,” by Jiri Vsetecka. Hardcover books (2): “Catalogue of the Czech Defence Industry 2001-2002,” produced by the Association of the Defence Industry of the Czech Republic, and “The Czech Contribution to Peace and War in Europe: From the Hussite Wars to NATO Membership,” published by the Czech government and held in a blue fabric book sleeve. Rec'd—November 22, 2002. Est. Value—$70. Archives Foreign
President | Artwork: 15¼″ x 19¾″ painting on wood of St. George. Rec'd—November 23, 2002. Est. Value—$250. Archives Foreign | His Excellency Ion Iliescu, President of Romania | Non-acceptance would cause embarrassment to donor and U.S. Government.
| Artwork: 13″ x 16¾″ caricature rendered in pastels of President Bush with a hunting rifle, holding a rabbit with the face of Saddam Hussein; matted and held in a 16″ x 20″ gold tone frame and presented in a blue leather case. Rec'd—November 23, 2002. Est. Value—$500. Archives Foreign
| Hardcover books (3): “Romania at the Moment of Truth,” by donor and inscribed; “Brancusi,” by Radu Varia; and “Romania,” by Petre Baron and held in a velvet case with “Romania” embossed in gold. Rec'd—November 23, 2002. Est. Value—$163. Archives Foreign
| Accessories (2): beaded shoulder bag and straw hat in the traditional style of the Maremures region of Romania; bag has black braiding around edges and hat has two large green stones in gold tone settings on front. Rec'd—November 23, 2002. Est. Value—$60. Archives Foreign
| Award: 32″ gold tone “Star of Romania” chain with 2¼″ medallion awarded to President George W. Bush November 23, 2002, and proclamation (in Romanian) bestowing award; both held in burgundy leather cases. Rec'd—November 23, 2002. Est. Value—$150. Archives Foreign
President | Artwork: 28″ x 19¼″ painting of three elephants; held in a 35″ x 26″ wooden frame. Rec'd—December 5, 2002. Est. Value—$2000. Archives Foreign | His Excellency Daniel T. Arap Moi, President of the Republic of Kenya | Non-acceptance would cause embarrassment to donor and U.S. Government.
President | Kettle: 11″ silver “Kiri” with handle and intricate designs etched in the silver; held in a glass display case. Rec'd—December 16, 2002. Est. Value—$3500. Archives Foreign | His Majesty Sultan Haji Hassanal Bolkiah Mu'izzaddin Waddaulah, Sultan and Yang Di-Pertuan of Brunei Darussalam | Non-acceptance would cause embarrassment to donor and U.S. Government.
| Models: replicas of the ceremonial “Kasur Namat” (8½″ x 8½″ cushion and mat) and “Dian Empat” (four 5″ silver candlesticks) used during coronation, wedding, and other royal ceremonies; held in a glass display case. Rec'd—December 16, 2002. Est. Value—$150 Archives Foreign
First Lady | Hardcover books (3): “Imperial Taste: 700 Years of Culinary Culture,” produced by the Ministry of Culture; “Civilizations Under the Clouds of Anatolia,” by Gurol Sozen; and “Turkey: An Endless Poem,” by Zeynel Yesilay. Rec'd—January 16, 2002. Est. Value-$225. Archives Foreign | His Excellency The Prime Minister of the Republic of Turkey and Mrs. Ecevit | Non-acceptance would cause embarrassment to donor and U.S. Government.
| Bowl: 12″ glass bowl (254/2000) with metal overlay and painted boats and clouds. Rec'd—January 16, 2002. Est Value—$110. Archives Foreign
| Scarf: 13″ x 32″ silk scarf with design inspired by Roman mosaic from Antioch, Turkey. Silver pieces: hand mirror and trinket box with floral motif. Rec'd—January 16, 2002. Est. Value—$188. Archives Foreign
First Lady | Jewelry: 18K gold earrings with five diamond-shaped clear stones. Rec'd—February 15, 2002. Est. Value—$175. Archives Foreign | Mrs. Sehba Musharraf, First Lady of the Islamic Republic of Pakistan | Non-acceptance would cause embarrassment to donor and U.S. Government.
| Fabric: 43″ x 158″ apricot-colored silk with seed pearls and floral pattern embroidered in green and pink. Rec'd—February 15, 2002. Est. Value—$700. Archives Foreign
First Lady | Doll: 16″ Kyugetsu doll in traditional Japanese dress on a black lacquer stand; with a glass display case. Rec'd—February 18, 2002. Est. Value—$400. Archives Foreign | The Honorable Yutaka Inoue, President of the House of Councillors | Non-acceptance would cause embarrassment to donor and U.S. Government.
First Lady | Paperback books (7): “100 Chinese Gods,” “100 Buddhas in Chinese Buddhism,” “100 Celebrated Chinese Women,” “Legend of the Moon Maiden,” “Dragon Tales,” “Chinese Astrology,” and “Madam White Snake,” all produced by AsiaPac Books and held in a fabric-covered box. Rec'd—February 28, 2002. Est. Value—$95. Archives Foreign | His Excellency Jiang Zemin, President of the People's Republic of China and Madame Wang Yeping | Non-acceptance would cause embarrassment to donor and U.S. Government.
First Lady | Household accessories: two Swedish glass goblets with brass accents, made by Orrefors. Rec'd—March 1, 2002. Est. Value—$350. Archives Foreign | Her Majesty Queen Silvia | Non-acceptance would cause embarrassment to donor and U.S. Government.
First Lady | Rug: 51½″ × 70″ fringed silk rug with a geometric pattern of flowers in green, red and blue. Rec'd—March 4, 2002. Est. Value—$2400. Archives Foreign | Mrs. Suzanne Mubarak | Non-acceptance would cause embarrassment to donor and U.S. Government.
First Lady | Quilt: 70″ × 88″ handmade quilt embroidered “From Mrs. Jewel H. Taylor, First Lady Rep. of Liberia, To Mrs. Laura Bush, First Lady U.S.A., Our Children First” on white background with 8 doves on border and hands holding up a baby under rays of sunlight. Rec'd—March 11, 2002. Est. Value—$1000. Archives Foreign | Mrs. Jewel H. Howard-Taylor, The First Lady of the Republic of Liberia | Non-acceptance would cause embarrassment to donor and U.S. Government.
First Lady | Clothing: traditional Uzbek attire consisting of a gold hat with pink sequins and a gold tassel, black velvet slippers with gold embroidery, and a maroon velvet robe with gold and white embroidery in a floral pattern and matching pants. Rec'd—March 12, 2002. Est. Value—$450. Archives Foreign | His Excellency Islam Karimov, President of the Republic of Uzbekistan | Non-acceptance would cause embarrassment to donor and U.S. Government.
First Lady | Box: 8″ × 7″ silver box with woven fabric under glass on lid, and interior lined with cedar. Rec'd—March 23, 2002. Est. Value—$350. Archives Foreign | Mrs. Eliane Karp, First Lady of the Republic of Peru | Non-acceptance would cause embarrassment to donor and U.S. Government.
First Lady | Statue: 16½″ carved ivory statue of a female figure carrying two children and a basket on her head; on a round wooden base. Rec'd—April 16, 2002. Est. Value—$2500. Transferred to the Department of the Interior | Mrs. Ana Paula dos Santos, Office of the President of the Republic of Angola | Non-acceptance would cause embarrassment to donor and U.S. Government.
First Lady | Purse: 4¾″ silver filigree clutch purse with cubic zirconias on clasp; held in a black leather case with royal seal on lid. Rec'd—April 23, 2002. Est. Value—$250. Archives Foreign | His Majesty Mohammed VI, King of Morocco | Non-acceptance would cause embarrassment to donor and U.S. Government.
| Consumables: five bottles of cologne “Santal Rare,” “Ambre Special,” “Jasmin,” “Rose Maroc,” and “Fraicheur de Fruits”; held in a green leather case with gold detail. Rec'd—April 23, 2002. Est. Value—$475. Archives Foreign
First Lady | Jewelry: silver tone jewelry set consisting of a necklace, earrings, ring, bracelet, choker and belt. Rec'd—April 25, 2002. Est. Value—$150. Archives Foreign | His Royal Highness Abdallah bin Abd al-Aziz Al Saud, Crown Prince, First Deputy Prime Minister and Commander of the National Guard of Saudi Arabia | Non-acceptance would cause embarrassment to donor and U.S. Government.
| Clothing: traditional Saudi attire of a black and burgundy robe with matching 70″ shawl and a black caftan with elaborate gold embroidery and multi-colored sequins. Rec'd—April 25, 2002. Est. Value—$250. Archives Foreign
First Lady | Fabric: 20″ × 4″ Chinese silk yardage, in black with red flowers. Rec'd—May 1, 2002. Est. Value—$350. Archives Foreign | Madame Liu Yongqing, Office of the Vice President of the People's Republic of China | Non-acceptance would cause embarrassment to donor and U.S. Government.
First Lady | Vessel: 4″ silver cup with elaborately etched detailing. Rec'd—May 7, 2002. Est. Value—$350. Archives Foreign | Dr. Arzu Deuba, Prime Minister's Residence | Non-acceptance would cause embarrassment to donor and U.S. Government.
First Lady | Photograph: 19½″ × 16″ print of a mountain gorilla; matted and held in a 28″ × 24″ green wooden frame. Rec'd—May 15, 2002. Est. Value—$225. Archives Foreign | Mrs. Janet K. Museveni, Office of the President of the Republic of Uganda | Non-acceptance would cause embarrassment to donor and U.S. Government.
| Carvings (5): one pair of carved wooden elephant bookends (9½″); one pair of carved wooden giraffe candle holders (19½″); and one carved wooden bowl (12″) with depictions of various wildlife on the inside. Rec'd—May 15, 2002. Est. Value—$790. Archives Foreign
First Lady | Dish: 9″ Herend porcelain clam shell dish, painted with black and green floral design; held in a green velvet case. Rec'd—May 16, 2002. Est. Value—$555. Archives Foreign | His Excellency The President of the Republic of Hungary and Mrs. Madl | Non-acceptance would cause embarrassment to donor and U.S. Government.
| Video: “George Bush.” Rec'd—May 16, 2002. Est. Value—$5. Archives Foreign
| Hardcover books (2): “The Parliament House of Hungary,” by Jozsef Sisa and “Hungarian Helicon,” by Watson Kirkconnell. Rec'd—May 16, 2002. Est. Value—$45. Archives Foreign
| Album: 10″ x 14″ navy blue leather photo album stamped with Hungarian crest on cover; photographs document visit by former President George H.W. Bush to Hungary in November 2001. Rec'd—May 16, 2002. Est. Value—$150. Archives Foreign
| Book: “Embers,” by Sandor Marai. Rec'd—May 16, 2002. Est. Value—$21. Archives Foreign
| Paperback book: “A Nemzet Konyvtarabol.” Rec'd—May 16, 2002. Est. Value—$20. Archives Foreign
First Lady | Bowl: 6″ open-cut Herend porcelain lidded bowl, painted with flowers and fruit; held in a red velvet presentation case. Rec'd—May 16, 2002. Est. Value—$670. Archives Foreign | His Excellency Viktor Orban, Prime Minister of the Republic of Hungary | Non-acceptance would cause embarrassment to donor and U.S. Government.
First Lady | Vase: 25″ glass vase of contemporary design with blue, yellow, and purple spheres around center. Rec'd—May 20, 2002. Est. Value—$350. Archives Foreign | His Excellency Vaclav Havel, President of the Czech Republic | Non-acceptance would cause embarrassment to donor and U.S. Government.
| Artwork: 23″ x 27″ portrait on canvas of Mrs. Bush by Zubov; held in a blue wooden frame. Rec'd—May 20, 2002. Est. Value—$400. Archives Foreign
| Hardcover book: “Praga Caput Regni,” by Jaroslav Guth and Jaroslav Seifert. Rec'd—May 20, 2002. Est. Value—$26. Archives Foreign
| Handbag: black beaded evening bag in a blue presentation case. Rec'd—May 20, 2002. Est. Value—$120. Archives Foreign
First Lady | Accessories: 54″ x 54″ black silk chiffon scarf with white trim and beaded seashell pattern in one corner; and 13″ x 4″ black leather “Gold Pfeil” handbag with silver tone trim. Rec'd—May 22, 2002. Est. Value—$689. Archives Foreign | His Excellency Gerhard Schroeder, Chancellor of the Federal Republic of Germany | Non-acceptance would cause embarrassment to donor and U.S. Government.
First Lady | Artwork: 3″ oval painting of Jesus inside a gold tone Faberge-style egg with multi-colored enamel detailing; egg is suspended over a blue marble pedestal with inlaid cross on front. Rec'd—May 24, 2002. Est. Value—$350. Archives Foreign | Mrs. Ludmila Aleksandrovna Putina | Non-acceptance would cause embarrassment to donor and U.S. Government.
| Tea service: Tiffany & Co. silver tea set, including 14″ platter, 5½″ pot, 3″ creamer, and 4½″ sugar bowl decorated with blue and white enamel; Faberge-style egg with similar motif also included. Rec'd—May 24, 2002. Est. Value—$6050. Archives Foreign
| Album: white vinyl photo album with gold embossing, chronicling Mrs. Bush's and Mrs. Putina's visit to a Russian museum and school. Rec'd—May 24, 2002. Est. Value—$30. Archives Foreign
First Lady | Handbag: 12″ navy blue Christian Dior “saddle bag” purse. Rec'd—May 26, 2002. Est. Value—$590. Archives Foreign | Mrs. Bernadette Chirac | Non-acceptance would cause embarrassment to donor and U.S. Government.
First Lady | Tableware: wooden salad set, consisting of 5½″ bowls (12), 16½″ serving bowl and two serving utensils. Rec'd—June 13, 2002. Est. Value—$350. Archives Foreign | His Excellency Abel Pacheco de la Espriella, President of the Republic of Costa Rica | Non-acceptance would cause embarrassment to donor and U.S. Government.
First Lady | Brooch: 2½″ stick pin brooch with diamond. Rec'd—June 26, 2002. Est. value—$550. Archives Foreign | The Honorable Dave Bronconnier, Mayor of Calgary | Non-acceptance would cause embarrassment to donor and U.S. Government.
First Lady | Clothing: traditional Afghan attire of multi-colored and heavily embroidered pants, tunic and scarf. Rec'd—July 16, 2002. Est. value—$800. Archives Foreign | Dr. Zimat Karzai, Office of the President of the Afghan Transitional administration | Non-acceptance would cause embarrassment to donor and U.S. Government.
First Lady | Hardcover books (2): “Bronze Sculpture,” by Magdalena Abakanowicz, and “Magdalena Abakanowicz,” by Barbara Rose. Rec'd—July 24, 2002. Est. value—$100. Archives Foreign | Mrs. Jolanta Kwasniewska | Non-acceptance would cause embarrassment to donor and U.S. Government.
| Sugar bowl: 4″ sterling silver sugar bowl with round green stone on top and six silver and green sugar spoons; held in a wooden and glass case. Rec'd—July 24, 2002. Est. value—$450. Archives Foreign
First Lady | Shawl; 86″ x43″ beige wool shawl with multi-colored embroidered trim. Rec'd—September 12, 2002. Est. value—$500. Archives Foreign | His Excellency Pervez Musharraf, President of the Islamic Republic of Pakistan | Non-acceptance would cause embarrassment to donor and U.S. Government.
First Lady | Jewelry: 14″ white gold Damiani necklace with grey pearls and a cluster of diamonds. Rec'd—September 14, 2002. Est. value—$2250. Archives Foreign | His Excellency Silvio Berlusconi, President of the Council of Ministers of the Italian Republic | Non-acceptance would cause embarrassment to donor and U.S. Government.
First Lady | Plate: 13½″ Moser glass plate with filigreed gold edge. Rec'd—September 18, 2002. Est. value—$800. Archives Foreign | His Excellency The President of the Czech Republic and Mrs. Havlova | Non-acceptance would cause embarrassment to donor and U.S. Government.
First Lady | Jewelry: 18″ gold tone necklace with three square cut amber stones in center and a pair of ½″ matching earrings. Rec'd—September 25, 2002. Est. value—$500. Archives Foreign | His Excellency Hugo Guiliani Cury, Ambassador of the Dominican Republic | Non-acceptance would cause embarrassment to donor and U.S. Government.
First Lady | Table linens: 8 white linen napkins (15″ x 15″) embroidered in one corner with a flower and birds; and a 58′ x 92″ matching tablecloth. Rec'd—September 25, 2002. Est. value—$350. Archives Foreign | Mrs. Lalao Ravalomanana, Office of the President of the Republic of Madagascar | Non-acceptance would cause embarrassment to donor and U.S. Government.
First Lady | Hardcover books (2): “Concepts and Theories of His Majesty the King on Development” and “King Bhumibol: Strength of the Land,” both published by the Thai government. Paperback book: “The Support Foundation and Handicrafts,” published by donor's organization. Rec'd—October 9, 2002. Est. value—$115. Archives Foreign | Her Majesty Queen Sirikit of Thailand | Non-acceptance would cause embarrassment to donor and U.S. Government.
First Lady | Purse: 6″ handbag made of woven grasses with a gold handle and clasp studded with diamonds; held in a purple silk presentation case. Rec'd—October 9, 2002. Est. value—$10,000. Archives Foreign
First Lady | Table linens: 6 white linen napkins (11″ x 11″) with lace edging shot through with bronze thread and a matching 93″ x 56″ tablecloth. Rec'd—October 12, 2002. Est. value—$300. Archives Foreign | Mrs. Ludmila Aleksandrovna Putina | Non-acceptance would cause embarrassment to donor and U.S. Government.
First Lady | Shawl: 35″ x 84″ pink cashmere shawl with fringed ends. Rec'd—October 25, 2002. Est. value—$239. Archives Foreign | Madame Wang Yeping | Non-acceptance would cause embarrassment to donor and U.S. Government.
First Lady | Hardcover books (12): “A Dream of Red Mansions (3 volumes),” by Tsao Hsueh-Chin and Kao Hgo; “Journey to the West (3 volumes),” by Wu Cheng'en; “Outlaws of the Marsh (3) volumes),” by Shi Nai'an and Luo Guanzhongi; and “Three Kingdoms (3 volumes),” by Luo Guanzhong. Rec'd—October 25, 2002. Est. value—$244. Archives Foreign
First Lady | Accessories: 52″ x 11″ natural silk scarf and matching 10½″ x 10½″ handkerchief, both with black and white handprinted designs of flowers and dots. Rec'd—November 22, 2002. Est. Value—$110. Archives Foreign | Mrs. Dagmar Havlova, First Lady of the Czech Republic | Non-acceptance would cause embarrassment to donor and U.S. Government.
| Accessory: 8½″ black beaded clutch-style evening bag. Rec'd—November 22, 2002. Est. Value—$120. Archives Foreign
| Consumable: 10.5 oz. bottle of Bulgari “cologne au the vert (green tea).” Rec'd—November 22, 2002. Est. Value—$225. Handled pursuant to Secret Service policy
| Silver and green Bulgari atomizer. Rec'd—November 22, 2002. Est. Value—$70. Archives Foreign
| Artwork: 4½ x 3¼ ceramic tile decorated with fruit design. Rec'd—November 22, 2002. Est. Value—$10. Archives Foreign
First Lady | Leatherbound book: hand-written religious manuscript on parchment in Geez, a Semitic Ethiopian language; inscribed by donor and held in a silk presentation case. Rec'd—December 5, 2002. Est. Value—$450. Archives Foreign | His Excellency Meles Zenawi, Prime Minister of the Federal Democratic Republic of Ethiopia | Non-acceptance would cause embarrassment to donor and U.S. Government.
First Family | Home accessories: 11″ x 4″ glass candle plate; 4¼″ x 4¼″ wooden and stone coasters (6) with nautical theme; 6 navy blue and beige placemats with sea shell decorations; 6 navy blue cloth napkins with sea shell decorations; 6 blue and orange ceramic cups with nautical theme; and 4″ x 6″ stoneware picture frames (2) imprinted with outlines of sea life. Rec'd—January 15, 2002. Est. Value—$671. Archives Foreign | Their Majesties King Abdullah II, and Queen Rania al Abdullah | Non-acceptance would cause embarrassment to donor and U.S. Government.
| Candles: three square, scented candles. Rec'd—January 15, 2002. Est. Value—$30. Handled pursuant to Secret Service policy
| Chest: 22″ x 15¾″ x 10½″ wooden chest with glass lid containing various nautical items including shells, star fish, and smooth pebbles. Rec'd—January 15, 2002. Est. Value—$60. Archives Foreign
| Hardcover book: “The Little Book of Aqaba” set on glass display with glass magnifying bar and painted ceramic tile. Rec'd—January 15, 2002. Est. Value—$65. Archives Foreign
First Family | Artwork (2): stitched portraits of President Bush (18″ x 22″) and Mrs. Bush (18″ x 21″); held in green velvet boxes. Rec'd—March 12, 2002. Est. Value—$200. Archives Foreign | His Excellency Islam Karimov, President of the Republic of Uzbekistan | Non-acceptance would cause embarrassment to donor and U.S. Government.
First Family | Sculptures (2): contemporary design in glass and metal. Rec'd—March 22, 2002. Est. Value—$25. Archives Foreign | His Excellency Vicente Fox Quesada, President of the United Mexican States | Non-acceptance would cause embarrassment to donor and U.S. Government.
First Family | Scarves (5): 54″ x 12″ scarves, two brown made from Vicuna wool, one grey made from baby llama wool, one ivory made from royal alpaca, and one taupe made from guanaco wool; held in two wooden cases. Rec'd—March 23, 2002. Est. Value—$500. Archives Foreign | His Excellency Alejandro Toledo Manrique, President of the Repubic of Peru | Non-acceptance would cause embarrassment to donor and U.S. Government.
First Family | Artwork: 23″ x 15″ embroidered image of the First Family, double matted and held in a 34½″ x 26″ brown wooden frame. Rec'd—April 4, 2002. Est. Value—$1500. Archives Foreign | His Excellency Jiang Zemin, President of the People's Republic of China | Non-acceptance would cause embarrassment to donor and U.S. Government.
First Family | Tea service: six 3½″ blue and gold painted teacups, six saucers, 8″ pitcher, 5″ covered sugar bowl, 4″ cream pitcher, 6″ pastry plates (6), and 8½″ round serving plate. Rec'd—May 25, 2002. Est. Vajue—$449. Archives Foreign | The Honorable Vladimir Anatolyevich Yakovlev, Governor of St. Petersburg | Non-acceptance would cause embarrassment to donor and U.S. Government.
First Family | Artwork: 41½″ x 29½″ oil on canvas painting (c. 1891-93) of a Native American buffalo hunt, by C.M. Russell; held in a 48″ x 37″ gilt frame with small plaque at bottom. Rec'd—August 28, 2002. Est. Value—$1,000,000. Archives Foreign | His Royal Highness Prince Bandar bin Sultan, Ambassador of Saudi Arabia | Non-acceptance would cause embarrassment to donor and U.S. Government.
| Framed letter: March 4, 1942 letter from Helen Tredwell Harrison, whose father was original owner of “The Buffalo Hunt,” by C.M. Russell, to a gallery in Dallas, TX, detailing the circumstances of her father's possession of the painting; matted and held in a 25″ x 20¼″ wooden frame. Rec'd—August 28, 2002. Est. Value—$300. Archives Foreign
First Family | Household accessory: 4½″ Herend bowl handpainted with blue, orange, pink, yellow, purple and green flowers with gold trim; held in a 6½″ x 5½″ blue velvet presentation box. Rec'd—November 8, 2002. Est. Value—$535. Archives Foreign | His Excellency The Prime Minister of the Republic of Hungary and Mrs. Medgyessy | Non-acceptance would cause embarrassment to donor and U.S. Government.
First Family | Glassware: Moser glass decanter (11″) with stopper and six matching glasses. Rec'd—November 22, 2002. Est. Value—$1000. Archives Foreign | His Excellency Vaclav Havel, President of the Czech Republic | Non-acceptance would cause embarrassment to donor and U.S. Government.
| Consumable: 70cl bottle of Jan Becher Becherovka Carlsbad liqueur. Rec'd—November 22, 2002. Est. Value—$54. Handled pursuant to Secret Service policy
First Daughters—Jenna and Barbara | Artwork: 14″ x 18½″ painting with a three dimensional abstract figural of a bird in the center, by Romanian artist Luciana Tamas. Rec'd—November 22, 2002. Est. Value—$1500. Archives Foreign | His Excellency Ion Iliescu, President of Romania | Non-acceptance would cause embarrassment to donor and U.S. Government.
| Accessories (2): 36½″ and 40″ black velvet belts with intricate beaded floral motifs. Rec'd—November 22, 2002. Est. Value—$30. Archives Foreign
| Artwork: 9½″ colorful three dimensional sculpture resembling a teapot, by Romanian artist Luciana Tamas. Rec'd—November 22, 2002. Est. Value—$1000. Archives Foreign
First Daughter Barbara Bush | Pitcher: 9½″ Turkish glass pitcher with blue and white swirl design. Silver pieces: 6″ hand mirror and 2″ trinket box with floral motif. Handkerchief: hand-stitched white handkerchief with small yellow flowers around the edge. Rec'd—January 16, 2002. Est. Value—$225. Archives Foreign | His Excellency The Prime Minister of the Republic of Turkey and Mrs. Ecevit | Non-acceptance would cause embarrassment to donor and U.S. Government.
First Daughter Barbara Bush | Fabric: Five yards of silk with intricate red design on a black background. Rec'd—February 28, 2002. Est. Value—$500. Archives Foreign | His Excellency Jiang Zemin, President of the People's Republic of China and Madame Wang Yeping | Non-acceptance would cause embarrassment to donor and U.S. Government.
First Daughter Barbara Bush | Clothing: Traditional Uzbek attire consisting of a gold hat with colored sequins and a gold tassel, black velvet slippers with gold embroidery, royal blue velvet pants with gold trim, and a royal blue velvet robe with white and gold embroidery in a floral pattern. Rec'd—March 12, 2002. Est. Value—$350. Archives Foreign | His Excellency Islam Karimov, President of the Republic of Uzbekistan | Non-acceptance would cause embarrassment to donor and U.S. Government.
First Daughter Jenna Bush | Pitcher: 9½″ Turkish glass pitcher with white swirl design and cork. Silver pieces: 6″ hand mirror and 2″ trinket box with floral motif. Handkerchief: hand-stitched white handkerchief with small pink flowers around the edge. Rec'd—January 16, 2002. Est. Value—$237. Archives Foreign | His Excellency The Prime Minister of the Republic of Turkey and Mrs. Ecevit | Non-acceptance would cause embarrassment to donor and U.S. Government.
First Daughter Jenna Bush | Fabric: Five yards of silk with intricate red design on a black background. Rec'd—February 28, 2002. Est. Value—$500. Archives Foreign | His Excellency Jiang Zemin, President of the People's Republic of China and Madame Wang Yeping | Non-acceptance would cause embarrassment to donor and U.S. Government.
First Daughter Jenna Bush | Clothing: Traditional Uzbek attire consisting of a gold hat with colored sequins and a gold tassel, black velvet slippers with gold embroidery, royal blue velvet pants with gold trim, and a royal blue velvet robe with white and gold embroidery in a floral pattern. Rec'd—March 12, 2002. Est. Value—$350. Archives Foreign | His Excellency Islam Karimov, President of the Republic of Uzbekistan | Non-acceptance would cause embarrassment to donor and U.S. Government.
Brooks, Karen B., Director for Asian Affairs, National Security Council | Wall hanging: 23″ x 23″ traditional Zodiac design depicting the Year of the Horse in gold, brown, green and blue stitched cord and metallic sequins on black velvet. Rec'd—May 15, 2002. Est. Value—$350. Government Property | Police Colonel Hkam Awng, Joint Secretary of the Central Committee for Drug Abuse Control, Ministry of Home Affairs of the Union of Burma | Non-acceptance would cause embarrassment to donor and U.S. Government.
Brooks, Karen B., Director for Asian Affairs, National Security Council | Clothing: 16½″ x 68″ orange silk scarf embroidered with traditional pattern in rust, celedon, black and pale yellow. Rec'd—December 20, 2002. Est. Value—$600. Government Property | His Excellency Phanthong Phommahaxay, Ambassador of the Lao People's Democratic Republic | Non-acceptance would cause embarrassment to donor and U.S. Government.
Bryza, Matthew J., Director, European and Eurasian Affairs, National Security Council | Flatware set: silver flatware service for six; presented in a 13½″ x 13½″ wooden case. Rec'd—July 15, 2002. Est. Value—$650. Government Property | His Excellency Islam Karimov, President of the Republic of Uzbekistan | Non-acceptance would cause embarrassment to donor and U.S. Government.
Card, Andrew H., Jr., Assistant to the President and Chief of Staff | Watch: Cartier men's stainless steel “Tank Francaise Steel” watch with automatic date; held in a red leather presentation case. Rec'd—May 28, 2002. Est. Value—$2900. Government Property | His Excellency Silvio Berlusconi, President of the Council of Ministers of the Italian Republic | Non-acceptance would cause embarrassment to donor and U.S. Government.
Elliott, Ruth E., Special Assistant for Scheduling and Advance, National Security Council | Rug; 5′ x 6.8′ hand crafted rug from Morocco of the “Rabat” design with medallion open-field red, cream and multi-color border (red, yellow, blue, green, black, and terra cotta). Rec'd—April 24, 2002. Est. Value—$600. Transferred to General Services Administration | His Majesty Mohammed VI, King of Morocco | Non-acceptance would cause embarrassment to donor and U.S. Government.
Falkenrath, Richard A, Special Assistant to the President and Senior Director for Policy and Plans, Office of Homeland Security | Binoculars: black Swarovski Habicht 10 x 40 binoculars with wide angle. Rec'd—July 17, 2002. Est. Value—$722. Government Property | His Excellency Ernst Strasser, Federal Minister for the Interior of the Republic of Austria | Non-acceptance would cause embarrassment to donor and U.S. Government.
Fenton, Cathy, Special Assistant to the President and White House Social Secretary | Rug: 10′ x 6.8′ hand crafted Oriental rug of the “Rabat” design. Rec'd—May 8, 2002. Est. Value—$1200. Government Property | His Majesty Mohammed VI, King of Morocco | Non-acceptance would cause embarrassment to donor and U.S. Government.
Frazer, Jendayi, Special Assistant to the President and Senior Director for African Affairs, National Security Council | Artwork: 18″ x 24″ oil painting on canvas board of African women seated against a wall, by Robe Kavanja; held in a 21¼″ x 27¼″ wooden frame. Rec'd—December 20, 2002. Est. Value—$650. Government Property | Ms. Rebecca Nabutola, Permanent Secretary, Ministry of Foreign Affairs and International Cooperation | Non-acceptance would cause embarrassment to donor and U.S. Government.
Fried, Dankel, Special Assistant to the President and Senior Director for European and Eurasian Affairs, National Security Council | Clothing: traditional Uzbek attire consisting of a multi-colored silk scarf (49″ x 49″), a collapsible 6″ black hat with white design, and a navy blue velvet robe with elaborate gold embroidery. Rec'd—March 13, 2002. Est. Value—$350. Archives, Staff Gift | His Excellency Islam Karimov, President of the Republic of Uzbekistan | Non-acceptance would cause embarrassment to donor and U.S. Government.
Fried, Daniel, Special Assistant to the President and Senior Director for European and Eurasian Affairs, National Security Council | Watch: Bulgari stainless steel “Rettangolo” watch; held in a black leather presentation box. Rec'd—May 28, 2002. Est. Value—$3000. Government Property | His Excellency Silvio Berlusconi, President of the Council of Ministers of the Italian Republic | Non-acceptance would cause embarrassment to donor and U.S. Government.
Hughes, Karen, Assistant to the President and Counselor to the President | Bowl: 8½″ x 10½″ white porcelain Kongliche Porzellan-Manufaktur Berlin oval vegetable dish, with gold band trim and handpainted floral and butterfly design. Rec'd—May 22, 2002. Est. Value—$315. Archives, Staff Gift | His Excellency Mr. Johannes Rau, President of the Federal Republic of Germany | Non-acceptance would cause embarrassment to donor and U.S. Government.
Moriarty, James F., Special Assistant to the President and Senior Director for Asian Affairs, National Security Council | Desk clock: 1½″ square silver trim clock face set in blue lucite square (3⅛″), with four pearls in silver squares accenting the four corners of clock face, etched silver crest on top of lucite square; quartz movement; mounted on 1¼″ x 3½″ silver base; reverse of clock engraved “Office of the Prime Minister, Tokyo”. Rec'd—October 12, 2002. Est. Value—$555. Government Property | His Excellency Yasuo Fukuda, Chief Cabinet Secretary of Japan | Non-acceptance would cause embarrassment to donor and U.S. Government.
Rice, Condoleezza, Assistant to the President for National Security Affairs | Scarf: 76″ x 22½″ olive green silk embroidered with gold thread and 2″ fringe. Rec'd—January 12, 2002. Est. Value—$350. Archives, Staff Gift | His Excellency Abdus Samad Azad, Minister of Foreign Affairs of the People's Republic of Bangladesh | Non-acceptance would cause embarrassment to donor and U.S. Government.
Rice, Condeleezza, Assistant to the President for National Security Affairs | Tea pot: 12″ silver tea pot with engraved designs. Rec'd—January 14, 2002. Est. Value—$1000. Archives, Staff Gift | His Highness Sheikh Sulman bin Hamad bin Isa Al-Khalifa, Crown Prince of the State of Bahrain and Head of the Bahrain Defense Force | Non-acceptance would cause embarrassment to donor and U.S. Government.
Rice, Condoleezza, Assistant to the President for National Security Affairs | Plate: 9¼″ silver plate engraved “Presented by Nguyen Tan Dung, Deputy Prime Minister Socialist Republic of Vietnam”, with a black lacquer stand. Rec'd—January 14, 2002. Est. Value—$300. Archives, Staff Gift | His Excellency, Nguyen Tan Dung, Deputy Prime Minister of the Socialist Republic of Vietnam | Non-acceptance would cause embarrassment to donor and U.S. Government.
Rice, Condoleezza, Assistant to the President for National Security Affairs | Crystal rock with light wood stand from Madagascar, presented in a hand woven basket with yellow embroidery. Rec'd—January 14, 2002. Est. Value—$714. Archives, Staff Gift | His Excellency, Didier Ratsiraka, President of the Republic of Madagascar | Non-acceptance would cause embarrassment to donor and U.S. Government.
Rice, Condoleezza, Assistant to the President for National Security Affairs | Jewelry set (4 pieces); silver necklace, earrings, ring and bracelet with coral stones. Rec'd—January 14, 2002. Est. Value—$750. Archives, Staff Gift | His Excellency, Ali Abduallah Saleh, President of the Republic of Yemen | Non-acceptance would cause embarrassment to donor and U.S. Government.
Rice, Condoleezza, Assistant to the President for National Security Affairs | Clothing: traditional Uzbek attire consisting of a gold hat with colored sequins and a gold tassel, and a blue velvet robe with gold and white embroidery in a floral pattern. Rec'd—March 13, 2002. Est. Value—$300. Archives, Staff Gift | His Excellency, Islam Karimov, President of the Republic of Uzbekistan | Non-acceptance would cause embarrassment to donor and U.S. Government.
| Flatware set: 22K silver flatware service for six; presented in a 13½″ x 13½″ wooden case. Rec'd—March 13, 2002. Est. Value—$650. Archives, Staff Gift
Rice, Condoleezza, Assistant to the President for National Security Affairs | Jewelry 1″ 18K white gold American flag lapel pin, inset with sapphires, diamonds and rubies. Rec'd—May 27, 2002. Est. Value—$1,000. Government Property | His Excellency, Carlo Azeglio Ciampi, President of the Italian Republic | Non-acceptance would cause embarrassment to donor and U.S. Government.
Rice, Condoleezza, Assistant to the President for National Security Affairs | Hardback book: “The Russian Museum,” a compilation of paintings found within the Russian Museum. Rec'd—May 31, 2002. Est. Value—$28. Government Property | Mr. Vladmir B. Rushaylo, Secretary of Russian Security Council | Non-acceptance would cause embarrassment to donor and U.S. Government.
| Hardback book: “The Tretyakov Gallery,” a compilation of paintings found at the Tretyakov Gallery. Rec'd—May 31, 2002. Est. Value—$28. Government Property
| Hardback book: “Nizhny Novgorod Region,” with a history of, and various scenes throughout the region. Rec'd—May 31, 2002. Est. Value—$27. Government Property
| Hardback book: “Folk Handicrafts of the Nizhny Novgorod Region,” featuring crafts of local citizens. Rec'd—May 31, 2002. Est. Value—$18. Government Property
| Hardback book: “Inaugural Addresses of the Presidents of the United States,” printed in Russian. Rec'd—May 31, 2002. Est. Value—$20. Government Property
| CDs (2): “The Best of Henry Mancini.” Rec'd—May 31, 2002. Est. Value—$29. Government Property
| CDs: “Romances,” by Alexander Podbolotov. Rec'd—May 31, 2002. Est. Value—$28. Government Property
| CDs: “Nue,” by Lara Fabian (in French). Rec'd—May 31, 2002. Est. Value—$26. Government Property
| Hardcover coffee table book: “Treasures of the Kremlin” (approximate title, printed in Russian), held in red cloth sleeve. Rec'd—May 31, 2002. Est. Value—$30. Government Property
| Hardcover coffee table book: “Hermitage Paintings” (approximate title, printed in Russian), by Kolin Eysler. Rec'd—May 31, 2002. Est. Value—$55. Government Property
| Hardcover book: “Scientific Problem of National Security of the Russian Federation: Volume 3,” (approximate title, printed in Russian), by the Security Council of the Russian Federation. Rec'd—May 31, 2002. Est. Value—$20. Government Property
| Hardcover book: “The Special Services of the USA” (approximate title, printed in Russian). Rec'd—May 31, 2002. Est. Value—$20. Government Property
| Hardcover book: “Contemporary International Relations,” (approximate title, printed in Russian), by Mgimo. Rec'd—May 31, 2002. Est. Value—$20. Government Property
| Hardcover book: “The History of Russia's International Relations and Foreign Policy 1648-2000,” (approximate title, printed in Russian), by A.S. Protopopov, V.M. Kuzmenko, and N.C. Yelmaniva. Rec'd—May 31, 2002. Est. Value—$20. Government Property
| CDs (5): “The Carnival of Love,” “Besame Mucho,” “Tango,” “With Love to You,” and “The Best of Rio-Rita” by V. Kovtun (approximate titles, printed in Russian). Rec'd—May 31, 2002. Est. Value—$40. Government Property
| CD: “Promise of Love,” (approximate title, printed in Russian), by Mikael Tariverdiyov. Rec'd—May 31, 2002. Est. Value—$8. Government Property
| CD: “Great Composers: Masterpiece of the Musical Art of Russia,” (approximate title, printed in Russian). Rec'd—May 31, 2002. Est. Value—$8. Government Property
Rice, Condoleezza, Assistant to the President for National Security Affairs | Textiles: 27″ x 83″ fringed traditional silk and wool cloth; handwoven in light blue, white, tan, peach and yellow threads. Rec'd—June 6, 2002. Est. Value—$350. Government Property | His Excellency Ivica Racan, Prime Minister of the Republic of Croatia | Non-acceptance would cause embarrassment to donor and U.S. Government.
Rice, Condoleezza, Assistant to the President for National Security Affairs | Clothing: traditional Saudi attire (abaya) of a black and burgundy robe with matching 70″ shawl and a black caftan with elaborate gold embroidery and multi-colored sequins. Rec'd—June 25, 2002. Est. Value—$250. Archives, Staff Gift | His Royal Highness Abdallah bin Abd al-Aziz Al Saud, Crown Prince, First Deputy Prime Minister and Commander of the National Guard of Saudi Arabia | Non-acceptance would cause embarrassment to donor and U.S. Government.
| Jewelry: sterling silver jewelry set consisting of a necklace, earrings, ring with black stone, bracelet, choker and belt. Rec'd—June 25, 2002. Est. Value—$150. Archives, Staff Gift
Rice, Condoleezza, Assistant to the President for National Security Affairs | Rug: 73″ x 44″ Turcoman hand knotted rug; made of wool on warp and silk on weft with 2½″ silk fringe. Rec'd—June 26, 2002. Est. Value—$2200. Government Property | His Excellency Mr. Yonus Qanooni, Minister of Interior of the Interim Administration of Afghanistan | Non-acceptance would cause embarrassment to donor and U.S. Government.
Rice, Condoleezza, Assistant to the President for National Security Affairs | Jewelry: 1″ x 1½″ amber “Joyas Criollas” pin with 14K twisted gold setting. Rec'd—July 23, 2002. Est. Value—$300. Government Property | His Excellency Hipolito Mejia, President of the Dominican Republic | Non-acceptance would cause embarrassment to donor and U.S. Government.
Rice, Condoleezza, Assistant to the President for National Security Affairs | Art: two contemporary brass sculptures (7½″) mounted on 4″ circular wooden bases. Each sculpture has two stylized figures of a man and a woman linked arm in arm. Rec'd—August 5, 2002. Est. Value—$190. Government Property | His Excellency Augustin Katumba Mwanke, Minister of the Presidency of the Democratic Republic of the Congo | Non-acceptance would cause embarrassment to donor and U.S. Government.
| Art: 21½″ x 13″ framed copper relief overpainted with an image of a woman stirring a mortar; signed “02 . . . Lotonga”. Rec'd—August 5, 2002. Est. Value—$210. Government Property
Rice, Condoleezza, Assistant to the President for National Security Affairs | Candelabrum: 14″ x 13¾″ three candle, sterling silver hallmarked candelabrum, convertible to single candlestick, with top nob; held in a blue velvet presentation box. Rec'd—September 30, 2002. Est. Value—$500. Government Property | His Excellency Mohamed Hussein Tantaway, Minister of Defense and Military Production of the Arab Republic of Egypt | Non-acceptance would cause embarrassment to donor and U.S. Government.
Rice, Condoleezza, Assistant to the President for National Security Affairs | Accessories: 36″ square, silk Hermes scarf with “Aloha” images of parrots, Hawaiian women, palm trees and ocean, in orange, yellow, blue and green tones with a terra cotta tone border. Rec'd—October 17, 2002. Est. Value—$250. Government Property | Her Excellency Michele Alliot-Marie, Minister of Defense and War Veterans of the French Republic | Non-acceptance would cause embarrassment to donor and U.S. Government.
| Desk accessory: Pichard-Balme paperweight of enameled French flag and standard; obverse has inset of Ministry of Defense gold tone insignia and four symbols in corners of flag; “Ministre de la Defense” and smaller insignias inset on reverse. Rec'd—October 17, 2002. Est. Value—$45. Government Property
Rice, Condoleezza, Assistant to the President for National Security Affairs | Hardcover books (2): “Brancusi,” by Radu Varia, 2nd printing 2002, Rizzoli International; “Romania,” by Petre Baron, presented in a red velvet box. Rec'd—November 23, 2002. Est. Value—$135. Government Property | His Excellency Ion Iliescu, President of Romania | Non-acceptance would cause embarrassment to donor and U.S. Government.
| Artwork: 11″ x 14″ single matted oil pastel caricature of Dr. Rice by Stefan Popa titled “Condoleezza Rice (SUA) Praga 21-22 Noiembrie 20020”, held in a 16″ x 20″ frame; presented in navy blue portfolio box. Rec'd—November 23, 2002. Est. Value—$500. Government Property
| Desk accessory: 34″ x 9″ x 11″ wooden model ship with banners “NATO builds Tomorrow's Security Ark”. Rec'd—November 23, 2002. Est. Value—$175. Government Property
Rice, Condoleezza, Assistant to the President for National Security Affairs | Household accessory: 6″ x 3½″ round sterling silver compote with silver handles, with raised diagonal design in four quadrants; from the Museum of Cycladic Art. Rec'd—November 26, 2002. Est. Value—$350. Government Property | His Excellency George Papandreou, Minister of Foreign Affairs of the Hellenic Republic | Non-acceptance would cause embarrassment to donor and U.S. Government.
Rice, Condoleezza, Assistant to the President for National Security Affairs | Desk accessory: hinged 4⅝″ x 1½″ silver filligree box of intricate design studded with numerous small silver beads worked into design; 3″ square raised on top. Rec'd—December 31, 2002. Est. Value—$300. Government Property | His Excellency Igor Ivanov, Minister for Foreign Affairs of the Russian Federation | Non-acceptance would cause embarrassment to donor and U.S. Government.
Ridge, Thomas J., Assistant to the President for Homeland Security | Paperback book: “Catalogo del Fondo Reservado de la Biblioteca.” Rec'd—March 15, 2002. Est. Value—$75. Government Property | The Honorable David Rafael Marcedo de la Concha, Attorney General of the United Mexican States | Non-acceptance would cause embarrassment to donor and U.S. Government.
| Hardcover book: “Patrimonio Artistico de la Procuraduria General de la Republica.” Rec'd—March 15, 2002. Est. Value—$125. Government Property
| Platter: 10″ x 12″ silver platter engraved “Procuraduria General De La Republica.” Rec'd—March 15, 2002. Est. Value—$100. Government Property

AGENCY: Executive Office of the President
[Report of Tangible Gifts]
Name and title of person accepting the gift on behalf of the U.S. Government | Gift, date of acceptance on behalf of the U.S. Government, estimated value, and current disposition or location | Identity of foreign donor and government | Circumstances justifying acceptance
114168/BOYER_C, Vice President | Oil Painting on canvas of the Statute of Liberty, titled Liberty, in the Impressionist style by Georgian artist Tamaz Khutsishvili (2001), measures 30″ by 36″, with 3 inch gilt frame, Rec'd—October 1, 2001. Est. Value—$1800. Archives Foreign | His Excellency Eduard Shevardnadze, President of Georgia | Non-acceptance would cause embarrassment to donor and U.S. Government.
115304/MURRAY_M, Vice President | Silver cigarette box, approximately 7¾″ by 4⅛″, with scene engraved on lid of Plazzo Dell'Ecc . . . Prencipe Chigi in Plazza Colonna, Venice. Rec'd—October 22, 2001. Est. Value—$550. Archives Foreign | His Excellency, Gianfranco Fini, Deputy Prime Minister of the Italian Republic | Non-acceptance would cause embarrassment to donor and U.S. Government.
114191/MURRAY_M, Vice President | Leaded crystal liquor serving set consisting of a decanter with stopper, six serving glasses and six cloth napkins. Rec'd—January 15, 2002. Est. Value—$550. Archives Foreign | His Excellency, Bulent Ecevit, Prime Minister The Republic of Turkey | Non-acceptance would cause embarrassment to donor and U.S. Government.
115410/MURRAY_M, Vice President | Afghani rug, navy background with rust colored designs. Silk and wool. Measures 118″ by 84″, Rec'd—January 28, 2002. Est. Value—$4000. Archives Foreign | His Excellency, Hamid Karzai, President of Afghanistan | Non-acceptance would cause embarrassment to donor and U.S. Government.
114992/BOYER_C, Vice President | Sculpture by Israeli artist, Miriam Hirszowicz, of a small silver dove sitting on a frosted glass stele, mounted on a piece of frosted glass. Measures 6″ high by 5″ wide. Rec'd—February 6, 2002. Est. Value—$290. Archives Foreign | His Excellency, Benjamin Ben-Eliezer, Minister of Defense for Israel | Non-acceptance would cause embarrassment to donor and U.S. Government.
115138/MURRAY_M, Vice President | Silver palm tree approximately 8″ high and 5″ in width on plastic base, inscription reads “Presented by H.H. Shaikh Salman Bin Hamad Al-Kalifa, Crown Prince & Commander-in-Chief Bahrain Defence Force.” Rec'd—February 11, 2002. Est. Value—$450. Archives Foreign | His Highness, Sheikh Salman Bin Hamad Al-Khalifa, Crown Prince and Commander in Chief of the Bahrain Defence Force | Non-acceptance would cause embarrassment to donor and U.S. Government.
115145/MURRAY_M, Vice President | Pakastani carpet, ca. 2000, in new condition, very good quality, elongated center Arabesque medallion, cotton warp and weft, all wool pile. Taupe medallion with navy blue field. Measures 48″ by 76″ Rec'd—February 13, 2002. Est. Value—$1800. Archives Foreign | His Excellency, Pervez Musharraf, President of the Islamic Republic of Pakistan | Non-acceptance would cause embarrassment to donor and U.S. Government.
115445/MURRAY_M, Vice President | Ebony sculpture of seated African man, measures 22″ high. Rec'd—February 28, 2002. Est. Value—$1375. Archives Foreign | His Excellency. Jose Eduardo dos Santos, President of the Republic of Angola | Non-acceptance would cause embarrassment to donor and U.S. Government.
| Tapestry painting of African woman on mottled red and black velvet, signed Pululu 02. Rec'd—February 28, 2002. Est. Value—$500. Archives Foreign |  |
| Hard cover book—Angola O Futuro Comeca Agora, with two CDs in book pocket. Similar coffee table books on Barnes and Noble sell for $50. Estimated value for two CDs is $20. Rec'd—February 28, 2002. Est. Valule—$70. Archives Foreign |  |
| Forty 250 gram packages (10 Kilos) of Cafe Ginga roasted coffee beans from Angola priced at $8 per package. Rec'd—February 28, 2002. Est. Value—$320. Handled pursuant to Secret Service Policy |  |
115528/BOYER_C Vice President | Sterling silver rectangular box lined in blue velvet, in blue velvet presentation case. Lid of box is inscribed in Arabic. Measures 8″ by 4.5″. Rec'd—March 4, 2002. Est. Value—$550. Archives Foreign | His Excellency, Mohamed Hosny Mubarak, President of the Arab Republic of Egypt | Non-acceptance would cause embarrassment to donor and U.S. Government.
117574/BOYER_C, Vice President | Bronze resin bust of Winston Churchill. A Marcus Replica—exact reproduction of hand sculpted model. Made in England for the Cabinet War Rooms Museum. Museum is partially government funded. Rec'd—March 10, 2002. Est. Value—$291. Transferred to the General Services Administration | Mr. Philip Reed, Director, Cabinet War Rooms Museum, London | Non-acceptance would cause embarrassment to donor and U.S. Government.
116622/BOYER_C, Vice President | Large ceremonial robe of navy blue velvet with gold and multi-colored embroidery, multi-colored silk scarf, and small black hand sewn hat. Rec'd—March 11, 2002. Est. Value—$350. Archives Foreign | His Excellency Islam Karimov, President of the Republic of Uzbekistan | Non-acceptance would cause embarrassment to donor and U.S. Government.
| Sterling silver flatware service for six in presentation case with Uzbekistan seal. Flatware is Continental style. Rec'd—March 11, 2002. Est. Value—$850. Archives Foreign |  |
116466/BOYER_C, Vice President | Sterling silver notepad. Measures 4″ by 6″ with the Jordanian crest and a lithograph of the Monastery at Petra. Rec'd—March 12, 2002. Est. Value—$225. Archives Foreign | His Majesty, King Abdullah II bin al Hussein, of the Hashemite Kingdom of Jordan | Non-acceptance would cause embarrassment to donor and U.S. Government.
116510/BOYER_C, Vice President | Gold vermeil sculpture of a palm tree with three antelopes grazing beneath it, on a wooden base covered with freshwater pearls. One of the antelopes was broken in shipping. Rec'd—March 16, 2002. Est. Value—$1500. Archives Foreign | His Majesty, Sheikh Hamad bin Essa Al Khalifa, King of the Kingdom of Bahrain | Non-acceptance would cause embarrassment to donor and U.S. Government.
119371/BOYER_C, Vice President | Painted red Arabic chest, hinged lid with brass latch, 2 drawers, elaborate brass decoration on lid and sides. Measures 14″ by 25″ by 13″, Rec'd—March 16, 2002. Est. Value—$400. Archives Foreign | His Highness, Shaykh Zayid bin Sultan Al Nahayyan, President of the United Arab Emirates | Non-acceptance would cause embarrassment to donor and U.S. Government.
| Four UAE gold coins in protective plastic cases ($300 each) Rec'd—March 16, 2002. Est. Value—$1200. Archives Foreign |  |
| Woven wool horse blanket, measures 30″ by 104″ ($35) Two black, red and green woven horse leads with silver thread, measure 1″ by 28″, with matching small tasseled pieces, measuring 1″ by 8″, ($200) Pink and purple yarn lead with tassel, 3″ by 36″, for decoration, no monetary value. Red and white woven lead with silver thread, 1″ by 34″, no monetary value, Rec'd—March 16, 2002. Est. Value—$235. Archives Foreign |  |
| Framed 8″ silver dagger with elaborate engraving; in a wood-framed double matted shadow box, measures 12″ by 15″, Rec'd—March 16, 2002. Est. Value—$125. Transferred to the General Services Administration |  |
| Wooden wall hanging with brass latch and other brass detailing, measures 10″ by 20″, Rec'd—March 16, 2002. Est. Value—$175. Archives Foreign |  |
116474/BOYER_C, Vice President | Traditional Saudi men's clothing in green leather box: two long white cotton shirts, complete headdress, leather sandals, prayer beads, and brown tunic with gold epaulets. Rec'd—March 16, 2002. Est. Value—$250. Archives Foreign | His Majesty, Fahd Bin Abd Al-Aziz Al Saud, Custodian of the Two Holy Mosques, King of Kingdom of Saudi Arabia | Non-acceptance would cause embarrassment to donor and U.S. Government.
| Clock topped with Sterling silver horse trimmed in gold vermeil, on a malachite base. Rec'd—March 16, 2002. Est. Value—$7500. Archives Foreign |  |
| Christian Dior Cosmetics for men—“Fahrenheit” fragrance; toilette water spray, after shave lotion, deodorant, soap, after shave splash. Rec'd—March 16, 2002. Est. Value—$177. Handled pursuant to Secret Service Policy |  |
116508/BOYER_C, Vice President | Large gold vermeil and Sterling silver sailboat on burled wooden base. Given to the VP on his Middle East trip. Gift is a duplicate of a previous gift by same donor. Rec'd—March 17, 2002. Est. Value—$2500. Archives Foreign | His Highness, Hamad Bin Khalifa Al-Thani, Amir of the State of Qatar | Non-acceptance would cause embarrassment to donor and U.S. Government.
116511/BOYER_C, Vice President | Aynsley bone china urn, with handpainted scenes of the Gulf War, and the inscription “Liberation of Kuwait”, Rec'd—March 18, 2002. Est. Value—$350. Archives Foreign | His Highness Shaykh Saad al-Abdullah Al-Salim Al Sabah, Crown Prince and Prime Minister of the State of Kuwait | Non-acceptance would cause embarrassment to donor and U.S. Government.
| Book: Kuwait Photographs & Memories by Mona Jabir Al-Abdullah Al-Jabir Al-Sabah, Rec'd—March 18, 2002. Est. Value—$65. Archives Foreign |  |
116242/BOYER_C, Vice President | Silver covered cup, 3 inches in diameter, .900 silver. Rec'd—March 19, 2002. Est. Value—$150. Transferred to the General Services Administration | His Excellency, Bulent Ecevit, Prime Minister, The Republic of Turkey | Non-acceptance would cause embarrassment to donor and U.S. Government.
| Silver plate inscribed with the Prime Minister's name and a Turkish flag, wooden plate stand. .900 silver. Rec'd—March 19, 2002. Est. Value—$200. Archives Foreign |  |
116565/BOYER_C, Vice President | Handmade Khutaya porcelain decorative bowl with cover. White background with royal blue and gold trim and small colored flowers around the edge and bottom. 12″ in diameter. Presented in a blue velvet box. Rec'd—March 19, 2002. Est. Value—$700. Archives Foreign | General Huseyin Kivrikoglu, Commander of the Turkish Armed Forces | Non-acceptance would cause embarrassment to donor and U.S. Government.
116404/BOYER_C, Vice President | Small Sterling silver sculpture depicting the walled old city of Jerusalem. Measures 2.5 inches in diameter. In plexiglass case, lined in blue velvet, with inscription to the Vice President. Rec'd—March 19, 2002, Est. Value—$500 Archives Foreign | The Honorable, Ariel Sharon, Prime Minister of the State of Israel | Non-acceptance would cause embarrassment to donor and U.S. Government.
| Handpainted linen table runner with wheat design by Israeli artist, Anat Mayer. Measures 27″ by 13″, Rec'd—March 19, 2002. Est. Value—$150. Archives Foreign |  |
117090/BOYER_C, Vice President and Mrs. Cheney | Bouquet of roses in ceramic vase. Rec'd—March 30, 2002. Est. Value—$300. Handled pursuant to Secret Service Policy | His Royal Highness, Prince Bandar Bin Sultan Bin Abdulaziz, and Her Royal Highness, Princess Haifa Al Faisal, Embassy of Saudi Arabia | Non-acceptance would cause embarrassment to donor and U.S. Government.
119207/BOYER_C, Vice President | Reproduction of a Faberge egg. Red enamel egg on an attached pedestal. Made of 18K gold, with a total of 10.5 carats of diamonds. The center of the egg is rimmed with a floral garland; at the center of each flower is a .5 carat diamond. The top of the egg twists off to reveal a gold basket with gold flowers and three small eggs made of jasper. A band of small diamonds rims the dome of the egg. Rec'd—May 1, 2002. Est. Value—$17500. Archives Foreign | His Excellency, Igor Yusufov, Minister of Energy of the Russian Federation | Non-acceptance would cause embarrassment to donor and U.S. Government.
119822/BOYER_C, Vice President | Gold vermeil disk with a scene from Bahrain, on a metal stand with inscription to the VP. Measures 4″ in diameter. Rec'd—May 8, 2002. Est. Value—$500. Archives Foreign | His Excellency, Shaykh Khalifa Bin Salman Al Khalifa, Prime Minister of the Kingdom of Bahrain | Non-acceptance would cause embarrassment to donor and U.S. Government.
119455/MURRAY_M, Vice President | Ceramic, lidded vase in white, green, black and red, in a snakestitch design with gold overlay, 12″ tall. Rec'd—May 24, 2002. Est. Value—$2000. Archives Foreign | His Majesty, Mohammad VI, King of Morocco | Non-acceptance would cause embarrassment to donor and U.S. Government.
119917/BOYER_C, Vice President | Afghani carpet in colors of navy, salmon, green, cream, and maroon. Measures 72″ x 44.5″, Rec'd—May 30, 2002. Est. Value—$660. Archives Foreign | His Excellency Yonus Qanooni, Minister of Interior, Interim Administration of Afghanistan | Non-acceptance would cause embarrassment to donor and U.S. Government.
119824/BOYER_C, Vice President | Gold vermeil eagle sculpture on malachite base decorated with gold flowers with semi-precious stones at the center. Rec'd—June 3, 2002. Est. Value—$3500. Archives Foreign | His Royal Highness. Abdallah Bin Abd Al-Aziz, Al Saud, Crown Prince, First Deputy Prime Minister, and Commander of the National Guard of Saudi Arabia | Non-acceptance would cause embarrassment to donor and U.S. Government.
119461/MURRAY_M, Vice President | Sterling silver hexagonal jewelry box with hinged cover and blue velvet interior. Engraved design on exterior of the box. Rec'd—June 6, 2002. Est. Value—$450. Archives Foreign | His Excellency, Mohamed Hosny Mubarak, President of the Arab Republic of Egypt | Non-acceptance would cause embarrassment to donor and U.S. Government.
120248/MURRAY_M, Vice President | Ceramic marriage dolls titled, “A Lasting Marriage,” by Chen Hui-Yen Sculpture Studio, Taiwan. Measure 6.5″ high. Male and Female porcelain dolls with miniature lamps, shoes and a gong. Rec'd—June 25, 2002. Est. Value—$300. Archives Foreign | The Honorable Fredrick Chien, President of Control Yuan of the Republic, Taiwan | Non-acceptance would cause embarrassment to donor and U.S. Government.
12037/BOYER_C, Vice President | 18 K gold reproduction of a Roman coin, with copy of donor's acceptance speech and program dated 5/30/02. Inscription on back of coin reads, “Senato Della Repvbblica” Rec'd—June 25, 2002. Est. Value—$400. Archives Foreign | Senator Marcello Pera, President of the Italian Senate | Non-acceptance would cause embarrassment to donor and U.S. Government.
121673/BOYER_C, Vice President | Six Sterling silver shot glasses with buffalo motif, in wooden presentation box with Sterling silver ornamentation. Rec'd—July 17, 2002. Est. Value—$850. Archives Foreign | His Excellency, Aleksander Kwasniewski, President of the Republic of Poland | Non-acceptance would cause embarrassment to donor and U.S. Government.
124348/BOYER_C, Vice President | Handwoven silk rug from Uzbekistan in Turkamen style and design, but bright red and unusual. Highly collectible. Measures 47″ X 63″, Rec'd—September 16, 2002. Est. Value—$900. Archives Foreign | His Excellency, Abdulaziz Komilov, Minister of Foreign Affairs of Uzbekistan | Non-acceptance would cause embarrassment to donor and U.S. Government.
127931/BOYER_C, Vice President | Tooled leather chest board in Kyrgyz design, with a leather carrier. Wooden chess pieces depict the epic “Manas,” with dark-stained hats on one side and clear varnish hats on the opposition. Measures 18″ by 18″, Rec'd—September 24, 2002. Est. Value—$409. Archives Foreign | His Excellency, Askar Akaev, President of the Kyrgyz Republic | Non-acceptance would cause embarrassment to donor and U.S. Government.
125948/BOYER_C, Vice President | Sterling silver plate engraved with a scene of King RamsesII riding his chariot. Measures 12″ in diameter. Rec'd—September 25, 2002. Est. Value—$500. Archives Foreign | Field Marshal Hussein Tantawi, Commander-in-Chief of the Armed Forces, Embassy of the Arab Republic of Egypt | Non-acceptance would cause embarrassment to donor and U.S. Government.
| Hand knotted silk Egyptian rug. Silk foundation and fringe. The ground is set with four panels of individual foliate designs. Major border with red ground; outer plain blue border. In green velvet box. Measures 12″ x 29″, Rec'd—September 25, 2002. Est. Value—$525. Archives Foreign |  |
126198/BOYER_C, Vice President | Mosiac Russian Icon of unidentified saint, in 18K gold frame with sapphires and rubies from Thailand and Sri Lanka inset in the frame. Frame has a jasper backing. Measures 7″ by 4.25″ by .5″. Rec'd—October 3, 2002. Est. Value—$9500. Archives Foreign | His Excellency, Igor Yusufov, Minister of Energy of the Russian Federation | Non-acceptance would cause embarrassment to donor and U.S. Government.
127985/BOYER_C, Vice President | Wool and alpaca textile (axsu) woven on a pre-Columbian loom by Bolivan artisan, Leonarda Churqui. Measures 26″ by 36″; mounted on black wool with wooden hanging rods. Features columns of red/black and pink/navy in native designs. Rec'd—November 14, 2002. Est. Value—$1000. Archives Foreign | His Excellency, Gonzalo Sanchez De Lozada, President of the Republic of Bolivia | Non-acceptance would cause embarrassment to donor and U.S. Government.
129322/BOYER_C, Vice President and Mrs. Cheney | Tiffany “Brittania” crystal compote. Measures 5.75 inches high and 10 inches in diameter. Rec'd—December 12, 2002. Est. Value—$195. Vice President retained | His Excellency, Salem Abdullah Al-Jaber Al-Sabah and Mrs. Rima R. Al-Sabah, Embassy of Kuwait | Non-acceptance would cause embarrassment to donor and U.S. Government.
116764/BOYER_C, Vice President and Mrs. Cheney | Inlaid mother-of-pearl background with nativity scene in bas relief and the word “Bethlehem 2000”, Rec'd—March 19, 2003. Est. Value—$2000. Archives Foreign | Yasser Arafat, Chairman of Palestinian Authority, Palestine | Non-acceptance would cause embarrassment to donor and U.S. Government.
128536/BOYER_C, Vice President | Red and white Hsiao Fang Pottery vase, 12″ high, with dragon motif, on a rosewood base. In silk covered presentation box. Rec'd—09/17/02. Est. Value—$450. Archives Foreign | The Honorable Lien Chan, Chairman, Kuomintang Party, Taiwan | Non-acceptance would cause embarrassment to donor and U.S. Government.
115528/BOYER_C, Mrs. Cheney | All silk Egyptian carpet, measures 40″ x 58″, having geometrical center medallion containing seven diamonds, new ca. 2000, very good quality and coloration. Rec'd—March 4, 2002. Est. Value—$1800. Archives Foreign | His Excellency, Mohamed Hosny Mubarak, President of the Arab Republic of Egypt | Non-acceptance would cause embarrassment to donor and U.S. Government.
116466/BOYER_C, Mrs. Cheney | Multi-color wool rug, handwoven by the Bedouin women of Jabal Bani Hamida for the Jordan River Foundation, a group dedicated to helping Jordanian women form microbusinesses making traditional crafts. Measures 80″ by 60″, Rec'd—March 12, 2002. Est. Value—$150. Archives Foreign | His Majesty, King Abdullah II bin al Hussein, of the Hashemite Kingdom of Jordan | Non-acceptance would cause embarrassment to donor and U.S. Government.
116338/BOYER_C, Mrs. Cheney | Necklace, bracelet, earrings, ring in swirled pattern. White gold with 46.99 carets of diamonds and 51.08 carets of rubies. Manufactured by Mouawad. Given to Mrs. Cheney on March 2002 Middle East trip by Her Highness Hussa Al Shalon, wife of the Crown Prince. Rec'd—March 16, 2002. Est. Value—$40000. Archives Foreign | His Royal Highness, Abdallah Bin Abd Al-Aziz, Al Saud, Crown Prince, First Deputy Prime Minister and Commander of the National Guard of Saudi Arabia | Non-acceptance would cause embarrassment to donor and U.S. Government.
116510/BOYER_C, Mrs. Cheney | Sterling silver commemorative coin set (8 coins), valued at $125. One 22k gold commemorative coin, valued at $315. Given to Mrs. Cheney by Sheikha Hala Bint Daij Al-Khalifa on the Middle East trip. Rec'd—March 16, 2002. Est. Value—$440. Archives Foreign | His Majesty, Sheikh Hamad bin Essa Al Khalifa, King of the Kingdom of Bahrain | Non-acceptance would cause embarrassment to donor and U.S. Government.
134571/BOYER_C, Mrs. Cheney | Samsonite metal suitcase given to Mrs. Cheney by Sheika Fatima Bent Mubarak al Kethi, wife of the President. Rec'd—March 16, 2002. Est. Value—$476. Archives Foreign | His Highness, Shaykh Zayid bin Sultan Al Nahayyan, President of the United Arab Emirates | Non-acceptance would cause embarrassment to donor and U.S. Government.
| Royal blue silk long dress in a caftan style, embroidered with gold thread and beading. Given to Mrs. Cheney by Sheika Fatima Bent Mubarak al Kethi, wife of the President. Rec'd—March 16, 2002. Est. Value—$200. Archives Foreign |  |
| Three piece black dress ensemble of brocade and lame. Given to Mrs. Cheney by Sheika Fatima Bent Mubarak al Kethi, wife of the President. Rec'd—March 16, 2002. Est. Value—$200. Archives Foreign |  |
| Green silk long dress in the caftan style decorated with scrolled and trailing flowers and leaves. Given to Mrs. Cheney by Sheika Fatima Bent Mubarak al Kethi, wife of the President. Rec'd—March 16, 2002. Est. Value—$150. Archives Foreign |  |
| Two piece dress in lightweight orange and white floral design silk-like fabric. Given to Mrs. Cheney by Sheika Fatima Bent Mubarak al Kethi, wife of the President. Rec'd—March 16, 2002. Est. Value—$75. Archives Foreign |  |
119371/BOYER_C Mrs. Cheney | Large Arabic stained wooden chest, hinged lid with brass latch, 5 drawers, elaborate brass decoration on lid and sides, measures 19″ by 45″ by 19″. Rec'd—March 16, 2002. Est. Value—$900. Archives Foreign | His Highness, Shaykh Zayid bin Sultan Al Nahayyan, President of the United Arab Emirates | Non-acceptance would cause embarrassment to donor and U.S. Government.
| Hardcover books: Phoenix Rising: The United Arab Emirates, Past, Present & Future by Werner Forman (cover price $95) and UAE in Focus: A Photographic History of the United Arab Emirates ($51), Rec'd—March 16, 2002. Est. Value—$146. Archives Foreign |  |
| 21 K gold jewelry, necklace and earrings with synthetic emeralds and rubies and pearls, Rec'd—March 16, 2002. Est. Value—$4000. Archives Foreign |  |
| Six inch silver engraved dagger in a wood-framed double matted shadow box, measures 12″ by 14″, Rec'd—March 16, 2002. Est. Value—$150. Archives Foreign. Transferred to the General Services Administration |  |
| Four yards cotton dress material with silver braid at the neckline ($100), Black silk outer robe with jet beads, matching scarf ($100) Yellow satin dress with mauve chiffon overlay, jeweled bodice ($100), Girl's dress, purple with embroidered flowers, size 6-8, with silver braid at the neckline ($75), Rec'd—March 16, 2002. Est. Value—$375. Archives Foreign |  |
| Gold plastic gahwa, 16″ high ($25) Woven wool horse blanket, measures 18″ by 104″ ($35), Rec'd—March 16, 2002. Est. Value—$60. Archives Foreign |  |
| Photograph of the Royal Family in a Christofle silver frame. Frame was broken in transit from the Middle East. Given to Mrs. Cheney by Sheika Fatima Bent Mubarak al Kethi. Rec'd—March 16, 2002. Est. Value—$450. Archives Foreign |  |
116474/BOYER_C, Mrs. Cheney | Abaya and veils in black silk, with gold trim. Textiles valued at $250. Ornate jewelry made of thinly fashioned silver: Large necklace, belt, bracelet, earrings with black stone, ring with black stone, small necklace. Jewelry valued at $150. Rec'd—March 16, 2002. Est. Value—$400. Archives Foreign | His Majesty, Fahd Bin Abd Al-Aziz Al Saud, Custodian of the Two Holy Mosques and King of Kingdom of Saudi Arabia. | Non-acceptance would cause embarrassment to donor and U.S. Government.
| Christian Dior cosmetics for women-“J'Adore” fragrance; perfume, body lotion, soap, deodorant, bath gel. Rec'd—March 16, 2002. Est. Value—$176. Handled pursuant to Secret Service Policy |  |
118658/BOYER_C, Mrs. Cheney | Necklace, bracelet, earrings, and ring in antelope motif, white gold with 22 heart-shaped garnet stones of a total weight of 24.08 carets. Designed by Issa Al-Ghanem exclusively for Al Wajba Palace. In a burgundy colored ostrich leather box. Given to Mrs. Cheney by Her Highness Sheikha Mozah bint Nasser Al-Missned, second wife of the Amir. Rec'd—March 17, 2002. Est. Value—$3500. Archives Foreign | His Highness, Hamad Bin Khalifa Al-Thani, Amir of the State of Qatar | Non-acceptance would cause embarrassment to donor and U.S. Government.
117577/BOYER_C, Mrs. Cheney | Limited edition, handcrafted and hand blown perfume bottle, made exclusively for Shfellah Center for Children with Special Needs. It has a Shlellah dower stopper, Sterling silver and gold plated. Made by Thomas Goode of London. Given to Mrs. Cheney by Her Highness Sheikha Mozah bint Nasser Al-Missned, second wife of the Amir. Rec'd—March 17, 2002. Est. Value—$400. Archives Foreign | High Highness, Hamad Bin Khalifa Al-Thani, Amir of the State of Qatar | Non-acceptance would cause embarrassment to donor and U.S. Government.
116511/BOYER_C, Mrs. Cheney | Bracelet of 22K gold with two rows of medium size freshwater pearls. Rec'd—March 18, 2002. Est. Value—$550. Transferred to the General Services Administration | High Highness, Shaykh Saad al-Abdullah Al-Salim Al Sabah, Crown Prince and Prime Minister of the State of Kuwait | Non-acceptance would cause embarrassment to donor and U.S. Government.
116582/BOYER_C, Mrs. Cheney | Miniature mbayyat three drawer box encrusted with 22K gold. Given to Mrs. Cheney by Her Highness Shaykha Latifeh Fahad Al Sabah. Measures 10″ x 5″ x 6″ Rec'd—March 18, 2002. Est. Value—$2500. Archives Foreign | Shaykh Saad al-Abdullah Al-Salim Al Sabah, Crown Prince and Prime Minister of the State of Kuwait | Non-acceptance would cause embarrassment to donor and U.S. Government.
| Woman's ring, in 24K gold, with polished turquoise stone. given to Mrs. Cheney by Her Highness Shaykha Latifeh Fahad Al Sabah. Rec'd—March 18, 2002. Est. Value—$300. Archives Foreign |  |
121673/BOYER_C, Mrs. Cheney | Silver pendant necklace with large Baltic amber stone, in flowing Art Nouveau design, with hinged Sterling silver tulus attached. Given to Mrs. Cheney by Jolanta Kwasniewski, wife of the President. Rec'd—July 17, 2002. Est. Value—$250. Archives Foreign | His Excellency Aleksander Kwasniewski President of the Republic of Poland | Non-acceptance would cause embarrassment to donor and U.S. Government.
125948/BOYER_C, Mrs. Cheney | Jewelry set: white gold and small diamond necklace, bracelet, ring and earrings. Rec'd—September 25, 2002. Est. Value—$2500. Archives Foreign | Field Marshal Hussein Tantawi, Commander-in-Chief of the Armed Forces, Embassy of the Arab Republic of Egypt | Non-acceptance would cause embarrassment to donor and U.S. Government.
116338/BOYER_C, Vice President Staff | Concord stainless steel women's Saratoga bracelet watch, with quartz movement, calendar, and water resistance. Given to Mary Matalin at the Crown Prince's dinner in Jeddah, Saudi Arabia. Rec'd—March 16, 2002. Est. Value—$1450. Archives Foreign | His Royal Highness, Abdallah Bin Abd Al-Aziz, Al Saud, Crown Prince, First Deputy Prime Minister and Commander of the National Guard of Saudi Arabia | Non-acceptance would cause embarrassment to donor and U.S. Government.
| Stainless steel Concord Sportivo men's bracelet watch with chronograph dial, quartz movement. Given to Lewis Libby at Crown Prince's dinner in Jeddah. Rec'd—March 16, 2002. Est. Value—$1790. Archives Foreign |  |
| Stainless steel Concord Sportivo men's bracelet watch with chronograph dial, quartz movement. Given to Eric Edelman at Crown Prince's dinner in Jeddah. Rec'd—March 16, 2002. Est. Value—$1790. Archives Foreign |  |
| Stainless steel Concord Sportivo men's bracelet watch with chronograph dial, quartz movement. Given to John Hannah at Crown Prince's dinner in Jeddah. Rec'd—March 16, 2002. Est. Value—$1790. Archives Foreign |  |
119371/BOYER_C, Vice President Staff | Small Arabic stained wooden chest, hinged lid with brass latch, 3 drawers, elaborate brass decoration on lid and sides, measures 14″ by 30″ by 16″ ($150) Book: UAE Yearbook 2000-2001 ($14) Brass gahwa, 15″ high ($25) Framed silver 6 inch engraved dagger, in wood-framed double-matted shadow box, 12″ by 14″ ($150) Four yards cotton dress material with silver braid at neckline ($100) Woven horse blanket, 30″ by 70″ ($35) Given to Lea Berman. Rec'd—March 16, 2002. Est. Value—$474. Archives Foreign | His Highness Shaykh Zayid bin Sultan Al Nahayyan, President of the United Arab Emirates | Non-acceptance would cause embarrassment to donor and U.S. Government.
| Small Arabic stained wooden chest, hinged lid with brass latch, 3 drawers, elaborate brass decoration on lid and sides, measures 14″ by 30″ by 16″ ($150) Book: UAE Yearbook 2000-2001 ($14) Brass gahwa, 15″ high ($25) Framed silver 6 inch engraved dagger, in wood-framed, double-matted shadow box, 12″ by 14″ (150) Four yards cotton dress material with silver braid at neckline ($100) Woven horse blanket, 30″ by 70″ ($35) given to Laura Chadwick. Rec'd—March 16, 2002. Est. Value—$474. Archives Foreign |  |
116474/BOYER_C, Vice President Staff | Black silk abaya, with rhinestones and gold lace. Given to Mary Matalin. Rec'd—March 16, 2002. Est. Value—$250. Personally retained by staff member | His Majesty, Fahd Bin Abd Al-Aziz Al Saud, Custodian of the Two Holy Mosques and King of Kingdom of Saudi Arabia | Non-acceptance would cause embarrassment to donor and U.S. Government.
| Seven boxes of Saudi traditional men's clothing were given to members of the VP's delegation to the Middle East. Two long white cotton shirts, complete headress, leather sandals, and prayer beads in green leather case. Each gift was valued at $250 by James Keshsishian. One box was sent to State Department Office of Protocol for Ambassador Burns; another box was sent to the President's gift unit for General Wayne Downing. The remaining five boxes were intended for members of the Vice President's personal staff. Rec'd—March 16, 2002. Est. Value—$1750. Archives Foreign |  |
116511/BOYER_C, Vice President Staff | Women's 22k gold bracelet with two rows of small cultured egg-shaped freshwater pearls. For Lea Berman. Rec'd—March 18, 2002. Est. Value—$450. Transferred to the General Services Administration | His Highness Shaykh Saad al-Abdullah Al-Salim Al Sabah, Crown Prince and Prime Minister of the State of Kuwait | Non-acceptance would cause embarrassment to donor and U.S. Government.
| Seven boxes of Saudi traditional men's clothing were given to members of the VP's delegation to the Middle East. Two long white cotton shirts, complete headress, leather sandals, and prayer beads in green leather case. Each gift was valued at $250 by James Keshsishian. One box was sent to State Department Office of Protocol for Ambassador Burns; another box was sent to the President's gift unit for General Wayne Downing. The remaining five boxes were intended for members of the Vice President's personal staff. Rec'd—March 16, 2002. Est. Value—$1750. Archives Foreign |  |
116511/BOYER_C, Vice President Staff | Women's 22k gold bracelet with two rows of small cultured egg-shaped freshwater pearls. For Lea Berman. Rec'd—March 18, 2002. Est. Value—$450. Transferred to the General Services Administration | His Highness Shaykh Saad al-Abdullah Al-Salim Al Sabah, Crown Prince and Prime Minister of the State of Kuwait | Non-acceptance would cause embarrassment to donor and U.S. Government.
| Women's 22k gold bracelet with two rows of small cultured egg-shaped freshwater pearls. For Laura Chadwick. Rec'd—March 18, 2002. Est. Value—$450. Transferred to the General Services Administration |  |
129322/BOYER_C, Vice President Staff | Tiffany “Metropolis” crystal bud vase. Measures 10 inches high. Given to Lewis Libby. Rec'd—December 12, 2002. Est. Value—$110. Archives Foreign | His Excellency Salem Abdullah Al-Jaber Al-Sabah & Mrs. Rima R. Al-Sabah, Embassy of Kuwait | Non-acceptance would cause embarrassment to donor and U.S. Government.
| Tiffany crystal bowl. Measures 4 inches high and 5 inches in diameter. Given to Eric Edelman. Rec'd—December 12, 2002. Est. Value—$100. Archives Foreign |  |
| Tiffany crystal bowl. Measures 4 inches high and 5 inches in diameter. Given to John Hannah. Rec'd—December 12, 2002. Est. Value—$100. Archives Foreign |  |
| Tiffany crystal bowl. Measures 4 inches high and 5 inches in diameter. Given to Dr. Tom Parker. Rec'd—December 12, 2002. Est. Value—$100. Archives Foreign |  |

AGENCY: United States Senate
[Report of Tangible Gifts]
Name and title of person accepting gift on behalf of the U.S. Government | Gift, date of acceptance on behalf of the U.S. Government, estimated value and current disposition or location | Identity of foreign donor and government | Circumstances justifying acceptance
Max Baucus, U.S. Senator | Ceramic Plate with 24 Karat gold trim. June 11, 2002—Est. Value—More than $100. Deposited with Secretary of the Senate | Prince Bandar Bin Sultan, Embassy of Saudi Arabia | Non-acceptance would cause donor embarrassment.
Joseph Biden, U.S. Senator | Needlepoint picture of a bowl and flowers. April 23, 2002—Est. Value—Over $100. Deposited with the Secretary of the Senate | Do Van Tai, Chairman of the Foreign Committee of the National Assembly of Vietnam | Non-acceptance would cause donor embarrassment.
Sam Brownback, U.S. Senator | Souvenir Set of Coins. March 15, 2002—Est. Value—Over $100. Deposited with the Secretary of the Senate | President Islam A. Karimov of Uzbekistan | Non-acceptance would cause donor embarrassment.
Sam Brownback, U.S. Senator | Silver Flatware set for six. March 15, 2002—Est. Value—$500-700. Deposited with the Secretary of the Senate | President Islam A. Karimov of Uzbekistan | Non-acceptance would cause donor embarrassment.
Hillary Rodham Clinton, U.S. Senator | Hermes Scarf. March 3, 2002—Est. Value—$275. Deposited with the Secretary of the Senate | Jean Claude Juncher, Prime Minister of Luxembourg | Non-acceptance would cause donor embarrassment.
Susan Collins, U.S. Senator | Set of 12 Commemorative Uzbekistan silver coins in wood presentation box. January 6, 2002. Est. Value—$200. Deposited with the Secretary of the Senate | President Islam Karimov of Uzbekistan | Non-acceptance would cause donor embarrassment.
Tom Daschle, U.S. Senator | Wooden Chalice with gold outlines. February 11, 2002—Est. Value—$300. Deposited with the Secretary of the Senate | Amir of Qatar Hamad Bin Khalifa Al-Thani | Non-acceptance would cause donor embarrassment.
Tom Daschle, U.S. Senator | Sterling Silverware. January 19, 2002—Est. Value—$500-700. Deposited with the Secretary of the Senate | President Islam Karimov of Uzbekistan | Non-acceptance would cause donor embarrassment.
Tom Daschle, U.S. Senator | 4′x6′ Red Silk and Wool Rug. February 11, 2002—Est. Value—$300. Displayed in SH-509 | Chairman Karzai of Afghanstan | Non-acceptance would cause donor embarrassment.
John Edwards, U.S. Senator | Set of 12 Sterling Silver Coins. January 6, 2002—Est. Value—$200. Deposited with the Secretary of the Senate | President Islam Karimov of Uzbekistan | Non-acceptance would cause donor embarrassment.
Diane Feinstein, U.S. Senator | Wicker Basket containing cookies, nuts, candies, cheeses, crackers and other edibles. December 12, 2002—Est. Value—$200. Donated to Charity, House of Ruth, Washington, DC | Bader Omar Al-Dafa, Ambassador of Qatar | Non-acceptance would cause donor embarrassment.
Chuck Hagel, U.S. Senator | Set of 12 Sterling Silver Souvenir Coins. January 6, 2002—Est. Value—$200. Displayed in SR-246 | President Islam Karimov of Uzbekistan | Non-acceptance would cause donor embarrassment.
Edward Kennedy, U.S. Senator | Hanging tiled wall mosaic. August 1, 2001—Est. Value—$1500. Displayed in SR-319 | President Bouteflika of Algeria | Non-acceptance would cause donor embarrassment.
Carl Levin, U.S. Senator | Six piece, 22 karat Place setting. July 22, 2003—Est. Value—Over $100. Deposited with the Secretary of the Senate | President Islam Karimov of Uzbekistan | Non-acceptance would cause donor embarrassment.
Joe Lieberman, U.S. Senator | Sterling Silver Decorative Jar. January 4, 2002—Est. Value—$250. Deposited with the Secretary of the Senate | Prime Minister of Ecevet of Turkey | Non-acceptance would cause donor embarrassment.
Joe Lieberman, U.S. Senator | Sterling Silverware. January 6, 2002—Est. Value—$500-700. Deposited with the Secretary of the Senate | President Islam Karimov of Uzbekistan | Non-acceptance would cause donor embarrassment.
Joe Lieberman, U.S. Senator | Set of 12 Sterling Silver Coins. January 6, 2002—Est. Value—$200. Deposited with the Secretary of the Senate | President Islam Karimov of Uzbekistan | Non-acceptance would cause donor embarrassment.
John McCain, U.S. Senator | Set of 12 Sterling Silver Coins. January 3, 2002—Est. Value—$200. Displayed in SR-241 | President Islam Karimov of Uzbekistan | Non-acceptance would cause donor embarrassment.
Bill Nelson, U.S. Senator | Set of 12 Sterling Silver Coins. January 6, 2002—Est. Value—$200. Deposited with the Secretary of the Senate | President Islam Karimov of Uzbekistan | Non-acceptance would cause donor embarrassment.
Bill Nelson, U.S. Senator | Rug. April 14, 2001—Est. Value—Over $100. Displayed in SH-716 | President of Algeria, H.E. Abdelaziz Bouteflika | Non-acceptance would cause donor embarrassment.
Bill Nelson, U.S. Senator | Rug. July 12, 2001—Est. Value—Over $100. Displayed in SH-716 | President of Azerbaijan Heyder Aliyev | Non-acceptance would cause donor embarrassment.
Jack Reed, U.S. Senator | Set of 12 Sterling Silver coins. January 6, 2002—Est. Value—$200. Deposited with the Secretary of the Senate | President Islam Karimov of Uzbekistan | Non-acceptance would cause donor embarrassment.
Richard Shelby, U.S. Senator | Portrait of Ethiopian Monk. August 19, 2002—Est. Value—Over $100. Deposited with the Secretary of the Senate | Prime Minister Meles Zenawi of Ethiopia | Non-acceptance would cause donor embarrassment.
Arlen Specter, U.S. Senator | Portrait of Ethiopian Monk. August 19, 2002—Est. Value—Over $100. Deposited with Secretary of the Senate | Prime Minister Meles Zenawi of Ethiopia | Non-acceptance would cause donor embarrassment.
Fred Thompson, U.S. Senator | Set of 12 Sterling Silver Coins. January 6, 2002—Est. Value—$200. Deposited with Secretary of the Senate | President Islam Karimov of Uzbekistan | Non-acceptance would cause donor embarrassment.
John Warner, U.S. Senator | Sterling Silverware, Service for Six. July 22, 2002—Est. Value—$400. Deposited with the Secretary of the Senate | President Islam Karimov of Uzbekistan | Non-acceptance would cause donor embarrassment.

AGENCY: United States Senate
[Report of Travel or Expenses of Travel]
Name and title of person accepting travel expenses consistent with the interests of the U.S. Government | Brief description of travel or expenses accepted as consistent with the interests of the U.S. Government and occurring outside the United States | Identity of foreign donor and government | Circumstances justifying acceptance
Joe Biden, U.S. Senator | Transportation by air from Islamabad, Pakistan to Kabul Afghanistan, January 10, 2002 | World Food Program, A United Nations Agency | Official travel to Afghanistan. No commercial air travel available; no U.S. military aircraft available.
Joe Biden, U.S. Senator | One night lodging and meals, December 6-7, 2002 | Kurdish Regional Government | Official travel to Northern Iraq. Security and diplomatic considerations required acceptance.
Joe Biden, U.S. Senator | One night lodging and meals, December 8, 2002 | Government of Saudi Arabia | Official travel to meet U.S. troops and Saudi officials. Refusal to accept would have caused diplomatic embarrassment to United States Government.
Jonah Blank, Professional Staff Member, Committee on Foreign Relations | Transportation by air from Islamabad, Pakistan to Kabul Afghanistan, January 10, 2002 | World Food Program, A United Nations Agency | Official travel to Afghanistan. No commercial air travel available; no U.S. military aircraft available.
Jonah Blank, Professional Staff Member, Committee on Foreign Relations | Transportation within Pakistan via Helicopter to military installations, including lodging and meals, August 29-30, 2002 | Government of Pakistan | Official visit to view posts on the line of Control. No commercial transportation was available to these sites.
Antony Blinken, Staff Member, Committee on Foreign Relations | One night lodging and meals, December 6-7, 2002 | Kurdish Regional Government | Official travel to Northern Iraq. Security and diplomatic considerations required acceptance.
Antony Blinken, Staff Member, Committee on Foreign Relations | One night lodging and meals, December 8, 2002 | Government of Saudi Arabia | Official travel to meet U.S. Troops and Saudi officials. Refusal to accept would have caused diplomatic embarrassment to the United States Government.
Jean Carnahan, U.S. Senator | Transportation within Pakistan; Islamabad to Khyber Pass and return, January 8, 2002 | Government of Pakistan | No commercial flights available; non-acceptance would cause embarrassment.
Susan Collins, U.S. Senator | Transporation within Pakistan; islamabad to Khyber Pass and return, January 8, 2002 | Government of Pakistan | No commercial flights available; non-acceptance would cause embarrassment.
Joni Crosley, Legislative Assistant to Senator George Voinovich | Transportation within Brussels, Belgium via ground transportation, lodging and some meals, January 7-12, 2002 | The Atlantic Council | Travel to Meet with NATO and European Union Officials, as well as U.S. personnel overseas.
Joni Crosley, Legislative Assistant to Senator George Voinovich | Transportation within the Republic of China, including lodging and meals, August 19-25, 2002 | Chinese Association of Industry and Commerce | Travel to examine US-ROC foreign policy, trade, and security issues. As well as ROC-PRC and US-PRC relations.
Fred Downey, Office of Senator Joe Lieberman | Transporation within Pakistan; Islamabad to Khyber Pass and return, January 8, 2002 | Government of Pakistan | No commercial flights available; non-acceptance would cause embarrassment.
Mark Esper, Professional Staff Member, Committee on Foreign Relations | Transporation within Pakistan; Islamabad to Khyber Pass and return, January 8, 2002 | Government of Pakistan | No commercial flights available; non-acceptance would cause embarrassment.
Chuck Hagel, U.S. Senator | Transporation within Pakistan; Islamabad to Khyber Pass and return, January 8, 2002 | Government of Pakistan | No commercial flights available; non-acceptance would cause embarrassment.
Chuck Hagel, U.S. Senator | One night lodging and meals, December 6-7, 2002 | Kurdish Regional Government | Official travel to Northern Iraq. Security and diplomatic considerations required acceptance.
Chuck Hagel, U.S. Senator | One night lodging and meals, December 8, 2002 | Government of Saudi Arabia | Official travel to meet U.S. Troops and Saudi officials. Refusal to accept would have caused diplomatic embarrassment to the United States Government.
Julia Hart, Office of Inter-Parliamentary Services | Transportation within Pakistan; Islamabad to Khyber Pass and return, January 8, 2002 | Government of Pakistan | No commercial flights available; non-acceptance would cause embarrassment.
Liz King, Office of Senator Jack Reed | Transportation within Pakistan; Islamabad to Khyber Pass and return, January 8, 2002 | Government of Pakistan | No commercial flights available; non-acceptance would cause embarrassment.
Norm Kurz, Communications Director of Senator Joe Biden | Transportation by air from Islamabad, Pakistan to Kabul Afghanistan, January 10, 2002 | World Food Program, United Nations Agency | Official travel to Afghanistan. No commercial air travel available; no U.S. miliary aircraft available.
Miles Lackey, Office of Senator John Edwards | Transportation within Pakistan; Islamabad to Khyber Pass and return, January 8, 2002 | Government of Pakistan | No commercial flights available; non-acceptance would cause embarrassment.
Carolyn Leddy, Staff Member, Committee on Foreign Relations | Transporation to and from Arianespace launch facilities within French Guiana, August 26-29 | Centre National d'Etordes Spatiales (CNES), Government of France | Fact finding trip related to Arianespace commercial space launch facilities and CNES space activity in French Guiana.
Joe Lieberman, U.S. Senator | Transportation within Pakistan; Islamabad to Khyber Pass and return, January 8, 2002 | Government of Pakistan | No commercial flights available; non-acceptance would cause embarrassment.
John McCain, U.S. Senator | Transportation within Pakistan; Islamabad to Khyber Pass and return, January 8, 2002 | Government of Pakistan | No commercial flights available; non-acceptance would cause embarrassment.
Patricia McNeary, Republican Staff Director, Committee on Foreign Relations | Transportation within Norway, August 11-17, 2002 | Government of Norway | Attend Arctic Parliamentary Conference, and to visit sites related to nuclear waste clean up.
Bill Nelson, U.S. Senator | Transportaion within Pakistan; Islamabad to Khyber Pass and return, January 8, 2002 | Government of Pakistan | No commercial flights available; non-acceptance would cause embarrassment.
Aric Newhouse, Legislative Director to Senator George Voinovich | Transportaion within Brussels, Belgium via ground transportation, lodging and some meals, January 7-12, 2002 | The Atlantic Council | Travel to Meet with NATO and European Union Officials, as well as U.S. personnel overseas.
Aric Newhouse, Legislative Director to Senator George Voinovich | Transportaion within the Republic of China, including lodging and meals, August 19-25, 2002 | Chinese Association of Industry and Commerce | Travel to examine US-ROC foreign policy, trade, and security issues. As well as ROC-PRC and US-PRC relations.
Andrew Parasiliti, Foreign Policy Advisor, Office of Senator Chuck Hagel | Transportaion within Pakistan; Islamabad to Khyber Pass and return, January 8, 2002 | Government of Pakistan | No commercial flights available; non-acceptance would cause embarrassment.
Andrew Parasiliti, Foreign Policy Advisor, Office of Senator Chuck Hagel | One night lodging and meals, December 6-7, 2002 | Kurdish Regional Government | Official travel to Northern Iraq. Security and diplomatic considerations required acceptance.
Andrew Parasiliti, Foreign Policy Advisor, Office of Senator Chuck Hagel | One night lodging and meals, December 8, 2002 | Government of Saudi Arabia | Official travel to meet U.S. Troops and Saudi officials. Refusal to accept would have caused diplomatic embarrassment to the United States Government.
Jack Reed, U.S. Senator | Transportaion within Pakistan; Islamabad to Khyber Pass and return, January 8, 2002 | Government of Pakistan | No commercial flights available; non-acceptance would cause embarrassment.
Puneet Talwar, Professional Staff Member, Committee on Foreign Relations | Transportation by air from Islamabad, Pakistan to Kabul Afghanistan, January 10, 2002 | World Food Program, United Nations Agency | Official travel to Afghanistan. No commercial air travel available; no U.S. miliary aircraft available.
Puneet Talwar, Professional Staff Member, Committee on Foreign Relations | Government of Saudi Arabia provided lodging in guest quarters as well as two meals, August 10-11, 2002 | Government of Saudi Arabia | Non-acceptance would have caused diplomatic embarrassment to the United States government.
Puneet Talwar, Professional Staff Member, Committee on Foreign Relations | Six nights lodging and meals, October 24-29, 2002 | Kurdish Regional Government | Official travel to Northern Iraq. Security and diplomatic considerations required acceptance.
Puneet Talwar, Professional Staff Member, Committee on Foreign Relations | One night lodging and meals, December 6-7, 2002 | Kurdish Regional Government | Official travel to Northern Iraq. Security and diplomatic considerations required acceptance.
Puneet Talwar, Professional Staff Member, Committee on Foreign Relations | One night lodging and meals, December 8, 2002 | Government of Saudi Arabia | Official travel to meet U.S. Troops and Saudi officials. Refusal to accept would have caused diplomatic embarrassment to the United States Government,
Fred Thompson, U.S. Senator | Transportation within Pakistan; Islamabad to Khyber Pass and return, January 8, 2002 | Government of Pakistan | No commercial flights available; non-acceptance would cause embarrassment.
Dan Twining, Office of Senator John McCain | Transportation within Pakistan; Islamabad to Khyber Pass and return, January 8, 2002 | Government of Pakistan | No commercial flights available; non-acceptance would cause embarrassment.
George Voinovich, U.S. Senator | Transportation within the Republic of China, including lodging and meals, August 19-25, 2002 | Chinese Association of Industry and Commerce | Travel to examine US-ROC foreign policy, trade, and security issues. As well as ROC-PRC and US-PRC relations.
George Voinovich, U.S. Senator | Transportation within Brussels, Belgium via ground transportation, lodging and some meals, January 7-12, 2002 | The Atlantic Council | Travel to meet with NATO and European Union Officials, as well as U.S. personnel overseas.
Peter Zimmerman, Chief Scientist, Committee on Foreign Relations | Government helicopter from Longyearbyen to Ny Aalesund, Svalbard, Norway including lunch, August 13, 2002 | Government of Norway | Official travel to view arctic research station. No commercial transportation was available to sites.
Peter Zimmerman, Chief Scientist, Committee on Foreign Relations | Transportation by Zodiac boat to view solar powered remote lighthouse built by Norway as prototype for replacing radioactive isotope powered lighthouse in Russia, August 14, 2002 | Government of Norway | Official travel to view arctic environmental risk areas. No commercial transporation was available to these sites.

AGENCY: U.S. House of Representatives
[Report of Tangible Gifts]
Name and title of person accepting gift on behalf of the U.S. Government | Gift, date of acceptance on behalf of the U.S. Government, estimated value, and current disposition or location | Identity of foreign donor and government | Circumstances justifying acceptance
Mike McIntrye, Member of Congress | Bokhara rug. Received August 2002. Value—$350.00. On display in Rep. McIntrye's district office in Wilmington, North Carolina | Hamid Karzi, President, Government of Afghanistan | Non-acceptance would have caused embarrassment to donor.
Bob Stump, Member of Congress | Silver plated coffee server, brass trim, long handle and spout; oriental design. Received March 12, 2002. Value—$400.00. Displayed in Rep. Stump's office in 2002 and delivered to the Clerk's office prior to Rep. Stump's departure from office | His Highness Sheikh Hamad Bin Khalifa A-Thani, The Emir of the State of Qatar | Non-acceptance would have caused embarrassment to donor.

AGENCY: U.S. House of Representatives
[Report of Travel or Expenses of Travel]
Name and title of person accepting travel or travel expenses consistent with the interests of the U.S. Government | Brief description and estimated value of travel or travel expenses accepted as consistent with the interests of the U.S. Government and occurring outside the United States | Identity of foreign donor and government | Circumstances justifying acceptance
Cass Ballenger, Member of Congress | 2 night stay aboard M/V Galapagos Explorer II and all meals aboard ship, January 16-18, 2002, for fisheries study and discussions with government officials | Government of Ecuador | Authorized by 5 U.S.C. § 7342(c)(1)(B)(ii).
Jessica H. Baumgarten, Subcommittee on the Western Hemisphere | 2 night stay aboard M/V Galapagos Explorer II and all meals aboard ship, January 16-18, 2002, for fisheries study and discussions with government officials | Government of Ecuador | Authorized by 5 U.S.C. § 7342(c)(1)(B)(ii).
Patrick T. “Ted” Brennan, Subcommittee on the Western Hemisphere | 2 night stay aboard M/V Galapagos Explorer II and all meals aboard ship, January 16-18, 2002, for fisheries study and discussions with government officials | Government of Ecuador | Authorized by 5 U.S.C. § 7342(c)(1)(B)(ii).
Linda Danforth, Rep. Adam Smith | Lodging and meals in Wuxi, meals in Shanghai, bus transportation, Sept. 4-Sept. 10, 2002 | Governments of Beijing, Wuxi, and Shanghai, Peoples' Republic of China | Authorized by 5 U.S.C. § 7342(c)(1)(B)(ii).
Elton Gallegly, Member of Congress | Lodging, meals and land transportation in Ecuador for Member and spouse, January 17-20, 2002 | Government of Ecuador | Authorized by 5 U.S.C. § 7342(c)(1)(B)(ii).
Kirsti T. Garlock, House International Relations Comm | 2 night stay aboard M/V Galapagos Explorer II and all meals aboard ship, January 16-18, 2002, for fisheries study and discussions with government officials | Government of Ecuador | Authorized by 5 U.S.C. § 7342(c)(1)(B)(ii).
Caleb McCarry, Subcommittee on the Western Hemisphere | 2 night stay aboard M/V Galapagos Explorer II and all meals aboard ship, January 16-18, 2002, for fisheries study and discussions with government officials | Government of Ecuador | Authorized by 5 U.S.C. § 7342(c)(1)(B)(ii).
John P. Mackey, International Relations Committee | 2 night stay aboard M/V Galapagos Explorer II and all meals aboard ship, January 16-18, 2002, for fisheries study and discussions with government officials | Government of Ecuador | Authorized by 5 U.S.C. § 7342(c)(1)(B)(ii).
Collin C. Peterson, Member of Congress | 2 night stay aboard M/V Galapagos Explorer II and all meals aboard ship, January 16-18, 2002, for fisheries study and discussions with government officials | Government of Ecuador | Authorized by 5 U.S.C. § 7342(c)(1)(B)(ii).
Paul L. Oostburg Sanz, International Relations Committee | 2 night stay aboard M/V Galapagos Explorer II and all meals aboard ship, January 16-18, 2002, for fisheries study and discussions with government officials | Government of Ecuador | Authorized by 5 U.S.C. § 7342(c)(1)(B)(ii).

AGENCY: Department of State
[Report of Tangible Gifts]
Name and title of person accepting gift on behalf of the U.S. Government | Gift, date of acceptance on behalf of the U.S. Government, estimated value, and current disposition or location | Identity of foreign donor and government | Circumstances justifying acceptance
T.H. Colin L. Powell, Secretary of State | Bust 10″ and plaque 13½ H (framed), polychromed carved stone, together with a videotape. Rec'd—9/5/02. Est. Value—$400.00. Pending transfer to the General Services Administration | H.E. Jean Ping, Minister of State for Foreign Affairs, Cooperation and Francophonie Affairs of the Gabonese Republic | Non-acceptance would cause the donor or the U.S. Government embarrassment.
T.H. Colin L. Powell, Secretary of State | Ice pail, 4⅞″ H x 6″ diameter across, two lug handles with pendant rings, 900 silver, by Romana, Colombia, 8 ozs T. Rec'd—12/4/02. Est. Value—$425.00. Pending transfer to the General Services Administration | H.E. Carolina Barco, Minister of Foreign Relations of the Republic of Colombia | Non-acceptance would cause the donor or the U.S. Government embarrassment.
T.H. Colin L. Powell, Secretary of State | Vase, 6″ H, sterling silver, copy of an ancient Greek design, 6 ozs T. Rec'd—11/21/02. Est. Value—$300.00. Pending transfer to the General Services Administration | H.E. George Papandreou, Minister of Foreign Affairs of the Hellenic Republic | Non-acceptance would cause the donor or the U.S. Government embarrassment.
T.H. Colin L. Powell, Secretary of State | Vase, 6½″ H, Moser faceted crystal of tapering form, Czech Republic, late 20th/early 21st century. Rec'd—11/21/02. Est. Value—$400.00. Pending transfer to the General Services Administration | H.E. Cyril Svoboda, Minister of Foreign Affairs of the Czech Republic | Non-acceptance would cause the donor or the U.S. Government embarrassment.
T.H. Colin L. Powell, Secretary of State | Briefcase, black leather, Mexico, together with a Sheaffer ballpoint pen. Rec'd—10/24/02. Est. Value—$3,500.00. Pending transfer to the General Services Administration | H.E. Jorge Castaneda, Secretary of Foreign Relations of Mexico | Non-acceptance would cause the donor or the U.S. Government embarrassment.
T.H. Colin L. Powell, Secretary of State | Coin, 1⅜″ diameter, gold proof, Bahamas commemorative 1973-1998, $250 face value, 47.5g, limited edition #126/250. Rec'd—2/7/02. Est. Value—$500.00. Pending transfer to the General Services Administration | H.E. Hubert A. Ingraham, Prime Minister of the Commonwealth of the Bahamas | Non-acceptance would cause the donor or the U.S. Government embarrassment.
T.H. Colin L. Powell, Secretary of State | Antique Glass Bowl. Rec'd—5/1/02. Est. Value—$400.00. Pending transfer to the General Services Administration | Lt. General Shaul Mofaz, Chief of General Staff, Government of Israel | Non-acceptance would cause the donor or the U.S. Government embarrassment.
T.H. Colin L. Powell, Secretary of State | Cigarette Box, 6″ L, sterling silver inlaid with pieces of chilean lapis lazuli, engraved with dedication, 13 oz. Rec'd—1/28/02. Est. Value—$300.00. Pending transfer to the General Services Administration | H.E. Maria Soledad Alvear Valenquela, Minister of Foreign Relations of the Republic of Chile | Non-acceptance would cause the donor or the U.S. Government embarrassment.
T.H. Colin L. Powell, Secretary of State | Floor screen, 68½″ x 17¼″ each of four panels, carved and pierced teakwood. Rec'd—1/1602. Est. Value—$750.00. Pending transfer to the General Services Administration | H.E. Pervez Musharraf, President of the Islamic Republic of Pakistan | Non-acceptance would cause the donor or the U.S. Government embarrassment.
T.H. Colin L. Powell, Secretary of State | Cigarette box, 7″ L rectangular, silver, lid with repousse decoration, wood lined, Thailand, 14 ozs T. Rec'd—10/9/02. Est. Value—$400.00. Pending transfer to the General Services Administration | H.E. Thaksin Shinawatra, Prime Minister of the Kingdom of Thailand | Non-acceptance would cause the donor or the U.S. Government embarrassment.
T.H. Colin L. Powell, Secretary of State | Paperweight, 2⅝″ diameter, sterling silver with parcel gilding, Jerusalem, by A. Klein. Rec'd—5/1/02. Est. Value—$500.00. Pending transfer to the General Services Administration | H.E. Ariel Sharon, Prime Minister of Israel | Non-acceptance would cause the donor or the U.S. Government embarrassment.
T.H. Colin L. Powell, Secretary of State | Coins, 100 So'm, silver proofs, 10 oz T each, Uzbekistan. Rec'd—11/23/02. Est. Value—$300.00. Pending transfer to the General Services Administration | H.E. Islam A. Karimov, President of the Republic of Uzbekistan | Non-acceptance would cause the donor or the U.S. Government embarrassment.
T.H. Colin L. Powell, Secretary of State | Table decoration, 8½″ H, gold palm tree with lapis lazuli, rock crystals ball mounted with a map of Saudi Arabia set with three tiny emeralds (Riyadh, Mecca and Medina (probably), rock crystal stem, leather box. Rec'd—4//24/02. Est. Value—$10,000.00. Pending transfer to the General Services Administration | H.R.H. Abdallah bin Abd al-Aziz Al Saud, Crown Prince, First Deputy Prime Minister and Commander of the National Guard of Saudi Arabia | Non-acceptance would cause the donor or the U.S. Government embarrassment.
T.H. Colin L. Powell, Secretary of State | Bowl, pottery, 10½″ diameter set with pierced yellow gold mounts, by Laghrissi Fafi, leather box. Rec'd—4/22/02. Est. Value—$1,000.00. Pending transfer to the General Services Administration | H.M. Mohammed Vi, King of Morocco | Non-acceptance would cause the donor or the U.S. Government embarrassment.
T.H. Colin L. Powell, Secretary of State | Vase 11½″ H, silver, repousse floral decoration, 18ozsT. Rec'd—4/5/02. Est. Value—$450.00. Pending transfer to the General Services Administration | H.E. Islam Karimov, President of the Republic of Uzbekistan | Non-acceptance would cause the donor or the U.S. Government embarrassment.
T.H. Colin L. Powell, Secretary of State | Figure, 9″ H, weighted silver decorated with polychrome enamels depicting an elephant with mahout. Rec'd—1/1/02. Est. Value—$450.00. Pending transfer to the General Services Administration | H.E. Lal Krishna Advani, Minister of Home Affairs of the Republic of India | Non-acceptance would cause the donor or the U.S. Government embarrassment.
T.H. Colin L. Powell, Secretary of State | Coins, silver proof, 100 Som, wood Box and Flatware, sterling silver, 6 dinner knives, 6 demitasse spoons, 6 soup spoons, 6 dinner forks, fitted box. Rec'd—3/12/02. Est. Value—$1,450.00. Pending transfer to the General Services Administration | H.E. Islam Karimov, President of the Republic of Uzbekistan | Non-acceptance would cause the donor or the U.S. Government embarrassment.
T.H. Colin L. Powell, Secretary of State | Wristwatch, man's, stainless steel Breitling “Emergency” with transmitter tester and case. Rec'd—5/6/02. Est. Value—$2,700.00. Pending transfer to the General Services Administration | H.E. Silvio Berlusconi, President of the Council of Ministers of the Italian Republic | Non-acceptance would cause the donor or the U.S. Government embarrassment.
T.H. Colin L. Powell, Secretary of State | Cigarette box, 8¾″ L, handwrought sterling silver, engraved with dedication, 34ozsT. Rec'd—3/23/02. Est. Value—$450.00. Pending transfer to the General Services Administration | H.E. Diego Garcia Sayan, Minister of Foreign Relations of the Republic of Peru | Non-acceptance would cause the donor or the U.S. Government embarrassment.
T.H. Colin L. Powell, Secretary of State | Cufflinks, 18 karat white gold disks bearing crests, each set with 28 round diamonds TW 56 points both. Rec'd 4/29/02. Est. Value—$1,500.00. Pending transfer to the General Services Administration | H.E. Milo Djukanovic, President of the Republic of Montenegro | Non-acceptance would cause the donor or the U.S. Government embarrassment.
T.H. Colin L. Powell, Secretary of State | Carpet, 7′10″ x 6′4″, wool on cotton, two tone green field with sculpted modern decoration. Rec'd—1/18/02. Est. Value—$1,000.00. Pending transfer to the General Services Administration | H.E. Sher Bahadur Deuba, Prime Minsiter of Nepal | Non-acceptance would cause the donor or the U.S. Government embarrassment.
T.H. Colin L. Powell, Secretary of State | Chess set, tooled leather case, camel bone chessmen, 20th/21st century. Rec'd—9/23/02. Est. Value—$350.00. Pending transfer to the General Services Administration | H.E. Askar Akayev, President of the Kyrgyz Republic | Non-acceptance would cause the donor or the U.S. Government embarrassment.
T.H. Colin L. Powell, Secretary of State | Wristwatches, man's, 18 karat white gold case and bracelet, Piaget “Dancer”, burlwood case. Rec'd—8/1/02. Est. Value—$16,000.00. Pending transfer to the General Services Administration | H.M. Sultan Haji Hassanal Bolkiah Mu'izzaddin Waddaulah, Sultan and Yang Di-Pertuan of Brunei Darussalam, Bandar Seri Begawan | Non-acceptance would cause the donor or the U.S. Government embarrassment.
T.H. Colin L. Powell, Secretary of State | Medal, bronze, Bartholomew 1. Rec'd—3/5/02. Est. Value—$500.00. Pending transfer to the General Services Administration | His All Holiness Bartholomew, Archbishop of Constantinople, New Rome and Ecumenical Patriarch | Non-acceptance would cause the donor or the U.S. Government embarrassment.
T.H. Colin L. Powell, Secretary of State | Charger, 9¾″ diameter, 900 silver, repousse decoration of Madonna and Child, Greece, 2002, 140ozsT. Date Rec'd—3/5/02. Est. Value—$550. Pending transfer to the General Services Administration | His All Holiness Bartholomew Archbishop of Constantinople, New Rome and Ecumenical Patriarch | Non-acceptance would cause the donor or the U.S. Government embarrassment.
T.H. Colin L. Powell, Secretary of State | Bowl, 6″ diameter, polished black stone bowl resting on a sterling silver star shape base, has a face at each point. Mexico, 7 ozsT. Rec'd:—10/24/02. Est. Value—$300.000. Pending transfer to the General Services Administration | H. E. Jorge Castaneda, Secretary of Foreign Relations of Mexico | Non-acceptance would cause the donor or the U.S. Government embarrassment.
T.H. Colin L. Powell, Secretary of State | Bottle of vodka in the form of a Khalashnikov rifle, fitted green painted wood case, Russia, 20th/21st century. Rec'd—4/10/02. Est. Value—$450.00. Pending transfer to the General Services Administration | H.E. Igor Ivanov, Minister of Foreign Affairs of the Russian Federation | Non-acceptance would cause the donor or the U.S. Government embarrassment.
T.H. Colin L. Powell, Secretary of State | Pastel, 16″ x 11½″, Caricature portrait of Colin Powell, by Stefan Papa, Romanian, late 20th century, metal frame, fitted leatherette case. Rec'd:—11/23/02. Est. Value—$300.00. Pending transfer to the General Services Administration | H.E. Ion Iliescu, President of Romania | Non-acceptance would cause the donor or the U.S. Government embarrassment.
T.H. Colin L. Powell, Secretary of State | Dress sword, chromed metal, lion head pommel with two red garnet eyes, by Carl Eickhorn, Solingen, Germany. Rec'd:—11/23/02. Est. Value: $550.00. Pending transfer to the General services Administration | H.E. Ion Iliescu, President of Romania | Non-acceptance would cause the donor or the U.S. Government embarrassment.
T.H. Colin L. Powell, Secretary of State | Sculpture, 8¾″ H, patinated and polished bronze, Madonna and Child, b Mpanda Vita, Angola, wood base. Rec'd:—10/9/02. Est. Value—$400.00. Pending transfer to the General Services Administration | H.E. Jose Eduardo dos Santos, President of the Republic of Angola | Non-acceptance would cause the donor or the U.S. Government embarrassment.
T.H. Colin L. Powell, Secretary of State | Sculpture, 7⅝″ L, white marble, polar bear by Wilbur Hobbs, Inuit | T.H. William Graham, Minister of Foreign Affairs of Canada | Non-acceptance would cause the donor or the U.S. Government embarrassment.
T.H. Colin L. Powell, Secretary of State | Tray, 11¾″ diameter, silver plate, Christofle, France. Rec'd:—4/15/02. Est. Value:—$450.00. Pending transfer to the General Services Administration | H.E. Emile Lahoud, President of the Republic of Lebanon | Non-acceptance would cause the donor or the U.S. Government embarrassment.
T.H. Colin L. Powell, Secretary of State | Carpet, 6′5″ × 8′10″, wool on cotton, dark bule field with overall polychrome scrolling, multiple borders, Afghanistan. Rec'd:—1/28/02. Est. Value:—$500.00. Pending transfer to the General Services Administration | H.E. Hamid Karazi, Chairman of the Afghanistan Interim Authority | Non-acceptance would cause the donor or the U.S. Government embarrassment.
Mrs. Alma Powell, Spouse of the Secretary of State | Wristwatch, woman's stainless steel case with 120 tiny diamonds set to bezel and face TW 1.2 carat, blue straps, Techno Marine. Rec'd:—8/1/02. Est. Value:—$1,000.00. Pending transfer to the General Services Administration | Her Majesty Raja Isteri Pengiram Anak Hajah Saleha, First Wife of the Sultan of Brunei | Non-acceptance would cause the donor or the U.S. Government embarrassment.
Mrs. Alma Powell, Spouse of the Secretary of State | Minaudiere, 7½″ L oval, woven “Yan Lipao” basketry having 18 karat yellow gold mounts and swing handle set with a total of 147 diamonds TW 2 carats. Rec'd:—10/16/02. Est. Value—$4,000.00. Pending transfer to the General Services Administration | H.M. Queen Sirikit of Thailand | Non-acceptance would cause the donor or the U.S. Government embarrassment.
Mrs. Alma Powell, Spouse of the Secretary of State | Vase, 10¼″ H, Britannia Heritage porcelain with polychrome floral encrustation, late 20th century, England. Rec'd:—7/31/02. Est. Value:—$400.00. Pending transfer to the General Services Administration | H.R.H. Penigiran Isteri Hajah Mariam, Second Wife of the Sultan of Brunei | Non-acceptance would cause the donor or the U.S. Government embarrassment.
Mrs. Alma Powell, Spouse of the Secretary of State | Brooch, 18 karat yellow and white gold floral mounting set with 218 round diamonds TW 4.36 carats and 11 round diamonds TW 1.65, by deFred. Rec'd—08/01/02. Est. Value:—$3,850.00. Pending transfer to the General Services Administration | Her Majesty Raja Isteri Pengiram Anak Hajah Saleha, First Wife of teh Sultan of Brunei | Non-acceptance would cause the donor or the U.S. Government embarrassment.
Mrs. Alma Powell, Spouse of the Secretary of State | Woven polychrome “yan lipao” straw envelope containing two pieces of handwoven fabric, Thai “Hill Tribe” work. Rec'd—10/16/02. Est. Value:—$250.00.Pending transfer to the General Services Administration | H.M. Queen Sirikit of Thailand | Non-acceptance would cause the donor or the U.S. Government embarrassment.
Albright, Madeleine K., former Secretary of State | Carpet, 6′8″ x 10′3″, wool on cottonkilim, blue field with polychrome decoration, Bosnia Rec'd:—3/9/00. Est. Value:—$850.00. Pending transfer to the General Services Administration | Family in Bosnia | Non-acceptance would cause the donor or the U.S. Government embarrassment.
Albright, Madeleine K., former Secretary of State | Pastel, 23 ¼″ x 17 ¼″, Sloth, by Luisa Periaza, late 20th century, matted and framed, Costa Rica. Rec'd:—5/7/97. Est. Value:—$400.00. Pending transfer to the General Services Administration | Ms. Luisa Periaza, Costa Rica | Non-acceptance would cause the donor or the U.S. Government embarrassment.
Albright, Madeleine K., former Secretary of State | Painting, oil on canvas, 8″ x 9 ¾″, bread and doughnuts, by Marite lagunes, late 20th century, matted and framed, Mexico. Rec'd:—5/1/97. Est. Value:—$300.00. Pending transfer to the General Services Administration | Ms. Maria Teresa Lagunes, Mexico | Non-acceptance would cause the donor or the U.S. Government embarrassment.
Albright, Madeleine K., former Secretary of State | Bows, lacquered wood, signed, together with four arrows having handwrought pints, black lacquered wood stand, late 20th century, Japan. Rec'd:—7/12/00. Est. Value:—$1,000.00. Pending transfer to the General Services Administration | Governor of Miyazaki Suketaka Matsukata | Non-acceptance would cause the donor or the U.S. Government embarrassment.
Albright, Madeleine K., former Secretary of State | Scaft, Silk, Hermes, Paris. Rec'd:—12/8/98. Est. Value:—$375.00. Pending transfer to the General Services Administration | M. Badinter, France | Non-acceptance would cause the donor or the U.S. Government embarrassment.
Albright, Madeleine K., former Secretary of State | Miniature coach and horses, silver, wood base, glass case, Indonesia. Rec'd:—1/4/00. Est. Value:—$300.00. Pending transfer to the General Services Administration | Mr. Tony Winata, Indonesia | Non-acceptance would cause the donor or the U.S. Government embarrassment.
Ensenat, Donald B., Ambassador, Chief of Protocol of the United States | Wristwatch, man's, stainless steel case, Bulgari “Rettangolo” #RT45SJ19334, black leather strap. Rec'd:—5/1/02. Est. Value:—$2,350.00. Pending transfer to the General Services Administration | H.R.H. Abdallah bin Abd al-Aziz Al Saud Crown Prince, First Deputy Prime Minister and Commander of the National Guard of Saudi Arabia | Non-acceptance would cause the donor or the U.S. Government embarrassment.
Kattauouf, Theodore H., U.S. Ambassador to the United Arab Emirates | Wristwatch, man's, gold filled and stainless steel case, by Paola del Lungo. Rec'd:—6/1/02. Est. Value:—$500.00. Pending transfer to the General Services Administration | Abdul Rahman Alokazay, Managing Director of Al-Wali Trading | Non-acceptance would cause the donor or the U.S. Government embarrassment.
Kattauouf, Theodore H., U.S. Ambassador to the United Arab Emirates | Wristwatch, woman's, gold filled and stainless steel case, by Paola del Lungo. Rec'd:—6/1/02. Est. Value:—$500.00. Pending transfer to the General Services Administration | Abdul Rahman Alokazay, Managing Director of Al-Wali Trading | Non-acceptance would cause the donor or the U.S. Government embarrassment.
Kattauouf, Theodore H., U.S. Ambassador to the United Arab Emirates | Wristwatches, stainless steel, man's plain, woman's set with 59 diamonds. Rec'd:—6/1/02. Est. Value:—$3,000.00. Pending transfer to the General Services Administration | Abdul Rahman Alokazay, Managing Director of Al-Wali Trading | Non-acceptance would cause the donor or the U.S. Government embarrassment.
Keshap, Atul, Special Assistant to the Under Secretary of State for Political Affairs | Eterna Men's Watch. Rec'd—10/29/02. Est. Value—$500.00. Pending transfer to the General Services Administration | H.E. Sheikh Hamad bin Khalifa Al Thani, Amir of the State of Qatar | Non-acceptance would cause the donor or the U.S. Government embarrassment.
Kraus, Martin, Special Agent, Diplomatic Security | Rolex Watch. Rec'd—1/30/02. Est. Value—$4,000.00. Pending transfer to the General Services Administration | Major Mohammed Al-Junaibi, United Arab Emirates | Non-acceptance would cause the donor or the U.S. Government embarrassment.
Mr. Randy Bumgardner, Assistant Chief of Protocol, General Manager of Blair House | Wristwatch, man's, stainless steel, Rolex Oyster Perpetual “Datejust” Saudi Arabia Coat of Arms. Rec'd—9/25/02. Est. Value—$3,250.00. Pending transfer to the General Services Administration | H.E. Abd al-Aziz Al Saud, Crown Prince of Saudi Arabia | Non-acceptance would cause the donor or the U.S. Government embarrassment.
Ross, Dennis B., Special Middle East Coordinator (SMEC) | Engraved Picture Frame. Rec'd—10/28/97. Est. Value—$270.00. Pending transfer to the General Services Administration | Woodrow Wilson House | Non-acceptance would cause the donor or the U.S. Government embarrassment.
Sembler, Melvin, Ambassador to Italy | Wristwatch, man's, 18 karat yellow gold case and bracelet, Etherna #5001.68. Rec'd—12/10/01. Est. Value—$8,000.00. Pending transfer to the General Services Administration | H.E. Silvion Berlusconi, President of the Council of Ministers of the Italian Republic | Non-acceptance would cause the donor or the U.S. Government embarrassment.
Sembler, Melvin, Ambassador to Italy | Wristwatch, man's, stainless steel and 18 karat yellow gold case and bracelet, “Scuba” model, #LCF35SCD10946, Italy (lacing arrantee, instruction booklets) Rec'd—12/10/01. Est. Value—$6,000.00. Pending transfer to the General Services Administration | H.E. Silvio Berlusconi, President of the Council of Ministers of the Italizn Republic | Non-acceptance would cause the donor or the U.S. Government embarrassment.
Shear, David, Minister Counselor for Political Affairs, American Embassy, Tokyo | Wristwatch. Rec'd—11/21/02. Est. Value—$300.00. Pending transfer to the General Services Administration | Tsuyoshi Yamaguchi, Diet Member, Tokyo, Japan | Non-acceptance would cause the donor or the U.S. Government embarrassment.
T.H. Beth Jones, Assistant Secretary for European and Eurasian Affairs | Vase, “Liberty” reproduction from the Liberty Collection introduced by Ginori in 1905, numbered A187. Rec'd—5/28/02. Est. Value—$500.00. Pending transfer to the General Services Administration | H.E. Silvion Berlusconi, President of the Council of Ministers of the Italian Republic | Non-acceptance would cause the donor or the U.S. Government embarrassment.
T.H. Johnny Young, U.S. Ambassador to Bahrain | Tray, 15¼″ diameter, silver plate, Christofle, France. Rec'd—8/23/02. Est. Value—$500.00. Pending transfer to the General Services Administration | H.E. Mohamed bin Khalifa Al-Khalifa, Minister of the Interior, Kingdom of Bahrain | Non-acceptance would cause the donor or the U.S. Government embarrassment.
T.H. Marcelle Wahba, U.S. Ambassador to United Arab Emirates | 21K Gold Necklace with Seed Pearls. Rec'd—11/25/02. Est. Value—$3,676.00. Pending transfer to the General Services Administration | Sheikha Fatimah, First Lady of the United Arab Emirates | Non-acceptance would cause the donor or the U.S. Government embarrassment.
T.H. Marcelle Wahba, U.S. Ambassador to United Arab Emirates | Dupont Platinum Lighter. Rec'd—12/25/02. Est. Value—$1,906.00. Pending transfer to the General Services Administration | H.E. Abdullah M. Al Uthman, Qatari Ambassador to the United Arab Emirates | Non-acceptance would cause the donor or the U.S. Government embarrassment.
T.H. Robert W. Jordan, U.S. Ambassador to Saudi Arabia | Wristwatches (2)—His and hers Bulgari wristwatches—gold circular face, croc strap. Rec'd—4/25/02. Est. Value—$6,000.00. Pending transfer to the General Services Administration | H.R.H. Abdulah bin Abdulaziz, Crown Prince of Saudi Arabia | Non-acceptance would cause the donor or the U.S. Government embarrassment.

AGENCY: Department of the Treasury
[Report of Tangible Gifts, Calendar Year 2002]
Name and title of person accepting gift on behalf of the U.S. Government | Gift, date of acceptance on behalf of the U.S. Government, estimated value, and current disposition | Identity of foreign donor and government | Circumstances justifying acceptance
Michele Davis, Assistant Secretary (Public Affairs) | Gold commemorative coin. Rec'd—March 4, 2002. Est. Value—$395. Treasury retained on August 23, 2002 | Abdulla Saif, Finance Minister, Government of Bahrain | Non-acceptance would have caused embarrassment to donor and U.S. Government.
Paul H. O'Neill, Secretary | Gold commemorative coin. Rec'd—March 8, 2002. Est. Value—$395. Treasury retained on August 23, 2002 | Abdulla Saif, Finance Minister, Government of Bahrain | Non-acceptance would have caused embarrassment to donor and U.S. Government.
Paul H. O'Neill, Secretary | Gold commemorative coin. Rec'd—March 5, 2002. Est. Value—$500. Treasury retained on August 27, 2002 | Salem Abdulaziz Al-Sabab, Governor, Central Bank of Kuwait, Government of Kuwait | Non-acceptance would have caused embarrassment to donor and U.S. Government.
Paul H. O'Neill, Secretary | Sterling silver flatware (6 sets). Rec'd—March 5, 2002. Est. Value—$779.70. Treasury retained on August 23, 2002 | Islam Karimov, President, Government of Uzbekistan | Non-acceptance would have caused embarrassment to donor and U.S. Government.
Paul H. O'Neill, Secretary | Silver dagger. Rec'd—March 22, 2002. Est. Value—$300. Treasury retained on August 23, 2002 | Abdulla Saif, Finance Minister, Government of Bahrain | Non-acceptance would have caused embarrassment to donor and U.S. Government.
Juan Zarate, DAS, Terrorism & Violent Crime | Gold commemorative coin. Rec'd—March 4, 2002. Est. Value—$395. Treasury retained on August 23, 2002 | Abdulla Saif, Finance Minister, Government of Bahrain | Non-acceptance would have caused embarrassment to donor and U.S. Government.
Nilmini Gunaratne, International Economist | Gold commemorative coin. Rec'd—March 29, 2002. Est. Value—$395. Treasury retained on August 23, 2002 | Abdulla Saif, Finance Minister, Government of Bahrain | Non-acceptance would have caused embarrassment to donor and U.S. Government.
Paul H. O'Neill, Secretary | Gold plated brass & silver tea set. Rec'd—March 5, 2002. Est. Value—$500. Treasury retained on August 23, 2002 | Ibrahim Al-Assaf, Finance Minister, Government of Saudi Arabia | Non-acceptance would have caused embarrassment to donor and U.S. Government.
Paul H. O'Neill, Secretary | Gold khanjar (dagger). Rec'd—May 6, 2002. Est. Value—$1,000. Treasury retained on August 23, 2002 | Ibrahim Al-Assaf, Finance Minister, Government of Saudi Arabia | Non-acceptance would have caused embarrassment to donor and U.S. Government.
Paul H. O'Neill, Secretary | Two handmade cold cast bronze sculptures. Rec'd—June 28, 2002. Est. Value—$760. Pending review in Treasury General Counsel | John Kufuor, President, Government of Ghana | Non-acceptance would have caused embarrassment to donor and U.S. Government.
Paul H. O'Neill, Secretary | Oil painting of a woman on a horse. Rec'd—July 29, 2002. Est. Value—$325. Pending review in Treasury General Counsel | Edward Shevardnadze, President, Government of Georgian Republic | Non-acceptance would have caused embarrassment to donor and U.S. Government.
Paul H. O'Neill, Secretary | Sterling silver flatware (6 sets). Rec'd—August 8, 2002. Est. Value—$779.70. Pending review in Treasury General Counsel | Islam Karimov, President | Non-acceptance would have caused embarrassment to donor and U.S. Government.
John B. Taylor, Under Secretary (International Affairs) | Commemorative gold coin. Rec'd—March, 2002. Est. Value—$395.00. Treasury retained on December 31, 2002 | Abdulla H. Saif, Finance Minister, Government of Bahrain | Non-acceptance would have caused embarrassment to donor and U.S. Government.

AGENCY: Department of Defense
[Report of Tangible Gifts]
Name and title of person accepting gift on behalf of the U.S. Government | Gift, date of acceptance on behalf of the U.S. Government, estimated value, and current disposition or location | Identity of foreign donor and government | Circumstances justifying acceptance
The Honorable Donald H. Rumsfeld, Secretary of Defense | Gold Bracelet. Rec'd—Feb. 4, 2002. Est. Value—$395.00. Reported to GSA | Minister of Defense and Military Production, Field Marshal Tantawy, Egypt | Non-acceptance would have caused embarrassment to donor and U.S. Government.
The Honorable Donald H. Rumsfeld, Secretary of Defense | Rug 9 x 12. Rec'd—Feb. 15, 2002. Est. Value—$1,100,00. Reported to GSA | Chairman H. Karzai, Afghanistan | Non-acceptance would have caused embarrassment to donor and U.S. Government.
The Honorable Donald H. Rumsfeld, Secretary of Defense | Rug. Rec'd—Mar. 1, 2002. Est. Value—$300.00. Reported to GSA | Minister of Defense and Military Production, Field Marshal Tantawy, Egypt | Non-acceptance would have caused embarrassment to donor and U.S. Government.
The Honorable Donald H. Rumsfeld, Secretary of Defense | Souvenir Set of Coins ($220.00) and Silver Tray 11½″ ($115.00). Rec'd—Mar. 13, 2002. Est. Value—$335.00. Reported to GSA for Purchase | President Islam A. Karmiv, Uzbekistan | Non-acceptance would have caused embarrassment to donor and U.S. Government.
The Honorable Donald H. Rumsfeld, Secretary of Defense | Rug. Rec'd—Apr. 27, 2002. Est. Value—$400.00. Reported to GSA for Purchase | Chairman H. Karzai, Afghanistan | Non-acceptance would have caused embarrassment to donor and U.S. Government.
The Honorable Donald H. Rumsfeld, Secretary of Defense | Silver ring w/emerald stone. Rec'd—Apr. 27, 2002. Est. Value—$425.00. Reported to GSA for Purchase | Defense Minister Fahim Khan, Afghanistan | Non-acceptance would have caused embarrassment to donor and U.S. Government.
The Honorable Donald H. Rumsfeld, Secretary of Defense | Embroidered Velvet Robe w/hat ($160.00). Reported to GSA, Framed Rug w/Stitched picture of SecDef ($400.00). Reported to GSA for Purchase and Photo album of pictures of SecDef in Kazakstan (N/V), Reported to GSA SecDef. Retained Apr. 27, 2002 | Minister of Defense, General-Colonel Mukhtar Altynbaev, Kazakstan | Non-acceptance would have caused embarrassment to donor and U.S. Government.
The Honorable Donald H. Rumsfeld, Secretary of Defense | Rug w/heart city theme. Rec'd—Apr. 27, 2002. Est. Value—$980.00. Reported to GSA for Purchase | President of Kryugyzstan, Askar Akayev, Krygzstan | Non-acceptance would have caused embarrassment to donor and U.S. Government.
The Honorable Donald H. Rumsfeld, Secretary of Defense | 7″ Silver dagger w/silver casing in leather case. Rec'd—Apr. 27, 2002. Est. Value—$340.00. Reported to GSA for Purchase | Governor of Herot, Ismail Khan, Kazakstan | Non-acceptance would have caused embarrassment to donor and U.S. Government.
The Honorable Donald H. Rumsfeld, Secretary of Defense | Silver Dish, 9 x 8 ($265.00), Plaque (N/V), Double-barreled Shotgun w/Ammunition ($280.00) and Gold Bracelet ($1240.00) Rec'd—Sept. 17, 2002. Est. Value—$1,785.00. Reported to GSA for Purchase | Minister of Defense and Military Production, Field Marshal, Tantawy, Egypt | Non-acceptance would have caused embarrassment to donor and U.S. Government.
The Honorable Donald H. Rumsfeld, Secretary of Defense | Gold/Silver Stamps in wooden case, ($170.00) Reported to GSA and Antique Pistol ($2,200.00) Reported to GSA for Purchase. Rec'd—Nov. 22, 2002. Est. Value—$2,370.00 | His Excellency Rudolf Schuster, President Slovak Republic | Non-acceptance would have caused embarrassment to donor and U.S. Government.
Paul Wolfowitz, Deputy Secretary of Defense | Rug. Rec'd—Jan. 2, 2002. Est. value—$350.00. Approved for Official Display | Field Marshall Hussein, Tantawy, MOD | Non-acceptance would have caused embarrassment to donor and U.S. Government.
Paul Wolfowitz, Deputy Secretary of Defense | Coin Set. Rec'd—July 15, 2002. Est. Value—$290.00. Approved for Official Display | S. Sargsyan, Minister of Defense, Armenia | Non-acceptance would have caused embarrassment to donor and U.S. Government.
Paul Wolfowitz, Deputy Secretary of Defense | Khafan Robe ($100.00), Afghan Shawl ($20.00) and Afghan Handmade Rug ($200.00), Rec'd—July 15, 2002. Est. Value—$320.00. Reported to GSA for Purchase | Chairman H. Karzai, Afghanistan | Non-acceptance would have caused embarrassment to donor and U.S. Government.
Paul Wolfowitz, Deputy Secretary of Defense | Diamond Crystal ($65.00) and Gold Necklace with Bug Pendant ($300.00). Rec'd—Sept. 17, 2002. Est. Value—$365.00. Reported to GSA for Purchase | Field Marshal Hussein Tantawy, Commander in Chief of the Armed Forces, Minister of Defense and Military Production | Non-acceptance would have caused embarrassment to donor and U.S. Government.
Paul Wolfowitz, Deputy Secretary of Defense | 2 Silver Vases 13″ tall. Rec'd—Oct. 30, 2002. Est. Value—$370.00. Reported to GSA for Purchase | Lt. Gen. Hamdy Weheba, Chief of Staff of the Egyptian Armed Forces | Non-acceptance would have caused embarrassment to donor and U.S. Government.
Paul Wolfowitz, Deputy Secretary of Defense | Hand-woven Rug. Rec'd—July 15, 2002. Est. Value—$900.00. Reported for Purchase | Deputy Minister of Defense, Special Rep to the North, Northern Province, Abdul Rashid Dostum | Non-acceptance would have caused embarrassment to donor and U.S. Government.
Dov S. Zakheim, USD, Comptroller | Large Rug. Rec'd—Nov. 01, 2002. Est. Value—$1,200.00. Reported to GSA for Purchase | General Abdul Rashid Dostum, Mazar-e-Sharif | Non-acceptance would have caused embarrassment to donor and U.S. Government.
Peter Rodman, ASD, International Security Affairs | Gold Bracelet. Rec'd—Oct. 23, 2002. Est. Value—$495.00. Reported to GSA for Purchase | Lt. Gen. Hamdy Weheba, Chief of Staff of the Egyptian Armed Forces | Non-acceptance would have caused embarrassment to donor and U.S. Government.
Peter Rodman, ASD, International Security Affairs | Silver Candle-holder ($100.00). Reported to GSA for Purchase and Gold Bracelet ($320.00) Reported for Purchase. Rec'd—Sept. 16, 2002. Est. Value—$420.00 | Field Marshal Hussein Tantawy, Commander in Chief of the Armed Forces, Minister of Defense and Military Production | Non-acceptance would have caused embarrassment to donor and U.S. Government.
Dr. William J. Luti, DASD, Near Eastern & South Asian Affairs | Sportivo Wrist Watch w/Saudi Arabia Crest in Lower Left Corner. Rec'd—Mar. 31, 2002. Est. Value—$780.00. Reported to GSA for Purchase | Crown Prince Abdullah, Saudi Arabia | Non-acceptance would have caused embarrassment to donor and U.S. Government.
General Richard B. Myers, Chairman, Joint Chiefs of Staff | Gold Necklace and Bracelet ($1,840.00) and Rectangular Persian Rug ($190.00). Rec'd—Jan. 19, 2002. Est. Value—$1,930.00. Approved for Official Display | Field Marshall Tantawy, Minister of Defense, Egypt | Acceptance of the gift, in the judgment of the recipient, in that refusal of the gift may have offended or embarrassed the donor.
General Richard B. Myers, Chairman, Joint Chiefs of Staff | Sword. Rec'd—Jan. 22, 2002. Est. Value—$290.00. Approved for Official Display | Mr. Malkawi, Minister of Defense, Jordan | Acceptance of the gift, in the judgment of the recipient, in that refusal of the gift may have offended or embarrassed the donor.
General Richard B. Myers, Chairman, Joint Chiefs of Staff | Gold Bracelet ($1,840.00) and Rectangular Persian Rug ($190.00). Rec'd—Jan. 22, 2002. Est. Value—$1,930.00. Approved to Official Display | Lt. Gen. Hamdy Veheba, COS, Egyptian Armed Forces | Acceptance of the gift, in the judgment of the recipient, in that refusal of the gift may have offended or embarrassed the donor.

AGENCY: Department of the Navy
[Report of Tangible Gifts]
Name and title of person accepting gift on behalf of the U.S. Government | Gift, date of acceptance on behalf of the U.S. Government, estimated value, and current disposition or location | Identity of foreign donor and government | Circumstances justifying acceptance
RADM William M. Fogarty, COMJTF, Middle East | Man's watch/gold bracelets/gold sword. Rec'd—Sept. 1991. Est. Value—$6500.00. Transferred to GSA on June 6, 2002 | The Amir of Bahrain | Non-acceptance would have caused embarrassment to donor and U.S. Government.
VADM Charles W. Moore, Commander, U.S. Naval Forces Central Command | Man's Omega watch w/cufflinks. Rec'd—Sept. 7, 1998. Est. Value—$7567.70. Transferred to GSA on June 6, 2002 | The Amir of Bahrain | Non-acceptance would have caused embarrassment to donor and U.S. Government.
Mrs. Charles W. Moore | Woman's Omega watch. Rec'd—Sept. 7, 1998. Est. Value—$3000. Purchased by recipient on May 23, 2002 | The Amir of Bahrain | Non-acceptance would have caused embarrassment to donor and U.S. Government.
VADM Charles W. Moore | Man's Piaget watch. Rec'd—Mar. 1, 1999. Est. Value—$16,492.00. Transferred to GSA on June 6, 2002 | The Amir of Bahrain | Non-acceptance would have caused embarrassment to donor and U.S. Government.
Mrs Charles W. Moore | Woman's Piaget watch. Rec'd—Mar. 1, 1999. Est. Value—$14,896.00. Transferred to GSA June 6, 2002 | The Amir of Bahrain | Non-acceptance would have caused embarrassment to donor and U.S. Government.
Mrs Charles W. Moore | Coral & silver necklace/earrings. Rec'd Oct. 4, 1998. Est. Value—$319.20. Transferred to GSA June 6, 2002 | The Gov't. of Yemen | Non-acceptance would have caused embarrassment to donor and U.S. Government.
Mr Charles W. Moore | Set of 3 gold bracelets. Rec'd—Sept. 7, 1998. Est. Value—$1400. Transferred to GSA Sept. 12, 2002 | The Amir of Bahrain | Non-acceptance would have caused embarrassment to donor and U.S. Government.
Mrs Charles W. Moore | Double-strand pearl necklace. Rec'd—Oct. 15, 1998. Est. Value—$10,000. Transferred to GSA June 6, 2002 | The Amir of Bahrain | Non-acceptance would have caused embarrassment to donor and U.S. Government.
VADM Charles W. Moore | Man's Ebel sportswave watch. Rec'd—May 13, 2001. Est. Value—$1,489.60. Transferred to GSA June 6, 2002 | Chief of Staff, Kuwaiti Armed Forces | Non-acceptance would have caused embarrassment to donor and U.S. Government.
VADM Charles W. Moore | Brass/goldplated dhow. Rec'd—Oct. 18, 1998. Est. Value—$319.00. Approved for official use | Dubai Ports Authority | Non-acceptance would have caused embarrassment to donor and U.S. Government.
VADM Charles W. Moore | Omani Khanjar. Rec'd—May 23, 2000. Est. Value—$370.00. Approved for official use | Command and Staff College, Sultan Armed Forces | Non-acceptance would have caused embarrassment to donor and U.S. Government.
VADM Charles W. Moore | Goldplated and crystal camel. Rec'd—Aug. 2, 2000. Est. Value—$1995.00. Approved for official use | Minister of Foreign Affairs, UAE | Non-acceptance would have caused embarrassment to donor and U.S. Government.
VADM Charles W. Moore | Brass/goldplated dhow. Rec'd—May 17, 2001. Est. Value—$532-$665.00. Approved for official use | Commander, UAE Navy | Non-acceptance would have caused embarrassment to donor and U.S. Government.
VADM Charles W. Moore | Silver dagger. Rec'd—Feb. 1, 2002. Est. Value—$1596.00. Approved for official use | Prime Minister, State of Bahrain | Non-acceptance would have caused embarrassment to donor and U.S. Government.
VADM Charles W. Moore | Brass/goldplated sword. Rec'd—Feb. 6, 2002. Est. Value—$3192.00. Approved for official use | Commander-in-Chief, Bahrain Defense Force | Non-acceptance would have caused embarrassment to donor and U.S. Government.
VADM Charles W. Moore | Aluminum/copper dhow. Rec'd—Feb. 8, 2002. Est. Value—$319.20. Approved for official use | Coast Guard General Deputy, Ministry of Interior, Kuwait | Non-acceptance would have caused embarrassment to donor and U.S. Government.
VADM Charles W. Moore | Silver/goldplated khanjar w/belt clip and holder. Rec'd—June 29, 1999. Est, Value—$480.00. Transferred to GSA June 6, 2002 | Commander, UAE Navy | Non-acceptance would have caused embarrassment to donor and U.S. Government.
CAPT Phillipp Renaud, Commanding Officer, Naval Oceanography Command | 24K gold coin with a portrait of the Crown Prince of Bahrain. Rec'd May 9, 2002. Est. Value—$350.00. Approved for official use at the Maurey Library at the Stennis Space Center, MS | His Excellence Mohammed Al'Kalifa, Director of the Ministry of Housing and Environment, Bahrain | Non-acceptance would have caused embarrassment to donor and U.S. Government.
BGEN K. J. Stalder, Deputy Director, J-5, U.S. Central Command | Concord Sportivo Chronograph Wristwatch. Rec'd—Mar. 17, 2002. Est. Value—$1075.00. Transferred to GSA Oct. 17, 2002 | King Abdul Aziz, Saudi Arabia | Non-acceptance would have caused embarrassment to donor and U.S. Government.

AGENCY: Department of the Navy
[Report of Travel or Expenses of Travel]
Name and title of person accepting gift on behalf of the U.S. Government | Brief description and estimated value of travel or travel expenses accepted consistent with the interests of the U.S. Government and occurring outside the United States | Identity of foreign donor and government | Circumstances justifying acceptance
ADM Vern E. Clark, Chief of Naval Operations | Rec'd Oct. 15-17, 2002. Est. Value—$1439.34. Expended for hotel | Chief of Staff, Italian Navy | Represented U.S. Navy and spoke at Fourth Regional Seapower Symposium.
CAPT D.W. Davenport, Executive Assistant to ADM Clark | Rec'd Oct. 15-17, 2002. Est. Value—$1439.34. Expended for hotel | Chief of Staff, Italian Navy | Accompanied CNO at Fourth Regional Seapower Symposium.

AGENCY: Department of Agriculture
[Report of Tangible Gifts]
Name and title of person accepting gift on behalf of the U.S. Government | Gift, date of acceptance on behalf of the U.S. Government, estimated value, and current disposition or location | Identify of foreign donor and government | Circumstances justifying acceptance
Ann M. Veneman, U.S. Secretary of Agriculture | A heavily decorated ceremonial robe made with blue velvet. The border and the front panels are decorated with gilt machine embroidered floral designs. The gold colored hat is designed with a multilayered mane style tassel. Received—February 10, 2002. Appraised Value—$400.00 SF-120 prepared; pending transfer to GSA | Islom Karimov, President of Uzbekistan | Non-acceptance would have caused embarrassment to donor and U.S. Government.
Ann M. Veneman, U.S. Secretary of Agriculture | A set of six cut crystal stemmed goblets. Origin: Czech Republic. Hexagonal bases with bowls having etched stars. Labels include “RUCKL Czech Republic,” “A. Ruckle & Sons 1846,” and “Lead crystal 24% Bohemia” Ht. 8″ in presentation box. Received—November 27, 2001. Appraised value—$60.00 per goblet; $480.00 for the set. SF-120 prepared; pending transfer to GSA | Jan Fencl, Minister of Agriculture, Czech Republic | Non-acceptance would have caused embarrassment to donor and U.S. Government.
Ann M. Veneman, U.S. Secretary of Agriculture | Flatware Set: A twenty-four piece set of sterling silver flatware made in Uzbekistan. Configured as a service for six, the service consists of six each dinner knives, dinner forks, oval soup spoons and small coffee spoons. Markings include “.925,” “OYK,” and a pyramid of 12 stars with the letter “K.” Total weight (to include the stainless steel blades on the knives) is 1,640 grams. An accompanying card describes the set having been produced in Uzbekistan. It is fitted in a mahogany case. Received—February 10, 2002. Appraised value: $1,050.00. Approved for official use and is on display in the Office of the Secretary | Islom Karimov, President of Uzbekistan | Non-acceptance would have caused embarrassment to donor and U.S. Government.

AGENCY: Department of Commerce
[Report of Tangible Gifts]
Name and title of person accepting gift on behalf of the U.S. Government | Gift, date of acceptance on behalf of the U.S. Government, estimated value, and current disposition or location | Identity of foreign donor and government
Samuel W. Bodman, Deputy Secretary of Commerce | Gold coin, 22 carats, weight 33.81 grams. Rec'd—03/02/02. Appraised Value—$300. Location—Deputy Secretary's Office | Sheik Ahmed bid Mohammed, Governor of The Bahrain Monetary Agency.
Samuel W. Bodman, Deputy Secretary of Commerce | Ornate, blue-framed (painted lapis tile, six pieces signed.) Rec'd—09/24/02. Appraised Value—$300. Location—Deputy Secretary's Office | President Bouteflika of Algeria.
Samuel W. Bodman, Deputy Secretary of Commerce | Ceremonial silver sword w/scabbard, very ornate containing piece of uncut coral. Rec'd—09/24/02. Appraised Value—$350. Location—Deputy Secretary's Office | President Bouteflika of Algeria.
Donald L. Evans, Secretary of Commerce | Framed Oil Painting (Forest scene), Russia in winter. Signed. Rec'd—05/22/02. Appraised Value—$350. Location—Secretary's Office | Konstantin Alekseyevich Titov.
Donald L. Evans, Secretary of Commerce | Balalaika (Russian musical instrument), black lacquer. Rec'd—05/23/02. Appraised Value—$650. Location—Secretary's Office | German Gref, Minister of Economic Development Trade of Russia.
Donald L. Evans, Secretary of Commerce | Russian-made clock. Marble, key wind, silver trim w/gold hands. Rec'd—05/22/02. Appraised Value—$3,000. Location—Secretary's Office | Igor Yusufov, Russian Minister of Egypt.
Donald L. Evans, Secretary of Commerce | Framed and matted artwork, depicting Shanghai City skyline scene is a piece of dogwood made of silver and jade. Rec'd—04/24/00. Appraised Value—$1,000. Location—Secretary's Office | Chen Liangyu, Mayor of Shanghai.
Donald L. Evans, Secretary of Commerce | Two marble horses, one green and one white mounted on board background of Chinese characters. Rec'd—04/25/02. Appraised Value—$300. Location—Secretary's Office | Wang Zhan, WTO Affairs Consultation.
Donald L. Evans, Secretary of Commerce | Chinese book, history of Chinese coinage. Rec'd—04/30/02. Appraised Value—$500. Location—Secretary's Office | Hu Jinato, Vice President of China.
Donald L. Evans, Secretary of Commerce | Ceremonial dagger (Khanjar) wood handle, scabbard, trimmed in ornately silver. Rec'd—08/21/01. Appraised Value—$500. Location—Secretary's Office | Yusuf bin Alawi bin Abdulla, Minister of Foreign Affairs, The Sultanate of Oman.
Donald L. Evans, Secretary of Commerce | Obsidian statue, bust of woman 6″ high w/silver earrings and band ornate necklace. Rec'd—09/05/01. Appraised Value—$600. Location—Secretary's Office | Vincente Fox Quesada, President of Mexico.
Donald L. Evans, Secretary of Commerce | Statue, bronze pedestal, situated on a square, green marble base, 12″ tall. Rec'd—10/14/01. Appraised Value—$800. Location—Secretary's Office | German Gref Minister, Economic Development and Trade, Russia.
Donald L. Evans, Secretary of Commerce | Two large amethyst crystals (geodes). Rec'd—02/15/02. Appraised Value—$400. Location—Secretary's Office | Jorge Batlle, President of Uruguay.
Donald L. Evans, Secretary of Commerce | Framed & matted geode (petrified wood). Rec'd—04/23/02. Appraised Value—$350. Location—Secretary's Office | Jiang Zemin, President of Bejing, China.
Donald L. Evans, Secretary of Commerce | Decorative crystal plate, engraved of President's residence in center. Rec'd—07/17/02. Appraised Value—$400. Location—Secretary's Office | Aleksander Kwansiewski, President of Poland.
Donald L. Evans, Secretary of Commerce | Afghan carpet, handmade, 100% wool, 4′ x 6′ fancy guls (hatchli design, number ☐). Rec'd—07/25/02. Appraised Value—$1,500. Location—Secretary's Office | Sayed Mustafa Kazemi, Minister of Commerce.
Donald L. Evans, Secretary of Commerce | Egyptian statue—ceramic (neferti), gilt with blue and red trim. Rec'd—10/04/02. Appraised Value—$500. Location—Secretary's Office | Youssef Boutros-Ghali, Minister for Foreign Affairs, Egypt.
Donald L. Evans, Secretary of Commerce | Replica of a Dake tripod, made of bronze (cooking vessel). Rec'd—12/11/02. Appraised Value—$350. Location—Secretary's Office | Xu Guanhua, Chinese Minister of Science and Technology.

Department of Energy
[Report of Travel or Expenses of Travel]
Name and title of person accepting travel expenses consistent with the interests of the U.S. Government | Brief description and estimated value of travel or travel expenses accepted as consistent with the interests of the U.S. Government and occurring outside the United States | Identify of foreign donor and government | Circumstances justifying acceptance
None

Department of Energy
[Report of Tangible Gifts]
Name and title of person accepting gift on behalf of the U.S. Government | Gift, date of acceptance on behalf of the U.S. Government, estimated value, and current disposition or location | Identify of foreign donor and government | Circumstances justifying acceptance
Spencer Abraham, Secretary of Energy | “Russian Field” specially commissioned one-of-a-kind artwork by Sirin of Moscow tracking number 112, 175.42g of yellow gold, 366 diamonds totaling 6.48 karats, 3.2g of enameling. Received—May 2, 2002. Estimated Value—$7,00.00. Reported to GSA October 30, 2002; pending transfer to GSA | Igor Yusufov, Minister of Energy, Russia | Non-acceptance would have caused embarrassment to donor and U.S. Government.
Spencer Abraham, Secretary of Energy | Algerian rug with bands of geometric patterns, approx 97″ x 140″ Received—June 5, 2002. Estimated Value—$540.00. Reported to GSA October 30, 2002; pending transfer to GSA | Abdelaziz Bouteflika, President of Algeria | Non-acceptance would have caused embarrassment to donor and U.S. Government.
Spencer Abraham, Secretary of Energy | Silver plated falcon on glove. Received—June 19, 2002. Estimated Value—$340.00. Reported to GSA October 30, 2002; pending transfer to GSA | Abdullah Bin Hamad Al-Attiyah, Minister of Energy, Qatar | Non-acceptance would have caused embarrassment to donor and U.S. Government.

AGENCY: Central Intelligence Agency
[Report of Tangible Gifts—2002]
Name and title of person accepting gift on behalf of the U.S. Government | Gift, date of acceptance on behalf of the U.S. Government, estimated value, and current disposition or location | Identity of foreign donor and government | Circumstances justifying acceptance
George J. Tenet, Director, Central Intelligence | Silvered metal katar and scabbard, modern, on a silver embroidered black velvet belt with two boxes. L of belt: 43 inches. Rec'd—February 16, 2002. Est. Value—$300.00. To be retained for official display | 5 U.S.C. 7342(f)(4) | Non-acceptance would have caused embarrassment to donor and U.S. Government.
George J. Tenet, Director, Central Intelligence | Filigree silver figure of a dove, modern, mounted on a black slate base. H: 7 inches. Rec'd—February 18, 2002. Est. Value—$300.00. To be retained for official display | 5 U.S.C. 7342(f)(4) | Non-acceptance would have caused embarrassment to donor and U.S. Government.
George J. Tenet, Director, Central Intelligence | Middle Eastern or Indian embossed partial gilt silver short sword and scabbard, modern, with attached black silk cord. L overall: 27½ inches. Rec'd—February 20, 2002. Est. Value—$300.00. To be retained for official display | 5 U.S.C. 7342(f)(4) | Non-acceptance would have caused embarrassment to donor and U.S. Government.
George J. Tenet, Director, Central Intelligence | Coral and jeweled filigree silver short sword and scabbard, modern, in a fitted carved wood case. L: 25½ inches. Rec'd—February 20, 2002. Est. Value—$400.00. To be retained for official display | 5 U.S.C. 7342(f)(4) | Non-acceptance would have caused embarrassment to donor and U.S. Government.
George J. Tenet, Director, Central Intelligence | Embossed silver mounted ivory short sword and scabbard, modern, with attached silk cord. L: 26 inches. Rec'd—February 28, 2002. Est. Value—$400.00. To be retained for official display | 5 U.S.C. 7342(f)(4) | Non-acceptance would have caused embarrassment to donor and U.S. Government.
George J. Tenet, Director, Central Intelligence | Pair of gold overlay rock crystal candlesticks, modern. H: 9 inches. Rec'd—April 23, 2002. Est. Value—$600.00. To be retained for official display | 5 U.S.C. 7342(f)(4) | Non-acceptance would have caused embarrassment to donor and U.S. Government.
George J. Tenet, Director, Central Intelligence | Coral six-strand necklace, with silver clasp mounted with a coral bead, in fitted blue silk case. L: 17 inches. Rec'd—May 31, 2002. Est. Value—$300.00. To be retained for official display | 5 U.S.C. 7342(f)(4) | Non-acceptance would have caused embarrassment to donor and U.S. Government.
George J. Tenet, Director, Central Intelligence | Rug, 7 ft. 8 in. x 5 ft. 8 in., modern, windowpane field with multi-colored floral reserves, zigzag guard boarder on salmon ground. Rec'd—February 19, 2002. Est. Value—$300.00. To be retained for official display | 5 U.S.C. 7342(f)(4) | Non-acceptance would have caused embarrassment to donor and U.S. Government.
George J. Tenet, Director, Central Intelligence | Rug, 116 x 82 inches, modern, beige ground with stepped prayer design field. Rec'd—February 19, 2002. Est. value—$400.00. To be retained for official display | 5 U.S.C. 7342(f)(4) | Non-acceptance would have caused embarrassment to donor and U.S. Government.
George J. Tenet, Director, Central Intelligence | Silver double horse-drawn condiment cart with salt and pepper shaker, modern, fitted in a black velvet case, with stamped 13 standard mark. L: 12 inches. Rec'd—August 19, 2002. Est. value: $600.00. To be retained for official display | 5 U.S.C. 7342(f)(4) | Non-acceptance would have caused embarrassment to donor and U.S. Government.
George J. Tenet, Director, Central Intelligence | Henry Jean Pontoy (French 1888-1968) Femme du Sud, signed lower right, also title on reverse and numbered 7, oil on canvas. 18 x 15 inches. Rec'd—December 11, 2002. Est. value—$500.00. To be retained for official display | 5 U.S.C. 7342(f)(4) | Non-acceptance would have caused embarrassment to donor and U.S. Government.
John E. McLaughlin, Deputy Director, Central Intelligence | Sterling “double tower” pen holder and letter opener Standish, on an oval mahogany base. L: 11 inches. Rec'd—April 6, 2002. Est. value—$300.00. To be retained for official display | 5 U.S.C. 7342(f)(4) | Non-acceptance would have caused embarrassment to donor and U.S. Government.
An Agency Employee | Rug, 117 x 82 inches, modern, red ground with diagonal rows of octagon and floral medallions, multi-colored guard border. Rec'd—February 3, 2002. Est. value—$600.00. To be retained for official display | 5 U.S.C. 7342(f)(4) | Non-acceptance would have caused embarrassment to donor and U.S. Government.
An Agency Employee | Diamond dinner ring, the contemporary 875 (18 karat) yellow gold crossed over mount set with two rows of round faceted brilliant cut diamonds, each weighing approximately .10 carats, total weight approximately 1 carat. Rec'd—June 1, 2002. Est. value—$500.00. To be retained for official display | 5 U.S.C. 7342(f)(4) | Non-acceptance would have caused embarrassment to donor and U.S. Government.
An Agency Employee | Contemporary hallmarked 18 karat yellow gold and diamond five-piece ensemble, the Florentine and polished gold setting set with round faceted brilliant cut diamonds, each weighing approximately .10 to .15 carats each, consisting of: a pendant necklace set with eleven diamonds, a bangle bracelet set with twelve diamonds, a ring set with two diamonds and a pair of pierced type earrings, each set with one diamond, fitted in a rose velvet case. Gross weight: 6 oz. Rec'd—June 2, 2002. Est. value—$2,500.00 | 5 U.S.C. 7342(f)(4) | Non-acceptance would have caused embarrassment to donor and U.S. Government.
An Agency Employee | Contemporary 18 karat white and yellow gold diamond four-piece ensemble, each in the Art Deco style, consisting of: a tassel pendant and chain set wtih a pavé of diamonds, a ring and a pair of pierced type tassel earrings, fitted in a green velvet case. Rec'd—June 2, 2002. Est. value—$3,000.00. To be retained for official display | 5 U.S.C. 7342(f)(4) | Non-acceptance would have caused embarrassment to donor and U.S. Government.
An Agency Employee | Gentleman's Swiss stainless steel wristwatch, from the Yves St. Laurent Collection, together with a partial gold ballpoint pen, in a fitted gray leather and gray velvet lined interior locked case. Rec'd—June 2, 2002. Est. value—$300.00. To be retained for official display | 5 U.S.C. 7342(f)(4) | Non-acceptance would have caused embarrassment to donor and U.S. Government.
An Agency Employee | Pair of white gold, diamond and turquoise beaded pendant-type pierced earrings, modern, each set with a round cabochon turquoise, approximately 8½ mm, surrounded by a pavé of round faceted brilliant cut diamonds. Rec'd—June 2, 2002. Est. value—$2,500.00. To be retained for official display | 5 U.S.C. 7342(f)(4) | Non-acceptance would have caused embarrassment to donor and U.S. Government.
An Agency Employee | Contemporary hallmarked white gold and diamond dinner ring, set with a pavé of melée diamonds. Rec'd—June 2, 2002. Est. value—$750.00. To be retained for official display | 5 U.S.C. 7342(f)(4) | Non-acceptance would have caused embarrassment to donor and U.S. Government.
An Agency Employee | Daum amber Pate de Verre Figus (Fig) bowl, modern, the compressed body molded in high relief with berries and leaves and two crawling salamanders, signed on base, Daum/France. H: 7⅝ inches. Rec'd—June 2, 2002. Est. value—$1,500.00. To be retained for official display | 5 U.S.C. 7342(f)(4) | Non-acceptance would have caused embarrassment to donor and U.S. Government.
An Agency Employee | Ladies four diamond engagement ring, modern, the 18 karat yellow and white gold four prong Tiffany mount set with a single row of round faceted brilliant cut diamonds, each weighing approximately .20 carats, total weight approximately .80 carats. Rec'd—May 24, 2002. Est. value—$650.00. To be retained for official display | 5 U.S.C. 7342(f)(4) | Non-acceptance would have caused embarrassment to donor and U.S. Government.
An Agency Employee | Unmarked yellow gold mounted ivory five-piece ensemble, modern, consisting of: a pendant necklace, a four-panel bracelet, a ring and a pair of leaf-shaped pendant pierced-type earrings, in a red velvet fitted case. Rec'd—September 25, 2002. Est. value—$500.00. To be retained for official display | 5 U.S.C. 7342(f)(4) | Non-acceptance would have caused embarrassment to donor and U.S. Government.
An Agency Employee | Unmounted emerald cut emerald weighing approximately 1.70 carats, good color with some inclusions. Rec'd—September 7, 2002. Est. value—$600.00. To be retained for official display | 5 U.S.C. 7342(f)(4) | Non-acceptance would have caused embarrassment to donor and U.S. Government.
An Agency Employee | Filigree silver two-handle floriform vase, modern. H: 12½ inches; W: 44 oz. Rec'd—October 1, 2001. Est. value—$500.00. To be retained for official display | 5 U.S.C. 7342(f)(4) | Non-acceptance would have caused embarrassment to donor and U.S. Government.
An Agency Employee | Wood Group of Two Figures, modern. H: 39½ inches. Rec'd—June 20, 2001. Est. value—$300.00. To be retained for official display | 5 U.S.C. 7342(f)(4) | Non-acceptance would have caused embarrassment to donor and U.S. Government.
An Agency Employee | Unmounted emerald cut emerald, weighing approximately 2.50 carats, deeper green color with some inclusions; together with an uncut emerald nugget weighing approximately 2 carats. Rec'd—August 1, 2002. Est. value—$1,000.00. To be retained for official display | 5 U.S.C. 7342(f)(4) | Non-acceptance would have caused embarrassment to donor and U.S. Government.
An Agency Employee | Silver mounted ivory five-piece ensemble, modern, consisting of: a melon beaded necklace and bracelet, a pair of leaf-shaped pierced-type pendant earrings and a ring, in a fitted tan velvet case. Each stamped 925 standard. Rec'd—October 20, 2001. Est. value—$400.00. To be retained for official display | 5 U.S.C. 7342(f)(4) | Non-acceptance would have caused embarrassment to donor and U.S. Government.
An Agency Employee | Silver mounted ivory five-piece ensemble, modern, consisting of: a melon beaded necklace and bracelet, a pair of leaf-shaped pierced-type pendant earrings and a ring, in a fitted tan velvet case. Rec'd—October 20, 2001. Est. value—$400.000. To be retained for official display | 5 U.S.C. 7342(f)(4) | Non-acceptance would have caused embarrassment to donor and U.S. Government.
An Agency Employee | Unmarked yellow gold mounted ivory five-piece ensemble, modern, consisting of: a heart pendant necklace, a four-panel bracelet, a pair of leaf-shaped earrings and a ring, in a fitted red velvet case. Note: necklace with one section unattached from the leaf-shaped pendant. Rec'd—October 20, 2001. Est. value—$300.00. To be retained for official display | 5 U.S.C. 7342(f)(4) | Non-acceptance would have caused embarrassment to donor and U.S. Government.
An Agency Employee | Unmarked yellow gold and gold-filled mounted ivory five-piece ensemble, modern, consisting of: A leaf pendant necklace, a four-panel bracelet, a pair of leaf-shaped pierced-type earrings and a ring, in a fitted red velvet case. Rec'd—October 20, 2001. Est. value—$400.00. To be retained for official display | 5 U.S.C. 7342(f)(4) | Non-acceptance would have caused embarrassment to donor and U.S. Government.
An Agency Employee | Unmarked silver mounted ivory five-piece ensemble, modern, consisting of: A leaf-shaped pendant necklace, a four-panel bracelet, a pair of leaf-shaped pendant pierced earrings and a ring, in a fitted green and tan velvet case. Note: necklace with some silver inlay unattached. Rec'd—October 20, 2001. Est. value—$300.00. To be retained for official display | 5 U.S.C. 7342(f)(4) | Non-acceptance would have caused embarrassment to donor and U.S. Government.
An Agency Employee | Silver mounted ivory seven-piece ensemble, modern, consisting of: a 925 marked melon ball necklace with matching bracelet, two pairs of pendant-type earrings and a ring, in a red velvet fitted case. Rec'd—October 20, 2001. Est. value—$400.00. To be retained for official display | 5 U.S.C. 7342(f)(4) | Non-acceptance would have caused embarrassment to donor and U.S. Government.
An Agency Employee | Unmarked silver mounted ivory five-piece ensemble, modern, consisting of: a leaf-shaped pendant necklace, a four panel bracelet, a pair of leaf shaped pendant leaf earrings and a ring, fitted in a red velvet case. Rec'd—October 20, 2001. Est. Value—$400.00. To be retained for official display | 5 U.S.C. 7342(f)(4) | Non-acceptance would have caused embarrassment to donor and U.S. Government.
An Agency Employee | Unmarked silver mounted ivory five-piece ensemble, modern, consisting of: a leaf-shaped pendant necklace, a four panel bracelet, a pair of leaf shaped pendant leaf earrings and a ring, fitted in a red velvet case. Rec'd—October 20, 2001. Est. Value—$400.00. To be retained for official display | 5 U.S.C. 7342(f)(4) | Non-acceptance would have caused embarrassment to donor and U.S. Government.
An Agency Employee | Rug, 13 ft. 1 in. x 7 ft. 8 in., modern, windowpane field with alternating blue and rose ground enclosing floral medallions, lozenge and floral guard border on blue and ivory ground. Rec'd—December 11, 2002. Est. Value—$400.00. To be retained for official display | 5 U.S.C. 7342(f)(4) | Non-acceptance would have caused embarrassment to donor and U.S. Government.
An Agency Employee | Chased silver plated samovar, modern. H: 24 inches. Est. Value—$300.00. To be retained for official display | 5 U.S.C. 7342(f)(4) | Non-acceptance would have caused embarrassment to donor and U.S. Government.
An Agency Employee | Silver plated and partial gilt chess set and board, modern. D of board: 20 inches. H of chessmen: 3½ inches. Est. Value—$500.00. To be retained for official display | 5 U.S.C. 7342(f)(4) | Non-acceptance would have caused embarrassment to donor and U.S. Government.
An Agency Employee | Contemporary 750 (18 karat) yellow gold chain link gentleman's signate bracelet and inscribed “God Bless You” and contemporary ring, set with a round faceted brilliant cut diamond weighing approximately .10 carats. Rec'd—June 1998. Est. Value—$400.00. To be retained for official display | 5 U.S.C. 7342(f)(4) | Non-acceptance would have caused embarrassment to donor and U.S. Government.
An Agency Employee | Double strand graduated cultured pearl necklace and a pair of pendant earrings, modern, the necklaces measuring from 8 mm to 5½ mm (not individually knotted), with a silver plated clasp, the earrings set in gold-filled bowknot form tassel mounts set with a synthetic diamond, suspending a pendant pearl and a mabé pearl clasp. Rec'd—May 12, 2002. Est. Value—$750.00. To be retained for official display | 5 U.S.C. 7342(f)(4) | Non-acceptance would have caused embarrassment to donor and U.S. Government.
An Agency Employee | Contemporary diamond star-form pendant and 918 (21 karat) yellow and white gold round braided chain, the princess-type pendant set with a pavé of round faceted diamonds, total weight approximately 1 carat. Rec'd—December 23, 2002. Est. Value—$800.00. To be retained for official display | 5 U.S.C. 7342(f)(4) | Non-acceptance would have caused embarrassment to donor and U.S. Government.
An Agency Employee | Contemporary diamond star-form pendant and 918 (21 karat) yellow and white gold round braided chain, the princess-type pendant set with a pavé of round faceted diamonds, total weight approximately 1 carat. Rec'd—December 23, 2002. Est. Value—$800.00. To be retained for official display | 5 U.S.C. 7342(f)(4) | Non-acceptance would have caused embarrassment to donor and U.S. Government.
An Agency Employee | Contemporary diamond and emerald three-piece ensemble, the 14 karat yellow gold “V” pendant mount set with seven marquise faceted cut emeralds alternating with six twin round faceted melée diamonds, on a flat braided chain; together with a pair of complementary leaf-shaped pierced-type earrings, each set with three marquise faceted cut emeralds and a row of six round faceted melée diamonds. Rec'd—April 19, 1998. Est. value—$650.00. To be retained for official display | 5 U.S.C. 7342(f)(4) | Non-acceptance would have caused embarrassment to donor and U.S. Government.
An Agency Employee | Group of nine unmounted precious and semi-precious stones, consisting of: two emerald cut emeralds, two oval faceted rubies and five round faceted white sapphires. Est. value—$300.00. To be retained for official display | 5 U.S.C. 7342(f)(4) | Non-acceptance would have caused embarrassment to donor and U.S. Government.
An Agency Employee | Pair of Contemporary hallmarked 21 karat partial silver and yellow gold bangle bracelets and a ring. Rec'd—June 30, 2002. Est. value—$500.00. To be retained for official display | 5 U.S.C. 7342(f)(4) | Non-acceptance would have caused embarrassment to donor and U.S. Government.
An Agency Employee | Pair of Contemporary hallmarked 21 karat partial silver and yellow gold bangle bracelets and a ring. Rec'd—June 30, 2002. Est. value—$500.00. To be retained for official display | 5 U.S.C. 7342(f)(4) | Non-acceptance would have caused embarrassment to donor and U.S. Government.
An Agency Employee | Contemporary 750 (18 karat) white gold, diamond and sapphire dinner ring, the interlocking mount set with a row of fifteen round faceted blue sapphires surrounded by a pavé of round faceted diamonds. Rec'd—June 30, 2002. Est. value—$2,500.00. To be retained for official display | 5 U.S.C. 7342(f)(4) | Non-acceptance would have caused embarrassment to donor and U.S. Government.
An Agency Employee | Pair of Contemporary hallmarked 21 karat yellow gold polished and textured herringbone bangle bracelets, total weight approximately 1 oz. Rec'd—June 30, 2002. Est. value—$400.00. To be retained for official display | 5 U.S.C. 7342(f)(4) | Non-acceptance would have caused embarrassment to donor and U.S. Government.
An Agency Employee | Gentleman's Swiss stainless steel and black reptile bank water resistant wristwatch by Corum, in a fitted blue leather case. Rec'd—June 30, 2002. Est. value—$300.00. To be retained for official display | 5 U.S.C. 7342(f)(4) | Non-acceptance would have caused embarrassment to donor and U.S. Government.
An Agency Employee | Yellow gold mounted ivory five-piece ensemble, modern, consisting of: a leaf pendant necklace, a four-panel bracelet, a pair of pendant leaf-type earrings and a ring, in a glazed top wood case. Rec'd—July 20, 2001. Est. value—$400.00. To be retained for official display | 5 U.S.C. 7342(f)(4) | Non-acceptance would have caused embarrassment to donor and U.S. Government.
An Agency Employee | Nain partial silk and wool rug, 8 ft 10 × 8 ft 2 in, modern, green ground with palmate and trellising vine field centering a pull star medallion on ivory to blue ground, palmette and trellising vine guard boarder on ivory ground. Rec'd—April 28, 2001. Est. value—$1,500.00. To be retained for official display | 5 U.S.C. 7342(f)(4) | Non-acceptance would have caused embarrassment to donor and U.S. Government.
An Agency Employee | Kerman rug, 12 ft 6 in × 8 ft 2 in, post 1950's ivory ground with a floral spray field centering an oval medallion with complementary field on green ground, palmette and trellising vine guard border on red ground. Rec'd—May 20, 2000. Est. value—$1,000.00. To be retained for official display | 5 U.S.C. 7342(f)(4) | Non-acceptance would have caused embarrassment to donor and U.S. Government.

Amended Report
AGENCY: United States Agency for International Development
[Report of Tangible Gifts]
Name and title of person accepting gift on behalf of the U.S. Government | Gift, date of acceptance on behalf of the U.S. Government, estimated value, and current disposition or location | Identity of foreign donor and government | Circumstances justifying acceptance
Andrew Natsios, USAID Administrator | Leather rug & three pillow cushions. Est. value—$850.00. Rec'd—11/18/02. Location—Administrator's Suite | Government of Nigeria | Refusal to accept would have caused embarrassment to the donor.
Andrew Natsios, USAID Administrator | Afghanistan Rug. Est. value—$300.00. Record—12/20/02. Location—Administrator's Suite | Sayed Hussan Anwari, Min. of Agric | Refusal to accept would have caused embarrassment to the donor.

[FR Doc. 03-15209 Filed 6-20-03; 8:45 am]

BILLING CODE 4710-20-M